DEPARTMENT OF AGRICULTURE

Forest Service

36 CFR Part 242

DEPARTMENT OF THE INTERIOR

Fish and Wildlife Service

50 CFR Part 100

RIN 1018-AI06

Subsistence Management Regulations for Public Lands in Alaska, Subpart C and Subpart D—2002-2003 Subsistence Taking of Wildlife Regulations

AGENCIES: Forest Service, Agriculture; Fish and Wildlife Service, Interior.

ACTION: Proposed rule.

SUMMARY: This proposed rule would establish regulations for hunting and trapping seasons, harvest limits, methods, and means related to taking of wildlife for subsistence uses during the 2002-2003 regulatory year. The rulemaking is necessary because subpart D is subject to an annual public review cycle. When final, this rulemaking would replace the wildlife taking regulations included in the “Subsistence Management Regulations for Public Lands in Alaska, Subpart D—2001-2002 Subsistence Taking of Fish and Wildlife Regulations,” which expire on June 30, 2002. This rule would also amend the Customary and Traditional Use Determinations of the Federal Subsistence Board and the General Regulations related to the taking of wildlife.

DATES: The Federal Subsistence Board must receive your written public comments and proposals to change this proposed rule no later than October 26, 2001. Federal Subsistence Regional Advisory Councils (Regional Councils) will hold public meetings to receive proposals to change this proposed rule from September 11, 2001—October 17, 2001. See SUPPLEMENTARY INFORMATION for additional information on the public meetings.

ADDRESSES: You may submit written comments and proposals to the Office of Subsistence Management, 3601 C Street, Suite 1030, Anchorage, Alaska 99503. The public meetings will be held at various locations in Alaska. See SUPPLEMENTARY INFORMATION for additional information on locations of the public meetings.

FOR FURTHER INFORMATION CONTACT: Chair, Federal Subsistence Board, c/o U.S. Fish and Wildlife Service, Attention: Thomas H. Boyd, Office of Subsistence Management; (907) 786-3888. For questions specific to National Forest System lands, contact Ken Thompson, Regional Subsistence Program Manager, USDA, Forest Service, Alaska Region, (907) 786-3592.

SUPPLEMENTARY INFORMATION:

Public Review Process—Regulation Comments, Proposals, and Public Meetings

The Federal Subsistence Board (Board) will hold meetings on this proposed rule at the following locations in Alaska:

Region 1—Southeast Regional Council, Yakutat, October 15, 2001

Region 2—Southcentral Regional Council, Cantwell, October 1, 2001

Region 3—Kodiak/Aleutians Regional Council, Sand Point, September 19, 2001

Region 4—Bristol Bay Regional Council, Naknek, October 11, 2001

Region 5—Yukon-Kuskokwim Delta Regional Council, Anchorage, October 9, 2001

Region 6—Western Interior Regional Council, Anchorage, October 9, 2001

Region 7—Seward Peninsula Regional Council, Nome, September 13, 2001

Region 8—Northwest Arctic Regional Council, Kotzebue, October 5, 2001

Region 9—Eastern Interior Regional Council, Anchorage, October 9, 2001

Region 10—North Slope Regional Council, Barrow, September 11, 2001

We will publish notice of specific dates, times, and meeting locations in local and statewide newspapers prior to the meetings. We may need to change locations and dates based on weather or local circumstances. The amount of work on each Regional Council,'s agenda will determine the length of the Regional Council, meetings.

We will compile and distribute for additional public review during early November 2001 the written proposals to change Subpart D hunting and trapping regulations and customary and traditional use determinations in Subpart C. A 30-day public comment period will follow distribution of the compiled proposal packet. We will accept written public comments on distributed proposals during the public comment period which is presently scheduled to end on January 11, 2002.

We will hold a second series of Regional Council meetings in February and March 2002, to assist the Regional Councils in developing recommendations to the Board. You may also present comments on published proposals to change hunting and trapping and customary and traditional use determination regulations to the Regional Councils at those winter meetings.

The Board will discuss and evaluate proposed changes to this rule during a public meeting scheduled to be held in Anchorage, May 2002. You may provide additional oral testimony on specific proposals before the Board at that time. The Board will then deliberate and take final action on proposals received that request changes to this proposed rule at that public meeting. Because this rule relates to public lands managed by an agency or agencies in both the Departments of Agriculture and the Interior, identical text based upon approved proposals would be incorporated into 36 CFR part 242 and 50 CFR part 100.

Please Note: The Board will not consider proposals for changes relating to fish or shellfish regulations at this time. The Board will be calling for proposed changes to those regulations in January 2002.

The Board's review of your comments and wildlife proposals will be facilitated by you providing the following information: (a) Your name, address, and telephone number; (b) the section and/or paragraph of the proposed rule for which your change is being suggested; (c) a statement explaining why the change is necessary; (d) the proposed wording change; (e) any additional information you believe will help the Board in evaluating your proposal. Proposals that fail to include the above information, or proposals that are beyond the scope of authorities in § __.24, Subpart C and §§ __.25 or __.26, Subpart D, of 36 CFR part 242 and 50 CFR part 100, may be rejected. The Board may defer review and action on some proposals if workload exceeds work capacity of staff, Regional Councils, or Board. These deferrals will be based on recommendations of the affected Regional Council, staff members, and on the basis of least harm to the subsistence user and the resource involved. Proposals should be specific to customary and traditional use determinations or to subsistence hunting and trapping seasons, harvest limits, and/or methods and means.

Background

Title VIII of the Alaska National Interest Lands Conservation Act (ANILCA) (16 U.S.C. 3111-3126) requires that the Secretary of the Interior and the Secretary of Agriculture (Secretaries) implement a joint program to grant a preference for subsistence uses of fish and wildlife resources on public lands, unless the State of Alaska enacts and implements laws of general applicability that are consistent with ANILCA and that provide for the subsistence definition, preference, and participation specified in sections 803, 804, and 805 of ANILCA. The State implemented a program that the Department of the Interior previously found to be consistent with ANILCA. However, in December 1989, the Alaska Supreme Court ruled in McDowell v. State of Alaska that the rural preference in the State subsistence statute violated the Alaska Constitution. The Court's ruling in McDowell required the State to delete the rural preference from the subsistence statute and, therefore, negated State compliance with ANILCA. The Court stayed the effect of the decision until July 1, 1990.

As a result of the McDowell decision, the Department of the Interior and the Department of Agriculture (Departments) assumed, on July 1, 1990, responsibility for implementation of Title VIII of ANILCA on public lands. On June 29, 1990, the Temporary Subsistence Management Regulations for Public Lands in Alaska were published in the Federal Register (55 FR 27114-27170). Consistent with subparts A, B, and C of these regulations, as revised June 12, 2001, (66 FR 31533), the Departments established a Federal Subsistence Board to administer the Federal Subsistence Management Program. The Board's composition includes a Chair appointed by the Secretary of the Interior with concurrence of the Secretary of Agriculture; the Alaska Regional Director, U.S. Fish and Wildlife Service; the Alaska Regional Director, U.S. National Park Service; the Alaska State Director, U.S. Bureau of Land Management; the Alaska Regional Director, U.S. Bureau of Indian Affairs; and the Alaska Regional Forester, USDA Forest Service. Through the Board, these agencies participate in the development of regulations for Subparts A, B, and C, and the annual Subpart D regulations.

All Board members have reviewed this rule and agree with its substance. Because this rule relates to public lands managed by an agency or agencies in both the Departments of Agriculture and the Interior, identical text would be incorporated into 36 CFR part 242 and 50 CFR part 100.

Applicability of Subparts A, B, and C

Subparts A, B, and C (unless otherwise amended) of the Subsistence Management Regulations for Public Lands in Alaska, 50 CFR 100.1 to 100.23 and 36 CFR 242.1 to 242.23, remain effective and apply to this rule. Therefore, all definitions located at 50 CFR 100.4 and 36 CFR 242.4 would apply to regulations found in this subpart.

Federal Subsistence Regional Advisory Councils

Pursuant to the Record of Decision, Subsistence Management Regulations for Federal Public Lands in Alaska, April 6, 1992, and the Subsistence Management Regulations for Federal Public Lands in Alaska, 36 CFR 242.11 (2001) and 50 CFR 100.11 (2001), and for the purposes identified therein, we divide Alaska into ten subsistence resource regions, each of which is represented by a Regional Council. The Regional Councils provide a forum for rural residents with personal knowledge of local conditions and resource requirements to have a meaningful role in the subsistence management of fish and wildlife on Alaska public lands. The Regional Council members represent varied geographical, cultural, and user diversity within each region.

The Regional Councils have a substantial role in reviewing the proposed rule and making recommendations for the final rule. Moreover, the Council Chairs, or their designated representatives, will present their Council's recommendations at the Board meeting in May 2002.

Proposed Changes From 2001-2002 Seasons and Bag Limit Regulations

Subpart D regulations are subject to an annual cycle and require development of an entire new rule each year. Customary and traditional use determinations (§ __.24 of Subpart C) are also subject to an annual review process providing for modification each year. The text of the 2001-2002 subparts C and D final rule, with two modifications, served as the foundation for the 2002-2003 subparts C and D proposed rule. One modification would revert the deer harvest limit in Unit 8 to five deer as had been in effect prior to the Board making a reduction to the harvest limit based on a Special Action request by the Kodiak-Aleutians Regional Advisory Council. The second modification removed an inconsistency in harvest requirements for caribou in a portion of Unit 25. The regulations contained in this proposed rule will take effect on July 1, 2002, unless elements are changed by subsequent Board action following the public review process outlined herein.

Conformance With Statutory and Regulatory Authorities

National Environmental Policy Act Compliance

A Draft Environmental Impact Statement (DEIS) that described four alternatives for developing a Federal Subsistence Management Program was distributed for public comment on October 7, 1991. That document described the major issues associated with Federal subsistence management as identified through public meetings, written comments, and staff analysis and examined the environmental consequences of the four alternatives. Proposed regulations (Subparts A, B, and C) that would implement the preferred alternative were included in the DEIS as an appendix. The DEIS and the proposed administrative regulations presented a framework for an annual regulatory cycle regarding subsistence hunting and fishing regulations (Subpart D). The Final Environmental Impact Statement (FEIS) was published on February 28, 1992.

Based on the public comment received, the analysis contained in the FEIS, and the recommendations of the Federal Subsistence Board and the Department of the Interior's Subsistence Policy Group, it was the decision of the Secretary of the Interior, with the concurrence of the Secretary of Agriculture, through the U.S. Department of Agriculture-Forest Service, to implement Alternative IV as identified in the DEIS and FEIS (Record of Decision on Subsistence Management for Federal Public Lands in Alaska (ROD), signed April 6, 1992). The DEIS and the selected alternative in the FEIS defined the administrative framework of an annual regulatory cycle for subsistence hunting and fishing regulations. The final rule for Subsistence Management Regulations for Public Lands in Alaska, Subparts A, B, and C (57 FR 22940-22964, published May 29, 1992) implemented the Federal Subsistence Management Program and included a framework for an annual cycle for subsistence hunting and fishing regulations.

An environmental assessment has been prepared on the expansion of Federal jurisdiction over fisheries and is available by contacting the office listed under FOR FURTHER INFORMATION CONTACT. The Secretary of the Interior with the concurrence of the Secretary of Agriculture determined that the expansion of Federal jurisdiction does not constitute a major Federal action, significantly affecting the human environment and has, therefore, signed a Finding of No Significant Impact.

Compliance with Section 810 of ANILCA

A section 810 analysis was completed as part of the FEIS process on the Federal Subsistence Management Program. The intent of all Federal subsistence regulations is to accord subsistence uses of fish and wildlife on public lands a priority over the taking of fish and wildlife on such lands for other purposes, unless restriction is necessary to conserve healthy fish and wildlife populations. The final section 810 analysis determination appeared in the April 6, 1992, ROD which concluded that the Federal Subsistence Management Program, under Alternative IV with an annual process for setting hunting and fishing regulations, may have some local impacts on subsistence uses, but it does not appear that the program may significantly restrict subsistence uses.

During the environmental assessment process, an evaluation of the effects of this rule was also conducted in accordance with section 810. This evaluation supports the Secretaries' determination that the rule will not reach the “may significantly restrict” threshold for notice and hearings under ANILCA Section 810(a) for any subsistence resources or uses.

Paperwork Reduction Act

This rule contains information collection requirements subject to Office of Management and Budget (OMB) approval under the Paperwork Reduction Act of 1995. It applies to the use of public lands in Alaska. The information collection requirements are approved by OMB under 44 U.S.C. 3501 and have been assigned control number 1018-0075, which expires July 31, 2003. Federal agencies may not conduct or sponsor, and a person is not required to respond to, a collection of information unless it displays a current valid OMB control number.

Currently, information is being collected by the use of a Federal Subsistence Registration Permit and Designated Hunter Application. The information collected on these two permits establishes whether an applicant qualifies to participate in a Federal subsistence hunt on public land in Alaska and provides a report of harvest and the location of harvest. The collected information is necessary to determine harvest success, harvest location, and population health in order to make management decisions relative to the conservation of healthy wildlife populations. Additional harvest information is obtained from harvest reports submitted to the State of Alaska. The recordkeeping burden for this aspect of the program is negligible (1 hour or less). This information is accessed via computer data base.

Form | Estimated number of respondents | Completion time for each form | Estimated annual response | Estimated annual burden hours | Hourly cost for respondent | Financial burden on respondents
Federal Subsistence Registration Permit | 5,000 | ¼ hour | 5,000 | 1,250 | $20.00 | $5.00 each or $25,000 total.
Designated Hunter Application | 2,000 | ¼ hour | 2,000 | 500 | 20.00 | $5.00 each or $10,000 total.

You may direct comments on the burden estimate or any other aspect of this form to: Information Collection Officer, U.S. Fish and Wildlife Service, 1849 C Street, NW., MS 224 ARLSQ, Washington, DC 20240; and the Office of Management and Budget, Paperwork Reduction Project (Subsistence), Washington, DC 20503. Additional information collection requirements may be imposed if local advisory committees subject to the Federal Advisory Committee Act are established under subpart B. Such requirements will be submitted to OMB for approval prior to their implementation.

Economic Effects

This rule is not a significant rule subject to OMB review under Executive Order 12866. This rulemaking will impose no significant costs on small entities; this rule does not restrict any existing sport or commercial fishery on the public lands and subsistence fisheries will continue at essentially the same levels as they presently occur. The exact number of businesses and the amount of trade that will result from this Federal land-related activity is unknown. The aggregate effect is an insignificant positive economic effect on a number of small entities, such as ammunition, snowmachine, and gasoline dealers. The number of small entities affected is unknown; but, the fact that the positive effects will be seasonal in nature and will, in most cases, merely continue preexisting uses of public lands indicates that they will not be significant.

In general, the resources to be harvested under this rule are already being harvested and consumed by the local harvester and do not result in an additional dollar benefit to the economy. However, we estimate that 2 million pounds of meat are harvested by subsistence users annually and, if given an estimated dollar value of $3.00 per pound, would equate to about $6 million in food value state-wide.

The Regulatory Flexibility Act of 1980 (5 U.S.C. 601 et seq.) requires preparation of flexibility analyses for rules that will have a significant effect on a substantial number of small entities, which include small businesses, organizations or governmental jurisdictions. The Departments certify based on the above figures that this rulemaking will not have a significant economic effect on a substantial number of small entities within the meaning of the Regulatory Flexibility Act. Under the Small Business Regulatory Enforcement Act (5 U.S.C. 801 et seq.), this rule is not a major rule. It does not have an effect on the economy of $100 million or more, will not cause a major increase in costs or prices for consumers, and does not have significant adverse effects on competition, employment, investment, productivity, innovation, or the ability of U.S.-based enterprises to compete with foreign-based enterprises.

Title VIII of ANILCA requires the Secretaries to administer a subsistence priority on public lands. The scope of this program is limited by definition to certain public lands. Likewise, these regulations have no potential takings of private property implications as defined by Executive Order 12630.

The Secretaries have determined and certify pursuant to the Unfunded Mandates Reform Act, 2 U.S.C. 1502 et seq., that this rulemaking will not impose a cost of $100 million or more in any given year on local or state governments or private entities. The implementation of this rule is by Federal agencies and there is no cost imposed on any state or local entities or tribal governments.

The Secretaries have determined that these regulations meet the applicable standards provided in sections 3(a) and 3(b)(2) of Executive Order 12988, regarding civil justice reform.

In accordance with Executive Order 13132, the rule does not have sufficient federalism implications to warrant the preparation of a Federalism Assessment. Title VIII of ANILCA precludes the State from exercising subsistence management authority over fish and wildlife resources on Federal lands unless it meets certain requirements.

In accordance with the President's memorandum of April 29, 1994, “Government-to-Government Relations with Native American Tribal Governments” (59 FR 22951), Executive Order 13175, and 512 DM 2, we have evaluated possible effects on Federally recognized Indian tribes and have determined that there are no effects. The Bureau of Indian Affairs is a participating agency in this rulemaking.

On May 18, 2001, the President issued Executive Order 13211 on regulations that significantly affect energy supply, distribution, or use. This Executive Order requires agencies to prepare Statements of Energy Effects when undertaking certain actions. As this rule is not a significant regulatory action under Executive Order 12866 affecting energy supply, distribution, or use, this action is not a significant energy action and no Statement of Energy Effects is required.

Drafting Information

William Knauer drafted these regulations under the guidance of Thomas H. Boyd, of the Office of Subsistence Management, Alaska Regional Office, U.S. Fish and Wildlife Service, Anchorage, Alaska. Taylor Brelsford, Alaska State Office, Bureau of Land Management; Sandy Rabinowitch, Alaska Regional Office, National Park Service; Ida Hildebrand, Alaska Regional Office, Bureau of Indian Affairs; Greg Bos, Alaska Regional Office, U.S. Fish and Wildlife Service; and Ken Thompson, USDA-Forest Service provided additional guidance.

List of Subjects

36 CFR Part 242

Administrative practice and procedure, Alaska, Fish, National forests, Public lands, Reporting and recordkeeping requirements, Wildlife.

50 CFR Part 100

Administrative practice and procedure, Alaska, Fish, National forests, Public lands, Reporting and recordkeeping requirements, Wildlife.

For the reasons set out in the preamble, the Federal Subsistence Board proposes to amend Title 36, part 242, and Title 50, part 100, of the Code of Federal Regulations, as set forth below.

PART__—SUBSISTENCE MANAGEMENT REGULATIONS FOR PUBLIC LANDS IN ALASKA

1. The authority citation for both 36 CFR part 242 and 50 CFR pPart 100 continues to read as follows:

Authority: 16 U.S.C. 3, 472, 551, 668dd, 3101-3126; 18 U.S.C. 3551-3586; 43 U.S.C. 1733.

Subpart C—Board Determinations

2. In Subpart C of 36 CFR part 242 and 50 CFR part 100, § ___.24(a)(1) is revised to read as follows:

§ ___.24 Customary and traditional use determinations.

(a) * * *

(1) Wildlife determinations. The rural Alaska residents of the listed communities and areas have a customary and traditional use of the specified species on Federal public lands within the following listed areas:

Area | Species | Determination
Unit 1(C) | Black Bear | Residents of Unit 1(C), 1(D), 3, and residents of Hoonah, Pelican, Point Baker, Sitka, and Tenakee Springs.
1(A) | Brown Bear | Residents of Unit 1(A) except no subsistence for residents of Hyder.
1(B) | Brown Bear | Residents of Unit 1(A), Petersburg, and Wrangell, except no subsistence for residents of Hyder.
1(C) | Brown Bear | Residents of Unit 1(C), Haines, Hoonah, Kake, Klukwan, Skagway, and Wrangell, except no subsistence for residents of Gustavus.
1(D) | Brown Bear | Residents of 1(D).
1(A) | Deer | Residents of 1(A) and 2.
1(B) | Deer | Residents of Unit 1(A), residents of 1(B), 2 and 3.
1(C) | Deer | Residents of 1(C) and (D), and residents of Hoonah, Kake, and Petersburg.
1(D) | Deer | No Federal subsistence priority.
1(B) | Goat | Residents of Units 1(B) and 3.
1(C) | Goat | Residents of Haines, Kake, Klukwan, Petersburg, and Hoonah.
1(B) | Moose | Residents of Units 1, 2, 3, and 4.
1(C) Berner's Bay | Moose | No Federal subsistence priority.
1(D) | Moose | Residents of Unit 1(D).
Unit 2 | Brown Bear | No Federal subsistence priority.
2 | Deer | Residents of Unit 1(A) and residents of Units 2 and 3.
Unit 3 | Deer | Residents of Unit 1(B) and 3, and residents of Port Alexander, Port Protection, Pt. Baker, and Meyer's Chuck.
3, Wrangell and Mitkof Islands | Moose | Residents of Units 1(B), 2, and 3.
Unit 4 | Brown Bear | Residents of Unit 4 and Kake.
4 | Deer | Residents of Unit 4 and residents of Kake, Gustavus, Haines, Petersburg, Pt. Baker, Klukwan, Port Protection, Wrangell, and Yakutat.
4 | Goat | Residents of Sitka, Hoonah, Tenakee, Pelican, Funter Bay, Angoon, Port Alexander, and Elfin Cove.
Unit 5 | Black Bear | Residents of Unit 5(A).
5 | Brown Bear | Residents of Yakutat.
5 | Deer | Residents of Yakutat.
5 | Goat | Residents of Unit 5(A)
5 | Moose | Residents of Unit 5(A).
5 | Wolf | Residents of Unit 5(A).
Unit 6(A) | Black Bear | Residents of Yakutat and residents of 6(C) and 6(D), except no subsistence for Whittier.
6, remainder | Black Bear | Residents of Unit 6(C) and 6(D), except no subsistence for Whittier.
6 | Brown Bear | No Federal subsistence priority.
6(A) | Goat | Residents of Unit 5(A), 6(C), Chenega Bay and Tatitlek.
6(C) and (D) | Goat | Residents of Unit 6(C) and (D).
6(A) | Moose | Unit 6(A)—Residents of Units 5(A), 6(A), 6(B) and 6(C).
6(B) and (C) | Moose | Residents of Units 6(A), 6(B) and 6(C).
6(D) | Moose | No Federal subsistence priority.
6(A) | Wolf | Residents of Units 5(A), 6, 9, 10(Unimak Island only), 11-13 and the residents of Chickaloon, and 16-26.
6, remainder | Wolf | Residents of Units 6, 9, 10 (Unimak Island only), 11-13 and the residents of Chickaloon and 16-26.
Unit 7 | Brown Bear | No Federal subsistence priority.
7 | Caribou | No Federal subsistence priority.
7, Brown Mountain hunt area | Goat | Residents of Port Graham and English Bay.
7, that portion draining into Kings Bay | Moose | Residents of Chenega Bay and Tatitlek.
7, remainder | Moose | No Federal subsistence priority.
7 | Sheep | No Federal subsistence priority.
Unit 8 | Brown Bear | Residents of Old Harbor, Akhiok, Larsen Bay, Karluk, Ouzinkie, and Port Lions.
8 | Deer | Residents of Unit 8.
8 | Elk | Residents of Unit 8.
8 | Goat | No Federal subsistence priority.
Unit 9(D) | Bison | No Federal subsistence priority.
9(A) and (B) | Black Bear | Residents of Units 9(A) and (B), and 17(A), (B), and (C).
9(A) | Brown Bear | Residents of Pedro Bay.
9(B) | Brown Bear | Residents of Unit 9(B).
9(C) | Brown Bear | Residents of Unit 9(C).
9(D) | Brown Bear | Residents of Units 9(D) and 10 (Unimak Island).
9(E) | Brown Bear | Residents of Chignik, Chignik Lagoon, Chignik Lake, Egegik, Ivanof Bay, Perryville, Pilot Point, Ugashik, and Port Heiden/Meshik.
9(A) and (B) | Caribou | Residents of Units 9(B), 9(C) and 17.
9(C) | Caribou | Residents of Unit 9(B), 9(C), and 17 and residents of Egegik.
9(D) | Caribou | Residents of Unit 9(D), and residents of Akutan, False Pass.
9(E) | Caribou | Residents of Units 9(B), (C), (E), 17, residents of Nelson Lagoon and Sand Point.
9(A), (B), (C) and (E) | Moose | Residents of Unit 9(A), (B), (C) and (E).
9(D) | Moose | Residents of Cold Bay, False Pass, King Cove, Nelson Lagoon, and Sand Point.
9(B) | Sheep | Residents of Iliamna, Newhalen, Nondalton, Pedro Bay, Port Alsworth, and residents of Lake Clark National Park and Preserve within Unit 9(B).
9, remainder | Sheep | No determination.
9 | Wolf | Residents of Units 6, 9, 10 (Unimak Island only), 11-13 and the residents of Chickaloon and 16-26.
9(A), (B), (C), & (E) | Beaver | Residents of Units 9(A), (B), (C), (E), and 17.
Unit 10 Unimak Island | Brown Bear | Residents of Units 9(D) and 10 (Unimak Island).
Unit 10 | Caribou | Residents of Akutan, False Pass, King Cove, and Sand Point.
10, remainder | Caribou | No determination.
10 | Wolf | Residents of Units 6, 9, 10 (Unimak Island only), 11-13 and the residents of Chickaloon and 16-26.
Unit 11 | Bison | No Federal subsistence priority.
11, north of the Sanford River | Black Bear | Residents of Chistochina, Chitina, Copper Center, Gakona, Glennallen, Gulkana, Kenny Lake, Mentasta Lake, Slana, Tazlina, Tonsina, and Units 11 and 12.
11, remainder | Black Bear | Residents of Chistochina, Chitina, Copper Center, Gakona, Glenallen, Gulkana, Kenny Lake, Mentasta Lake, Slana, Tazlina, Tonsina, and Unit 11.
11, north of the Sanford River | Brown Bear | Residents of Chistochina, Chitina, Copper Center, Gakona, Glennallen, Gulkana, Kenny Lake, Mentasta Lake, Slana, Tazlina, Tonsina, and Units 11 and 12.
11, remainder | Brown Bear | Residents of Chistochina, Chitina, Copper Center, Gakona, Glennallen, Gulkana, Kenny Lake, Mentasta Lake, Slana, Tazlina, Tonsina, and Unit 11.
11, north of the Sanford River | Caribou | Residents of Units 11, 12, and 13 (A)-(D) and the residents of Chickaloon, Healy Lake, and Dot Lake.
11, remainder | Caribou | Residents of Units 11 and 13 (A)-(D) and the residents of Chickaloon.
11 | Goat | Residents of Unit 11 and the residents of Chitina, Chistochina, Copper Center, Gakona, Glennallen, Gulkana, Mentasta Lake, Slana, Tazlina, Tonsina, and Dot Lake.
11, north of the Sanford River | Moose | Residents of Units 11, 12, and 13 (A)-(D) and the residents of Chickaloon, Healy Lake, and Dot Lake.
11, remainder | Moose | Residents of Units 11, 13 (A)-(D), and residents of Chickaloon.
11, north of the Sanford River | Sheep | Residents of Unit 12 and the communities and areas of Chistochina, Chitina, Copper Center, Dot Lake, Gakona, Glennallen, Gulkana, Healy Lake, Kenny Lake, Mentasta Lake, Slana, McCarthy/South Wrangell/South Park, Tazlina and Tonsina; residents along the Nabesna Road—Milepost 0-46 (Nabesna Road), and residents along the McCarthy Road—Milepost 0-62 (McCarthy Road).
11, remainder | Sheep | Residents of the communities and areas of Chisana, Chistochina, Chitina, Copper Center, Gakona, Glennallen, Gulkana, Kenny Lake, Mentasta Lake, Slana, McCarthy/South Wrangell/South Park, Tazlina and Tonsina; residents along the Tok Cutoff—Milepost 79-110 (Mentasta Pass), residents along the Nabesna Road—Milepost 0-46 (Nabesna Road), and residents along the McCarthy Road—Milepost 0-62 (McCarthy Road).
11 | Wolf | Residents of Units 6, 9, 10 (Unimak Island only), 11-13 and the residents of Chickaloon and 16-26.
11 | Grouse (Spruce, Blue, Ruffed and Sharp-tailed) | Residents of Units 11, 12, 13 and the residents of Chickaloon, 15, 16, 20(D), 22, and 23.
Unit 12 | Brown Bear | Residents of Unit 12 and Dot Lake, Chistochina, Gakona, Mentasta Lake, and Slana.
12 | Caribou | Residents of Unit 12 and residents of Dot Lake, Healy Lake, and Mentasta Lake.
12, south of a line from Noyes Mountain, southeast of the confluence of Tatschunda Creek to Nabesna River | Moose | Residents of Unit 11 north of 62nd parallel, residents of Unit 12, 13(A)-(D) and the residents of Chickaloon, Dot Lake, and Healy Lake.
12, east of the Nabesna River and Nabesna Glacier, south of the Winter Trail from Pickerel Lake to the Canadian Border | Moose | Residents of Unit 12 and Healy Lake.
12, remainder | Moose | Residents of Unit 12 and residents of Dot Lake, Healy Lake, and Mentasta Lake.
12 | Sheep | Residents of Unit 12 and residents of Chistochina, Dot Lake, Healy Lake, and Mentasta Lake.
12 | Wolf | Residents of Units 6, 9, 10 (Unimak Island only), 11-13 and the residents of Chickaloon and 16-26.
Unit 13 | Brown Bear | Residents of Unit 13 and Slana.
13(B) | Caribou | Residents of Unit 11, 12 (along the Nabesna Road), 13, residents of Unit 20(D) except Fort Greely, and the residents of Chickaloon.
13(C) | Caribou | Residents of Units 11, 12 (along the Nabesna Road), 13, and the residents of Chickaloon, Dot Lake and Healy Lake.
13(A) & (D) | Caribou | Residents of Units 11, 12 (along the Nabesna Road), 13, and the residents of Chickaloon.
13(E) | Caribou | Residents of Units 11, 12 (along the Nabesna Road), 13, and the residents of Chickaloon, McKinley Village, and the area along the Parks Highway between milepost 216 and 239 (except no subsistence for residents of Denali National Park headquarters).
13(D) | Goat | No Federal subsistence priority.
13(A) and (D) | Moose | Residents of Unit 13 and the residents of Chickaloon and Slana.
13(B) | Moose | Residents of Units 13, 20(D) except Fort Greely, and the residents of Chickaloon and Slana.
13(C) | Moose | Residents of Units 12, 13 and the residents of Chickaloon, Healy Lake, Dot Lake and Slana.
13(E) | Moose | Residents of Unit 13 and the residents of Chickaloon McKinley Village, Slana, and the area along the Parks Highway between milepost 216 and 239 (except no subsistence for residents of Denali National Park headquarters).
13(D) | Sheep | No Federal subsistence priority.
13 | Wolf | Residents of Units 6, 9, 10 (Unimak Island only), 11-13 and the residents of Chickaloon, and 16-26.
13 | Grouse (Spruce, Blue, Ruffed & Sharp-tailed) | Residents of Units 11, 13 and the residents of Chickaloon, 15, 16, 20(D), 22, & 23.
13 | Ptarmigan (Rock, Willow and White-tailed) | Residents of Units 11, 13 and the residents of Chickaloon, 15, 16, 20(D), 22, & 23.
Unit 14(B) and (C) | Brown Bear | No Federal subsistence priority.
14 | Goat | No Federal subsistence priority.
14 | Moose | No Federal subsistence priority.
14(A) and (C) | Sheep | No Federal subsistence priority.
Unit 15(C) | Black Bear | Residents of Port Graham and Nanwalek only.
15, remainder | Black Bear | No Federal subsistence priority.
15 | Brown Bear | No Federal subsistence priority.
15(C), Port Graham and English Bay hunt areas | Goat | Residents of Port Graham and Nanwlek.
15(C), Seldovia hunt area | Goat | Residents Seldovia area.
15 | Moose | Residents of Ninilchik, Nanwalek, Port Graham, and Seldovia.
15 | Sheep | No Federal subsistence priority.
15 | Ptarmigan (Rock, Willow and White-tailed) | Residents of Unit 15.
15 | Grouse (Spruce) | Residents of Unit 15.
15 | Grouse (Ruffed) | No Federal subsistence priority.
Unit 16(B) | Black Bear | Residents of Unit 16(B).
16 | Brown Bear | No Federal subsistence priority.
16(A) | Moose | No Federal subsistence priority.
16(B) | Moose | Residents of Unit 16(B).
16 | Sheep | No Federal subsistence priority.
16 | Wolf | Residents of Units 6, 9, 10 (Unimak Island only), 11-13 and the residents of Chickaloon, and 16-26.
16 | Grouse (Spruce and Ruffed) | Residents of Units 11, 13 and the residents of Chickaloon, 15, 16, 20(D), 22 and 23.
16 | Ptarmigan (Rock, Willow and White-tailed) | Residents of Units 11, 13 and the residents of Chickaloon, 15, 16, 20(D), 22 and 23.
Unit 17(A) and that portion of 17(B) draining into Nuyakuk Lake and Tikchik Lake | Black Bear | Residents of Units 9(A) and (B), 17, and residents of Akiak and Akiachak.
17, remainder | Black Bear | Residents of Units 9(A) and (B), and 17.
17(A) | Brown Bear | Residents of Unit 17, and residents of Akiak, Akiachak, Goodnews Bay and Platinum.
17(B) and (B), those portions north and west of a line beginning from the Unit 18 boundary at the northwest end of Nenevok Lake, to the southern point of upper Togiak Lake, and northeast to the northern point of Nayakuk Lake, northeast to the point where the Unit 17 boundary intersects the Shotgun Hills | Brown Bear | Residents of Kwethluk.
17(B), that portion draining into Nuyakuk Lake and Tikchik Lake | Brown Bear | Residents of Akiak and Akiachak.
17(B) and (C) | Brown Bear | Residents of Unit 17.
17 | Caribou | Residents of Units 9(B), 17 and residents of Lime Village and Stony River.
Unit 17(A), that portion west of the Izavieknik River, Upper Togiak Lake, Togiak Lake, and the main course of the Togiak River | Caribou | Residents of Goodnews Bay, Platinum, Quinhagak, Eek, Tuntutuliak, Napakiak.
Unit 17(A)—That portion north of Togiak Lake that includes Izavieknik River drainages | Caribou | Residents of Akiak, Akiachak, and Tuluksak.
17(A) and (B), those portions north and west of a line beginning from the Unit 18 boundary at the northwest end of Nenevok Lake, to the southern point of upper Togiak Lake, and northeast to the northern point of Nuyakuk Lake, northeast to the point where the Unit 17 boundary intersects the Shotgun Hills | Caribou | Residents of Kwethluk.
Unit 17(B), that portion of Togiak National Wildlife Refuge within Unit 17(B) | Caribou | Residents of Bethel, Goodnews Bay, Platinum, Quinhagak, Eek, Akiak, Akiachak, and Tulukasak, Tuntutuliak, and Napakiak.
17(A) and (B), those portions north and west of a line beginning from the Unit 18 boundary at the northwest end of Nenevok Lake, to the southern point of upper Togiak Lake, and northeast to the northern point of Nuyakuk Lake, northeast to the point where the Unit 17 boundary intersects the Shotgun Hills | Moose | Residents of Kwethluk.
17(A) | Moose | Residents of Unit 17 and residents of Goodnews Bay and Platinum; however, no subsistence for residents of Akiachak, Akiak and Quinhagak.
Unit 17(A)—That portion north of Togiak Lake that includes Izavieknik River drainages | Moose | Residents of Akiak, Akiachak.
Unit 17(B)—That portion within the Togiak National Wildlife Refuge | Moose | Residents of Akiak, Akiachak.
17(B) and (C) | Moose | Residents of Unit 17, and residents of Nondalton, Leverlock, Goodnews Bay, and Platinum.
17 | Wolf | Residents of Units 6, 9, 10 (Unimak Island only), 11-13 and the residents of Chickaloon, and 16-26.
17 | Beaver | Residents of Units 9(A), (B), (C), (E), and 17.
Unit 18 | Black Bear | Residents of Unit 18, residents of Unit 19(A) living downstream of the Holokuk River, and residents of Holy Cross, Stebbins, St. Michael, Twin Hills, and Togiak.
18 | Brown Bear | Residents of Akiachak, Akiak, Eek, Goodnews Bay, Kwethluk, Mt. Village, Napaskiak, Platinum, Quinhagak, St. Mary's, and Tuluksak.
18 | Caribou (Kilbuck caribou herd only) | INTERIM DETERMINATION BY FEDERAL SUBSISTENCE BOARD (12/18/91): residents of Tuluksak, Akiak, Akiachak, Kwethluk, Bethel, Oscarville, Napaskiak, Napakiak, Kasigluk, Atmanthluak, Nunapitchuk, Tuntutuliak, Eek, Quinhagak, Goodnews Bay, Platinum, Togiak, and Twin Hills.
18, north of the Yukon River | Caribou (except Kilbuck caribou herd) | Residents of Alakanuk, Andreafsky, Chevak, Emmonak, Hooper Bay, Kotlik, Kwethluk, Marshall, Mountain Village, Pilot Station, Pitka's Point, Russian Mission, St. Marys, St. Michael, Scammon Bay, Nunam Iqua, and Stebbins.
18, remainder | Caribou (except Kilbuck caribou herd) | Residents of Kwethluk.
18, that portion of the Yukon River drainage upstream of Russian Mission and that portion of the Kuskokwim River drainage upstream of, but not including the Tuluksak River drainage | Moose | Residents of Unit 18 and residents of Upper Kalskag, Lower Kalskag, Aniak, and Chuathbaluk.
18, remainder | Moose | Residents of Unit 18 and residents of Upper Kalskag and Lower Kalskag.
18 | Muskox | No Federal subsistence priority.
18 | Wolf | Residents of Units 6, 9, 10 (Unimak Island only), 11-13 and the residents of Chickaloon and 16-26.
Unit 19(C),(D) | Bison | No Federal subsistence priority.
19(A) and (B) | Brown Bear | Residents of Units 19 and 18 within the Kuskokwim River drainage upstream from, and including, the Johnson River.
19(C) | Brown Bear | No Federal subsistence priority.
19(D) | Brown Bear | Residents of Units 19(A) and (D), and residents of Tulusak and Lower Kalskag.
19(A) and (B) | Caribou | Residents of Units 19(A) and 19(B), residents of Unit 18 within the Kuskokwim River drainage upstream from, and including, the Johnson River, and residents of St. Marys, Marshall, Pilot Station, Russian Mission.
19(C) | Caribou | Residents of Unit 19(C), and residents of Lime Village, McGrath, Nikolai, and Telida.
19(D) | Caribou | Residents of Unit 19(D), and residents of Lime Village, Sleetmute, and Stony River.
19(A) and (B) | Moose | Residents of Unit 18 within Kuskokwim River drainage upstream from and including the Johnson River, and Unit 19.
Unit 19(B), west of the Kogrukluk River | Moose | Residents of Eek and Quinhagak.
19(C) | Moose | Residents of Unit 19.
19(D) | Moose | Residents of Unit 19 and residents of Lake Minchumina.
19 | Wolf | Residents of Units 6, 9, 10 (Unimak Island only), 11-13 and the residents of Chickaloon and 16-26.
Unit 20(D) | Bison | No Federal subsistence priority.
20(F) | Black Bear | Residents of Unit 20(F) and residents of Stevens Village and Manley.
20(E) | Brown Bear | Residents of Unit 12 and Dot Lake.
20(F) | Brown Bear | Residents of Unit 20(F) and residents of Stevens Village and Manley.
20(A) | Caribou | Residents of Cantwell, Nenana, and those domiciled between milepost 216 and 239 of the Parks Highway. No subsistence priority for residents of households of the Denali National Park Headquarters.
20(B) | Caribou | Residents of Unit 20(B), Nenana, and Tanana.
20(C) | Caribou | Residents of Unit 20(C) living east of the Teklanika River, residents of Cantwell, Lake Minchumina, Manley Hot Springs, Minto, Nenena, Nikolai, Tanana, Talida, and those domiciled between milepost 216 and 239 of the Parks Highway and between milepost 300 and 309. No subsistence priority for residents of households of the Denali National Park Headquarters.
20(D) and (E) | Caribou | Residents of 20(D), 20(E), and Unit 12 north of the Wrangell-St. Elias National Park and Preserve.
20(F) | Caribou | Residents of 20(F), 25(D), and Manley.
20(A) | Moose | Residents of Cantwell, Minto, and Nenana, McKinley Village, the area along the Parks Highway between mileposts 216 and 239, except no subsistence for residents of households of the Denali National Park Headquarters.
20(B) | Moose | Minto Flats Management Area—residents of Minto and Nenana.
20(B) | Moose | Remainder—residents of Unit 20(B), and residents of Nenana and Tanana.
20(C) | Moose | Residents of Unit 20(C) (except that portion within Denali National Park and Preserve and that portion east of the Teklanika River), and residents of Cantwell, Manley, Minto, Nenana, the Parks Highway from milepost 300-309, Nikolai, Tanana, Telida, McKinley Village, and the area along the Parks Highway between mileposts 216 and 239. No subsistence for residents of households of the Denali National Park Headquarters.
20(D) | Moose | Residents of Unit 20(D) and residents of Tanacross.
20(F) | Moose | Residents of Unit 20(F), Manley, Minto, and Stevens Village.
20(F) | Wolf | Residents of Unit 20(F) and residents of Stevens Village and Manley.
20, remainder | Wolf | Residents of Units 6, 9, 10 (Unimak Island only), 11-13 and the residents of Chickaloon and 16-26.
20(D) | Grouse, (Spruce, Ruffed and Sharp-tailed) | Residents of Units 11, 13 and the residents of Chickaloon, 15, 16, 20(D), 22, and 23.
20(D) | Ptarmigan (Rock and Willow) | Residents of Units 11, 13 and the residents of Chickaloon, 15, 16, 20(D), 22, and 23.
Unit 21 | Brown Bear | Residents of Units 21 and 23.
21(A) | Caribou | Residents of Units 21(A), 21(D), 21(E), Aniak, Chuathbaluk, Crooked Creek, McGrath, and Takotna.
21(B) & (C) | Caribou | Residents of Units 21(B), 21(C), 21(D), and Tanana.
21(D) | Caribou | Residents of Units 21(B), 21(C), 21(D), and Huslia.
21(E) | Caribou | Residents of Units 21(A), 21(E) and Aniak, Chuathbaluk, Crooked Creek, McGrath, and Takotna.
21(A) | Moose | Residents of Units 21(A), (E), Takotna, McGrath, Aniak, and Crooked Creek.
21(B) and (C) | Moose | Residents of Units 21(B) and (C), Tanana, Ruby, and Galena.
21(D) | Moose | Residents of Units 21(D), Huslia, and Ruby.
21(E) | Moose | Residents of Unit 21(E) and residents of Russian Mission.
21 | Wolf | Residents of Units 6, 9, 10 (Unimak Island only), 11-13 and the residents of Chickaloon, and 16-26.
Unit 22(A) | Black Bear | Residents of Unit 22(A) and Koyuk.
22(B) | Black Bear | Residents of Unit 22(B).
22(C), (D), and (E) | Black Bear | No Federal subsistence priority.
22 | Brown Bear | Residents of Unit 22.
22(A) | Caribou | Residents of Unit 21(D) west of the Koyukuk and Yukon Rivers, and residents of Units 22 (except residents of St. Lawrence Island), 23, 24, and residents of Kotlik, Emmonak, Hooper Bay, Scammon Bay, Chevak, Marshall, Mountain Village, Pilot Station, Pitka's Point, Russian Mission, St. Marys, Nunam Iqua, and Alakanuk.
22, remainder | Caribou | Residents of Unit 21(D) west of the Koyukuk and Yukon Rivers, and residents of Units 22 (except residents of St. Lawrence Island), 23, 24.
22 | Moose | Residents of Unit 22.
22(B) | Muskox | Residents of Unit 22(B).
22(C) | Muskox | Residents of Unit 22(C).
22(D) | Muskox | Residents of Unit 22(D) excluding St. Lawrence Island.
22(E) | Muskox | Residents of Unit 22(E) excluding Little Diomede Island.
22 | Wolf | Residents of Units 23, 22, 21(D) north and west of the Yukon River, and residents of Kotlik.
22 | Grouse (Spruce) | Residents of Units 11, 13 and the residents of Chickaloon, 15, 16, 20(D), 22, and 23.
22 | Ptarmigan (Rock and Willow) | Residents of Units 11, 13 and the residents of Chickaloon, 15, 16, 20(D), 22, and 23.
Unit 23 | Black Bear | Residents of Unit 23, Alatna, Allakaket, Bettles, Evansville, Galena, Hughes, Huslia, and Koyukuk.
23 | Brown Bear | Residents of Units 21 and 23.
23 | Caribou | Residents of Unit 21(D) west of the Koyukuk and Yukon Rivers, residents of Galena, and residents of Units 22, 23, 24 including residents of Wiseman but not including other residents of the Dalton Highway Corridor Management Area, and 26(A).
23 | Moose | Residents of Unit 23.
23, south of Kotzebue Sound and west of and including the Buckland River drainage | Muskox | Residents of Unit 23 South of Kotzebue Sound and west of and including the Buckland River drainage.
23, remainder | Muskox | Residents of Unit 23 east and north of the Buckland River drainage.
23 | Sheep | Residents of Point Lay and Unit 23 north of the Arctic Circle.
23 | Wolf | Residents of Units 6, 9, 10 (Unimak Island only), 11-13 and the residents of Chickaloon, and 16-26.
23 | (Grouse (Spruce and Ruffed) | Residents of Units 11, 13 and the residents of Chickaloon, 15, 16, 20(D), 22, and 23.
23 | Ptarmigan (Rock, Willow and White-tailed) | Residents of Units 11, 13 and the residents of Chickaloon, 15, 16, 20(D), 22, and 23.
Unit 24 | Black Bear | Residents of Stevens Village and residents of Unit 24 and Wiseman, but not including any other residents of the Dalton Highway Corridor Management Area.
24, remainder | Black Bear | Residents of Unit 24 and Wiseman, but not including any other residents of the Dalton Highway Corridor Management Area.
24, that portion south of Caribou Mountain, and within the public lands composing or immediately adjacent to the Dalton Highway Corridor Management Area | Brown Bear | Residents of Stevens Village and residents of Unit 24 and Wiseman, but not including any other residents of the Dalton Highway Corridor Management Area.
24, remainder | Brown Bear | Residents of Unit 24 including Wiseman, but not including any other residents of the Dalton Highway Corridor Management Area,
24 | Caribou | Residents of Unit 24, Galena, Kobuk, Koyukuk, Stevens Village, and Tanana.
24 | Moose | Residents of Unit 24, Koyukuk, and Galena.
24 | Sheep | Residents of Unit 24 residing north of the Arctic Circle and residents of Allakaket, Alatna, Hughes, and Huslia.
24 | Wolf | Residents of Units 6, 9, 10 (Unimak Island only), 11-13 and the residents of Chickaloon and 16-26.
Unit 25(D) | Black Bear | Residents of Unit 25(D).
25(D) | Brown Bear | Residents of Unit 25(D).
25, remainder | Brown Bear | Residents of Unit 25 and Eagle.
25(D) | Caribou | Residents of 20(F), 25(D), and Manley.
25(A) | Moose | Residents of Units 25(A) and 25(D).
25(D) West | Moose | Residents of Unit 25(D) west.
25(D), remainder | Moose | Residents of remainder of Unit 25.
25(A) | Sheep | Residents of Arctic Village, Chalkytsik, Fort Yukon, Kaktovik, and Venetie.
25(B) and (C) | Sheep | No Federal subsistence priority.
25(D) | Wolf | Residents of Unit 25(D).
25, remainder | Wolf | Residents of Units 6, 9, 10 (Unimak Island only), 11-13 and the residents of Chickaloon and 16-26.
Unit 26 | Brown Bear | Residents of Unit 26 (except the Prudhoe Bay-Deadhorse Industrial Complex) and residents of Anaktuvuk Pass and Point Hope.
26(A) | Caribou | Residents of Unit 26, Anaktuvuk Pass and Point Hope.
26(B) | Caribou | Residents of Unit 26, Anaktuvuk Pass, Point Hope, and Wiseman.
26(C) | Caribou | Residents of Unit 26, Anaktuvuk Pass and Point Hope.
26 | Moose | Residents of Unit 26, (except the Prudhoe Bay-Deadhorse Industrial Complex), and residents of Point Hope and Anaktuvuk Pass.
26(A) | Muskox | Residents of Anaktuvuk Pass, Atqasuk, Barrow, Nuiqsut, Point Hope, Point Lay, and Wainwright.
26(B) | Muskox | Residents of Anaktuvuk Pass, Nuiqsut, and Kaktovik.
26(C) | Muskox | Residents of Kaktovik.
26(A) | Sheep | Residents of Unit 26, Anaktuvuk Pass, and Point Hope.
26(B) | Sheep | Residents of Unit 26, Anaktuvuk Pass, Point Hope, and Wiseman.
26(C) | Sheep | Residents of Unit 26, Anaktuvuk Pass, Arctic Village, Chalkytsik, Fort Yukon, Point Hope, and Venetie.
26 | Wolf | Residents of Units 6, 9, 10 (Unimak Island only), 11-13 and the residents of Chickaloon and 16-26.

* * * * *

Subpart D—Subsistence Taking of Fish and Wildlife

3. In Subpart D of 36 CFR part 242 and 50 CFR part 100, § ____.25 is revised to read as follows:

§ ___.25 Subsistence taking of fish, wildlife, and shellfish: general regulations.

(a) Definitions. The following definitions shall apply to all regulations contained in this part:

Abalone iron means a flat device which is used for taking abalone and which is more than 1 inch (24 mm) in width and less than 24 inches (610 mm) in length, with all prying edges rounded and smooth.

ADF&G means the Alaska Department of Fish and Game.

Airborne means transported by aircraft.

Aircraft means any kind of airplane, glider, or other device used to transport people or equipment through the air, excluding helicopters.

Airport means an airport listed in the Federal Aviation Administration, Alaska Airman's Guide and chart supplement.

Anchor means a device used to hold a fishing vessel or net in a fixed position relative to the beach; this includes using part of the seine or lead, a ship's anchor, or being secured to another vessel or net that is anchored.

Animal means those species with a vertebral column (backbone).

Antler means one or more solid, horn-like appendages protruding from the head of a caribou, deer, elk, or moose.

Antlered means any caribou, deer, elk, or moose having at least one visible antler.

Antlerless means any caribou, deer, elk, or moose not having visible antlers attached to the skull.

Bait means any material excluding a scent lure that is placed to attract an animal by its sense of smell or taste; however, those parts of legally taken animals that are not required to be salvaged and which are left at the kill site are not considered bait.

Beach seine means a floating net which is designed to surround fish and is set from and hauled to the beach.

Bear means black bear, or brown or grizzly bear.

Bow means a longbow, recurve bow, or compound bow, excluding a crossbow, or any bow equipped with a mechanical device that holds arrows at full draw.

Broadhead means an arrowhead that is not barbed and has two or more steel cutting edges having a minimum cutting diameter of not less than seven-eighths inch.

Brow tine means a tine on the front portion of a moose antler, typically projecting forward from the base of the antler toward the nose.

Buck means any male deer.

Bull means any male moose, caribou, elk, or musk oxen.

Cast net means a circular net with a mesh size of no more than 1½ inches and weights attached to the perimeter which, when thrown, surrounds the fish and closes at the bottom when retrieved.

Char means the following species: Arctic char (Salvelinus alpinis); lake trout (Salvelinus namaycush); brook trout (Salvelinus fontinalis), and Dolly Varden (Salvelinus malma).

Closed season means the time when fish, wildlife, or shellfish may not be taken.

Crab means the following species: red king crab (Paralithodes camshatica); blue king crab (Paralithodes platypus); brown king crab (Lithodes aequispina); Lithodes couesi; all species of tanner or snow crab (Chionoecetes spp.); and Dungeness crab (Cancer magister).

Cub bear means a brown or grizzly bear in its first or second year of life, or a black bear (including cinnamon and blue phases) in its first year of life.

Depth of net means the perpendicular distance between cork line and lead line expressed as either linear units of measure or as a number of meshes, including all of the web of which the net is composed.

Designated hunter or fisherman means a Federally qualified, licensed hunter or fisherman who may take all or a portion of another Federally qualified, licensed hunter's or fisherman's harvest limit(s) only under situations approved by the Board.

Dip net means a bag-shaped net supported on all sides by a rigid frame; the maximum straight-line distance between any two points on the net frame, as measured through the net opening, may not exceed 5 feet; the depth of the bag must be at least one-half of the greatest straight-line distance, as measured through the net opening; no portion of the bag may be constructed of webbing that exceeds a stretched measurement of 4.5 inches; the frame must be attached to a single rigid handle and be operated by hand.

Diving gear means any type of hard hat or skin diving equipment, including SCUBA equipment; a tethered, umbilical, surface-supplied unit; or snorkel.

Drainage means all of the lands and waters comprising a watershed, including tributary rivers, streams, sloughs, ponds, and lakes, which contribute to the water supply of the watershed.

Drift gillnet means a drifting gillnet that has not been intentionally staked, anchored, or otherwise fixed in one place.

Edible meat means the breast meat of ptarmigan and grouse, and, those parts of caribou, deer, elk, mountain goat, moose, musk oxen, and Dall sheep that are typically used for human consumption, which are: the meat of the ribs, neck, brisket, front quarters as far as the distal (bottom) joint of the radius-ulna (knee), hindquarters as far as the distal joint (bottom) of the tibia-fibula (hock) and that portion of the animal between the front and hindquarters; however, edible meat of species listed in this definition does not include: meat of the head, meat that has been damaged and made inedible by the method of taking, bones, sinew, and incidental meat reasonably lost as a result of boning or close trimming of the bones, or viscera. For black bear, brown and grizzly bear, “edible meat” means the meat of the front quarter and hindquarters and meat along the backbone (backstrap).

Federally-qualified subsistence user means a rural Alaska resident qualified to harvest fish or wildlife on Federal public lands in accordance with the Federal Subsistence Management Regulations in this part.

Fifty-inch (50-inch) moose means a bull moose with an antler spread of 50 inches or more.

Fishwheel means a fixed, rotating device, with no more than four baskets on a single axle, for catching fish, which is driven by river current or other means.

Freshwater of streams and rivers means the line at which freshwater is separated from saltwater at the mouth of streams and rivers by a line drawn headland to headland across the mouth as the waters flow into the sea.

Full curl horn means the horn of a Dall sheep ram; the tip of which has grown through 360 degrees of a circle described by the outer surface of the horn, as viewed from the side, or that both horns are broken, or that the sheep is at least 8 years of age as determined by horn growth annuli.

Furbearer means a beaver, coyote, arctic fox, red fox, lynx, marten, mink, weasel, muskrat, river (land) otter, red squirrel, flying squirrel, ground squirrel, marmot, wolf, or wolverine.

Fyke net means a fixed, funneling (fyke) device used to entrap fish.

Gear means any type of fishing apparatus.

Gillnet means a net primarily designed to catch fish by entanglement in a mesh that consists of a single sheet of webbing which hangs between cork line and lead line, and which is fished from the surface of the water.

Grappling hook means a hooked device with flukes or claws, which is attached to a line and operated by hand.

Groundfish or bottomfish means any marine fish except halibut, osmerids, herring and salmonids.

Grouse collectively refers to all species found in Alaska, including spruce grouse, ruffed grouse, blue grouse, and sharp-tailed grouse.

Hand purse seine means a floating net which is designed to surround fish and which can be closed at the bottom by pursing the lead line; pursing may only be done by hand power, and a free-running line through one or more rings attached to the lead line is not allowed.

Handline means a hand-held and operated line, with one or more hooks attached.

Hare or hares collectively refers to all species of hares (commonly called rabbits) in Alaska and includes snowshoe hare and tundra hare.

Harvest limit means the number of any one species permitted to be taken by any one person or designated group, per specified time period, in a Unit or portion of a Unit in which the taking occurs even if part or all of the harvest is preserved. A fish, when landed and killed by means of rod and reel becomes part of the harvest limit of the person originally hooking it.

Herring pound means an enclosure used primarily to contain live herring over extended periods of time.

Highway means the driveable surface of any constructed road.

Household means that group of people residing in the same residence.

Hung measure means the maximum length of the cork line when measured wet or dry with traction applied at one end only.

Hunting means the taking of wildlife within established hunting seasons with archery equipment or firearms, and as authorized by a required hunting license.

Hydraulic clam digger means a device using water or a combination of air and water used to harvest clams.

Jigging gear means a line or lines with lures or baited hooks, drawn through the water by hand, and which are operated during periods of ice cover from holes cut in the ice, or from shore ice and which are drawn through the water by hand.

Lead means either a length of net employed for guiding fish into a seine, set gillnet, or other length of net, or a length of fencing employed for guiding fish into a fishwheel, fyke net, or dip net.

Legal limit of fishing gear means the maximum aggregate of a single type of fishing gear permitted to be used by one individual or boat, or combination of boats in any particular regulatory area, district, or section.

Long line means either a stationary, buoyed, or anchored line, or a floating, free-drifting line with lures or baited hooks attached.

Marmot collectively refers to all species of marmot that occur in Alaska including the hoary marmot, Alaska marmot, and the woodchuck.

Mechanical clam digger means a mechanical device used or capable of being used for the taking of clams.

Mechanical jigging machine means a mechanical device with line and hooks used to jig for halibut and bottomfish, but does not include hand gurdies or rods with reels.

Mile means a nautical mile when used in reference to marine waters or a statute mile when used in reference to fresh water.

Motorized vehicle means a motor-driven land, air, or water conveyance.

Open season means the time when wildlife may be taken by hunting or trapping; an open season includes the first and last days of the prescribed season period.

Otter means river or land otter only, excluding sea otter.

Permit hunt means a hunt for which State or Federal permits are issued by registration or other means.

Poison means any substance that is toxic or poisonous upon contact or ingestion.

Possession means having direct physical control of wildlife at a given time or having both the power and intention to exercise dominion or control of wildlife either directly or through another person or persons.

Possession limit means the maximum number of fish, grouse, or ptarmigan a person or designated group may have in possession if the they have not been canned, salted, frozen, smoked, dried, or otherwise preserved so as to be fit for human consumption after a 15-day period.

Pot means a portable structure designed and constructed to capture and retain live fish and shellfish in the water.

Ptarmigan collectively refers to all species found in Alaska, including white-tailed ptarmigan, rock ptarmigan, and willow ptarmigan.

Purse seine means a floating net which is designed to surround fish and which can be closed at the bottom by means of a free-running line through one or more rings attached to the lead line.

Ram means a male Dall sheep.

Registration permit means a permit that authorizes hunting and is issued to a person who agrees to the specified hunting conditions. Hunting permitted by a registration permit begins on an announced date and continues throughout the open season, or until the season is closed by Board action. Registration permits are issued in the order applications are received and/or are based on priorities as determined by 50 CFR 100.17 and 36 CFR 242.17.

Ring net means a bag-shaped net suspended between no more than two frames; the bottom frame may not be larger in perimeter than the top frame; the gear must be nonrigid and collapsible so that free movement of fish or shellfish across the top of the net is not prohibited when the net is employed.

Rockfish means all species of the genus Sebastes.

Rod and reel means either a device upon which a line is stored on a fixed or revolving spool and is deployed through guides mounted on a flexible pole, or a line that is attached to a pole. In either case, bait or an artificial fly or lure is used as terminal tackle. This definition does not include the use of rod and reel gear for snagging.

Salmon means the following species: pink salmon (Oncorhynchus gorbuscha); sockeye salmon (Oncorhynchus nerka); chinook salmon (Oncorhynchus tshawytscha); coho salmon (Oncorhynchus kisutch); and chum salmon (Oncorhynchus keta).

Salmon stream means any stream used by salmon for spawning, rearing, or for traveling to a spawning or rearing area.

Salvage means to transport the edible meat, skull, or hide, as required by regulation, of a regulated fish, wildlife, or shellfish to the location where the edible meat will be consumed by humans or processed for human consumption in a manner which saves or prevents the edible meat from waste, and preserves the skull or hide for human use.

Scallop dredge means a dredge-like device designed specifically for and capable of taking scallops by being towed along the ocean floor.

Sea urchin rake means a hand-held implement, no longer than 4 feet, equipped with projecting prongs used to gather sea urchins.

Sealing means placing a mark or tag on a portion of a harvested animal by an authorized representative of the ADF&G; sealing includes collecting and recording information about the conditions under which the animal was harvested, and measurements of the specimen submitted for sealing or surrendering a specific portion of the animal for biological information.

Set gillnet means a gillnet that has been intentionally set, staked, anchored, or otherwise fixed.

Seven-eighths curl horn means the horn of a male Dall sheep, the tip of which has grown through seven-eights (315 degrees) of a circle, described by the outer surface of the horn, as viewed from the side, or with both horns broken.

Shovel means a hand-operated implement for digging clams.

Skin, hide, pelt, or fur means any tanned or untanned external covering of an animal's body; excluding bear. The skin, hide, fur, or pelt of a bear shall mean the entire external covering with claws attached.

Spear means a shaft with a sharp point or fork-like implement attached to one end which is used to thrust through the water to impale or retrieve fish and which is operated by hand.

Spike-fork moose means a bull moose with only one or two tines on either antler; male calves are not spike-fork bulls.

Stretched measure means the average length of any series of 10 consecutive meshes measured from inside the first knot and including the last knot when wet; the 10 meshes, when being measured, shall be an integral part of the net, as hung, and measured perpendicular to the selvages; measurements shall be made by means of a metal tape measure while the 10 meshes being measured are suspended vertically from a single peg or nail, under 5-pound weight.

Subsistence fishing permit means a permit issued by the Alaska Department of Fish and Game, unless specifically identified otherwise.

Take or Taking means to fish, pursue, hunt, shoot, trap, net, capture, collect, kill, harm, or attempt to engage in any such conduct.

Tine or antler point refers to any point on an antler, the length of which is greater than its width and is at least one inch.

To operate fishing gear means any of the following: to deploy gear in the water; to remove gear from the water; to remove fish or shellfish from the gear during an open season or period; or to possess a gillnet containing fish during an open fishing period, except that a gillnet which is completely clear of the water is not considered to be operating for the purposes of minimum distance requirement.

Transportation means to ship, convey, carry, or transport by any means whatever and deliver or receive for such shipment, conveyance, carriage, or transportation.

Trapping means the taking of furbearers within established trapping seasons and with a required trapping license.

Trawl means a bag-shaped net towed through the water to capture fish or shellfish, and includes beam, otter, or pelagic trawl.

Troll gear means a power gurdy troll gear consisting of a line or lines with lures or baited hooks which are drawn through the water by a power gurdy; hand troll gear consisting of a line or lines with lures or baited hooks which are drawn through the water from a vessel by hand trolling, strip fishing, or other types of trolling, and which are retrieved by hand power or hand-powered crank and not by any type of electrical, hydraulic, mechanical, or other assisting device or attachment; or dinglebar troll gear consisting of one or more lines, retrieved and set with a troll gurdy or hand troll gurdy, with a terminally attached weight from which one or more leaders with one or more lures or baited hooks are pulled through the water while a vessel is making way.

Trout means the following species: cutthroat trout (Oncorhynchus clarki) and rainbow/steelhead trout (Oncorhynchus mykiss).

Unclassified wildlife or unclassified species means all species of animals not otherwise classified by the definitions in this paragraph (a), or regulated under other Federal law as listed in paragraph (i) of this section.

Ungulate means any species of hoofed mammal, including deer, caribou, elk, moose, mountain goat, Dall sheep, and musk oxen.

Unit means one of the 26 geographical areas in the State of Alaska known as Game Management Units, or GMU, and collectively listed in this section as Units.

Wildlife means any hare (rabbit), ptarmigan, grouse, ungulate, bear, furbearer, or unclassified species and includes any part, product, egg, or offspring thereof, or carcass or part thereof.

(b) Taking fish, wildlife or shellfish for subsistence uses by a prohibited method is a violation of this part. Seasons are closed unless opened by Federal regulation. Hunting, trapping, or fishing during a closed season or in an area closed by this part is prohibited. You may not take for subsistence fish, wildlife, or shellfish outside established Unit or Area seasons, or in excess of the established Unit or Area harvest limits, unless otherwise provided for by the Board. You may take fish, wildlife, or shellfish under State regulations on public lands, except as otherwise restricted at § §__.26 through __.28. Unit/Area-specific restrictions or allowances for subsistence taking of fish, wildlife, or shellfish are identified at § §__.26 through __.28.

(c) Harvest limits. (1) Harvest limits, including those related to ceremonial uses, authorized by this section and harvest limits established in State regulations may not be accumulated.

(2) Fish, wildlife, or shellfish taken by a designated individual for another person pursuant to § _.10(d)(5)(ii), counts toward the individual harvest limit of the person for whom the fish, wildlife, or shellfish is taken.

(3) A harvest limit applies to the number of fish, wildlife, or shellfish that can be taken during a regulatory year; however, harvest limits for grouse, ptarmigan, and caribou (in some Units) are regulated by the number that may be taken per day. Harvest limits of grouse and ptarmigan are also regulated by the number that can be held in possession.

(4) Unless otherwise provided, any person who gives or receives fish, wildlife, or shellfish shall furnish, upon a request made by a Federal or State agent, a signed statement describing the following: names and addresses of persons who gave and received fish, wildlife, or shellfish, the time and place that the fish, wildlife, or shellfish was taken, and identification of species transferred. Where a qualified subsistence user has designated another qualified subsistence user to take fish, wildlife, or shellfish on his or her behalf in accordance with § _.10(d)(5)(ii), the permit shall be furnished in place of a signed statement.

(d) Fishing by designated harvest permit. (1) Any species of fish that may be taken by subsistence fishing under this part may be taken under a designated harvest permit.

(2) If you are a Federally-qualified subsistence user, you (beneficiary) may designate another Federally-qualified subsistence user to take fish on your behalf. The designated fisherman must obtain a designated harvest permit prior to attempting to harvest fish and must return a completed harvest report. The designated fisherman may fish for any number of beneficiaries but may have no more than two harvest limits in his/her possession at any one time.

(3) The designated fisherman must have in possession a valid designated fishing permit when taking, attempting to take, or transporting fish taken under this section, on behalf of a beneficiary.

(4) The designated fisherman may not fish with more than one legal limit of gear.

(5) You may not designate more than one person to take or attempt to take fish on your behalf at one time. You may not personally take or attempt to take fish at the same time that a designated fisherman is taking or attempting to take fish on your behalf.

(e) Hunting by designated harvest permit. (1) As allowed by § __.26, if you are a Federally-qualified subsistence user, you (beneficiary) may designate another Federally-qualified subsistence user to take wildlife on your behalf unless you are a member of a community operating under a community harvest system.

(2) The designated hunter must obtain a designated hunter permit and must return a completed harvest report.

(3) You may not designate more than one person to take or attempt to take fish on your behalf at one time.

(4) The designated hunter may hunt for any number of recipients but may have no more than two harvest limits in his/her possession at any one time, unless otherwise specified in § __.26.

(f) A rural Alaska resident who has been designated to take fish, wildlife, or shellfish on behalf of another rural Alaska resident in accordance with § __.10(d)(5)(ii), shall promptly deliver the fish, wildlife, or shellfish to that rural Alaska resident.

(g) The U.S. Fish and Wildlife Service, Office of Subsistence Management may issue a permit to harvest fish, wildlife, or shellfish for a qualifying cultural/educational program to an organization that has been granted a Federal subsistence permit for a similar event within the previous five years. A qualifying program must have instructors, enrolled students, minimum attendance requirements, and standards for successful completion of the course. Applications must be submitted to the Office of Subsistence Management 60 days prior to the earliest desired date of harvest. Permits will be issued for no more than one large mammal per culture/education camp. Large mammal species allowed to be harvested are limited to deer, moose, caribou, black bear, and mountain goat. Permits will be issued for no more than 25 fish per culture/education camp. Any animals harvested will count against any established Federal harvest quota for the area in which harvested. Appeal of a rejected request can be made to the Federal Subsistence Board. Application for an initial permit for a qualifying cultural/educational program, for a permit when the circumstances have changed significantly, when no permit has been issued within the previous five years, or when there is a request for harvest in excess of that provided in this paragraph (g), will be considered by the Federal Subsistence Board.

(h) If a subsistence fishing or hunting permit is required by this part, the following permit conditions apply unless otherwise specified in this section:

(1) You may not take more fish, wildlife, or shellfish for subsistence use than the limits set out in the permit;

(2) You must obtain the permit prior to fishing or hunting;

(3) You must have the permit in your possession and readily available for inspection while fishing, hunting, or transporting subsistence-taken fish, wildlife, or shellfish;

(4) If specified on the permit, you shall keep accurate daily records of the harvest, showing the number of fish, wildlife, or shellfish taken by species, location and date of harvest, and other such information as may be required for management or conservation purposes; and

(5) If the return of harvest information necessary for management and conservation purposes is required by a permit and you fail to comply with such reporting requirements, you are ineligible to receive a subsistence permit for that activity during the following calendar year, unless you demonstrate that failure to report was due to loss in the mail, accident, sickness, or other unavoidable circumstances.

(i) You may not possess, transport, give, receive, or barter fish, wildlife, or shellfish that was taken in violation of Federal or State statutes or a regulation promulgated thereunder.

(j) Utilization of fish, wildlife, or shellfish. (1) You may not use wildlife as food for a dog or furbearer, or as bait, except for the following:

(i) The hide, skin, viscera, head, or bones of wildlife;

(ii) The skinned carcass of a furbearer;

(iii) Squirrels, hares (rabbits), grouse, and ptarmigan; however, you may not use the breast meat of grouse and ptarmigan as animal food or bait;

(iv) Unclassified wildlife.

(2) If you take wildlife for subsistence, you must salvage the following parts for human use:

(i) The hide of a wolf, wolverine, coyote, fox, lynx, marten, mink, weasel, or otter;

(ii) The hide and edible meat of a brown bear, except that the hide of brown bears taken in the Western and Northwestern Alaska Brown Bear Management Areas and Units 5 and 9(B) need not be salvaged;

(iii) The hide and edible meat of a black bear;

(iv) The hide or meat of squirrels, hares (rabbits), marmots, beaver, muskrats, or unclassified wildlife.

(3) You must salvage the edible meat of ungulates, bear, grouse and ptarmigan.

(4) You may not intentionally waste or destroy any subsistence-caught fish or shellfish; however, you may use for bait or other purposes, whitefish, herring, and species for which bag limits, seasons, or other regulatory methods and means are not provided in this section, as well as the head, tail, fins, and viscera of legally-taken subsistence fish.

(5) Failure to salvage the edible meat may not be a violation if such failure is caused by circumstances beyond the control of a person, including theft of the harvested fish, wildlife, or shellfish, unanticipated weather conditions, or unavoidable loss to another animal.

(k) The regulations found in this part do not apply to the subsistence taking and use of fish, wildlife, or shellfish regulated pursuant to the Fur Seal Act of 1966 (80 Stat. 1091, 16 U.S.C. 1187), the Endangered Species Act of 1973 (87 Stat. 884, 16 U.S.C. 1531-1543), the Marine Mammal Protection Act of 1972 (86 Stat. 1027; 16 U.S.C. 1361-1407), and the Migratory Bird Treaty Act (40 Stat. 755; 16 U.S.C. 703-711), or any amendments to these Acts. The taking and use of fish, wildlife, or shellfish, covered by these Acts, will conform to the specific provisions contained in these Acts, as amended, and any implementing regulations.

(l) Rural residents, nonrural residents, and nonresidents not specifically prohibited by Federal regulations from fishing, hunting, or trapping on public lands in an area, may fish, hunt, or trap on public lands in accordance with the appropriate State regulations.

4. In Subpart D of 36 CFR part 242 and 50 CFR part 100, § __.26 is proposed to be added effective July 1, 2002, through June 30, 2003, to read as follows:

§ __.26 Subsistence taking of wildlife.

(a) You may take wildlife for subsistence uses by any method, except as prohibited in this section or by other Federal statute. Taking wildlife for subsistence uses by a prohibited method is a violation of this part. Seasons are closed unless opened by Federal regulation. Hunting or trapping during a closed season or in an area closed by this part is prohibited.

(b) Except for special provisions found at paragraphs (m)(1) through (26) of this section, the following methods and means of taking wildlife for subsistence uses are prohibited:

(1) Shooting from, on, or across a highway;

(2) Using any poison;

(3) Using a helicopter in any manner, including transportation of individuals, equipment, or wildlife; however, this prohibition does not apply to transportation of an individual, gear, or wildlife during an emergency rescue operation in a life-threatening situation;

(4) Taking wildlife from a motorized land or air vehicle, when that vehicle is in motion or from a motor-driven boat when the boat's progress from the motor's power has not ceased;

(5) Using a motorized vehicle to drive, herd, or molest wildlife;

(6) Using or being aided by use of a machine gun, set gun, or a shotgun larger than 10 gauge;

(7) Using a firearm other than a shotgun, muzzle-loaded rifle, rifle or pistol using center-firing cartridges, for the taking of ungulates, bear, wolves or wolverine, except that—

(i) An individual in possession of a valid trapping license may use a firearm that shoots rimfire cartridges to take wolves and wolverine;

(ii) Only a muzzle-loading rifle of .54-caliber or larger, or a .45-caliber muzzle-loading rifle with a 250-grain, or larger, elongated slug may be used to take brown bear, black bear, elk, moose, musk oxen and mountain goat;

(8) Using or being aided by use of a pit, fire, artificial light, radio communication, artificial salt lick, explosive, barbed arrow, bomb, smoke, chemical, conventional steel trap with a jaw spread over nine inches, or conibear style trap with a jaw spread over 11 inches;

(9) Using a snare, except that an individual in possession of a valid hunting license may use nets and snares to take unclassified wildlife, ptarmigan, grouse, or hares; and, individuals in possession of a valid trapping license may use snares to take furbearers;

(10) Using a trap to take ungulates or bear;

(11) Using hooks to physically snag, impale, or otherwise take wildlife; however, hooks may be used as a trap drag;

(12) Using a crossbow to take ungulates, bear, wolf, or wolverine in any area restricted to hunting by bow and arrow only;

(13) Taking of ungulates, bear, wolf, or wolverine with a bow, unless the bow is capable of casting a ⅞ inch wide broadhead-tipped arrow at least 175 yards horizontally, and the arrow and broadhead together weigh at least one ounce (437.5 grains);

(14) Using bait for taking ungulates, bear, wolf, or wolverine; except, you may use bait to take wolves and wolverine with a trapping license, and, you may use bait to take black bears with a hunting license as authorized in Unit-specific regulations at paragraphs (m)(1) through (26) of this section. Baiting of black bears is subject to the following restrictions:

(i) Before establishing a black bear bait station, you must register the site with ADF&G;

(ii) When using bait you must clearly mark the site with a sign reading “black bear bait station” that also displays your hunting license number and ADF&G assigned number;

(iii) You may use only biodegradable materials for bait; you may use only the head, bones, viscera, or skin of legally harvested fish and wildlife for bait;

(iv) You may not use bait within one-quarter mile of a publicly maintained road or trail;

(v) You may not use bait within one mile of a house or other permanent dwelling, or within one mile of a developed campground, or developed recreational facility;

(vi) When using bait, you must remove litter and equipment from the bait station site when done hunting;

(vii) You may not give or receive payment for the use of a bait station, including barter or exchange of goods;

(viii) You may not have more than two bait stations with bait present at any one time;

(15) Taking swimming ungulates, bears, wolves or wolverine;

(16) Taking or assisting in the taking of ungulates, bear, wolves, wolverine, or other furbearers before 3:00 a.m. following the day in which airborne travel occurred (except for flights in regularly scheduled commercial aircraft); however, this restriction does not apply to subsistence taking of deer, the setting of snares or traps, or the removal of furbearers from traps or snares;

(17) Taking a bear cub or a sow accompanied by cub(s).

(c) Wildlife taken in defense of life or property is not a subsistence use; wildlife so taken is subject to State regulations.

(d) The following methods and means of trapping furbearers, for subsistence uses pursuant to the requirements of a trapping license are prohibited, in addition to the prohibitions listed at paragraph (b) of this section:

(1) Disturbing or destroying a den, except that you may disturb a muskrat pushup or feeding house in the course of trapping;

(2) Disturbing or destroying any beaver house;

(3) Taking beaver by any means other than a steel trap or snare, except that you may use firearms in certain Units with established seasons as identified in Unit-specific regulations found in this subpart;

(4) Taking otter with a steel trap having a jaw spread of less than five and seven-eighths inches during any closed mink and marten season in the same Unit;

(5) Using a net, or fish trap (except a blackfish or fyke trap);

(6) Taking beaver in the Minto Flats Management Area with the use of an aircraft for ground transportation, or by landing within one mile of a beaver trap or set used by the transported person;

(7) Taking or assisting in the taking of furbearers by firearm before 3:00 a.m. on the day following the day on which airborne travel occurred; however, this does not apply to a trapper using a firearm to dispatch furbearers caught in a trap or snare.

(e) Possession and transportation of wildlife. (1) Except as specified in paragraph (e)(2) or (f)(1) of this section, or as otherwise provided, you may not take a species of wildlife in any Unit, or portion of a Unit, if your total take of that species already obtained anywhere in the State under Federal and State regulations equals or exceeds the harvest limit in that Unit.

(2) An animal taken under Federal or State regulations by any member of a community with an established community harvest limit for that species counts toward the community harvest limit for that species. Except for wildlife taken pursuant to § __.10(d)(5)(iii) or as otherwise provided for by this Part, an animal taken as part of a community harvest limit counts toward every community member's harvest limit for that species taken under Federal or State of Alaska regulations.

(f) Harvest limits. (1) The harvest limit specified for a trapping season for a species and the harvest limit set for a hunting season for the same species are separate and distinct. This means that if you have taken a harvest limit for a particular species under a trapping season, you may take additional animals under the harvest limit specified for a hunting season or vice versa.

(2) A brown/grizzly bear taken in a Unit or portion of a Unit having a harvest limit of one brown/grizzly bear per year counts against a one brown/grizzly bear every four regulatory years harvest limit in other Units; an individual may not take more than one brown/grizzly bear in a regulatory year.

(g) Evidence of sex and identity. (1) If subsistence take of Dall sheep is restricted to a ram, you may not possess or transport a harvested sheep unless both horns accompany the animal.

(2) If the subsistence taking of an ungulate, except sheep, is restricted to one sex in the local area, you may not possess or transport the carcass of an animal taken in that area unless sufficient portions of the external sex organs remain attached to indicate conclusively the sex of the animal, except in Units 11, 13, 19, 21, and 24 where you may possess either sufficient portions of the external sex organs (still attached to a portion of the carcass) or the head (with or without antlers attached; however, the antler stumps must remain attached), to indicate the sex of the harvested moose; however, this paragraph (g)(2) does not apply to the carcass of an ungulate that has been butchered and placed in storage or otherwise prepared for consumption upon arrival at the location where it is to be consumed.

(3) If a moose harvest limit includes an antler size or configuration restriction, you may not possess or transport the moose carcass or its parts unless both antlers accompany the carcass or its parts. If you possess a set of antlers with less than the required number of brow tines on one antler, you must leave the antlers naturally attached to the unbroken, uncut skull plate; however, this paragraph (g)(3) does not apply to a moose carcass or its parts that have been butchered and placed in storage or otherwise prepared for consumption after arrival at the place where it is to be stored or consumed.

(h) You must leave all edible meat from caribou and moose harvested in Units 9(B), 17, and 19(B) prior to October 1 on the bones of the front quarters and hind quarters until you remove the meat from the field or process it for human consumption.

(i) If you take an animal that has been marked or tagged for scientific studies, you must, within a reasonable time, notify the ADF&G or the agency identified on the collar or marker, when and where the animal was taken. You also must retain any ear tag, collar, radio, tattoo, or other identification with the hide until it is sealed, if sealing is required; in all cases, you must return any identification equipment to the ADF&G or to an agency identified on such equipment.

(j) Sealing of bear skins and skulls. (1) Sealing requirements for bear shall apply to brown bears taken in all Units, except as specified in this paragraph, and black bears of all color phases taken in Units 1-7, 11-17, and 20.

(2) You may not possess or transport from Alaska, the untanned skin or skull of a bear unless the skin and skull have been sealed by an authorized representative of ADF&G in accordance with State or Federal regulations, except that the skin and skull of a brown bear taken under a registration permit in the Western Alaska Brown Bear Management Area, the Northwest Alaska Brown Bear Management Area, Unit 5, or Unit 9(B) need not be sealed unless removed from the area.

(3) You must keep a bear skin and skull together until a representative of the ADF&G has removed a rudimentary premolar tooth from the skull and sealed both the skull and the skin; however, this provision shall not apply to brown bears taken within the Western Alaska Brown Bear Management Area, the Northwest Alaska Brown Bear Management Area, Unit 5, or Unit 9(B) which are not removed from the Management Area or Unit.

(i) In areas where sealing is required by Federal regulations, you may not possess or transport the hide of a bear which does not have the penis sheath or vaginal orifice naturally attached to indicate conclusively the sex of the bear.

(ii) If the skin or skull of a bear taken in the Western Alaska Brown Bear Management Area is removed from the area, you must first have it sealed by an ADF&G representative in Bethel, Dillingham, or McGrath; at the time of sealing, the ADF&G representative shall remove and retain the skin of the skull and front claws of the bear.

(iii) If you remove the skin or skull of a bear taken in the Northwestern Alaska Brown Bear Management Area from the area or present it for commercial tanning within the Management Area, you must first have it sealed by an ADF&G representative in Barrow, Fairbanks, Galena, Nome, or Kotzebue; at the time of sealing, the ADF&G representative shall remove and retain the skin of the skull and front claws of the bear.

(iv) If you remove the skin or skull of a bear taken in Unit 5 from the area, you must first have it sealed by an ADF&G representative in Yakutat; at the time of sealing, the ADF&G representative shall remove and retain the skin of the skull and front claws of the bear.

(4) You may not falsify any information required on the sealing certificate or temporary sealing form provided by the ADF&G in accordance with State regulations.

(k) Sealing of beaver, lynx, marten, otter, wolf, and wolverine. You may not possess or transport from Alaska the untanned skin of a marten taken in Units 1-5, 7, 13(E), and 14-16 or the untanned skin of a beaver, lynx, otter, wolf, or wolverine, whether taken inside or outside the State, unless the skin has been sealed by an authorized representative of ADF&G in accordance with State regulations. In Unit 18, you must obtain an ADF&G seal for beaver skins only if they are to be sold or commercially sold.

(1) You must seal any wolf taken in Unit 2 on or before the 30th day after the date of taking.

(2) You must leave the radius and ulna of the left foreleg naturally attached to the hide of any wolf taken in Units 1-5 until the hide is sealed.

(l) A person who takes a species listed in paragraph (k) of this section but who is unable to present the skin in person, must complete and sign a temporary sealing form and ensure that the completed temporary sealing form and skin are presented to an authorized representative of ADF&G for sealing consistent with requirements listed in paragraph (k) of this section.

(m) Unit regulations. You may take for subsistence unclassified wildlife, all squirrel species, and marmots in all Units, without harvest limits, for the period of July 1-June 30. Unit-specific restrictions or allowances for subsistence taking of wildlife are identified at paragraphs (m)(1) through (26) of this section.

(1) Unit 1. Unit 1 consists of all mainland drainages from Dixon Entrance to Cape Fairweather, and those islands east of the center line of Clarence Strait from Dixon Entrance to Caamano Point, and all islands in Stephens Passage and Lynn Canal north of Taku Inlet:

(i) Unit 1(A) consists of all drainages south of the latitude of Lemesurier Point including all drainages into Behm Canal, excluding all drainages of Ernest Sound;

(ii) Unit 1(B) consists of all drainages between the latitude of Lemesurier Point and the latitude of Cape Fanshaw including all drainages of Ernest Sound and Farragut Bay, and including the islands east of the center lines of Frederick Sound, Dry Strait (between Sergief and Kadin Islands), Eastern Passage, Blake Channel (excluding Blake Island), Ernest Sound, and Seward Passage;

(iii) Unit 1(C) consists of that portion of Unit 1 draining into Stephens Passage and Lynn Canal north of Cape Fanshaw and south of the latitude of Eldred Rock including Berners Bay, Sullivan Island, and all mainland portions north of Chichagof Island and south of the latitude of Eldred Rock, excluding drainages into Farragut Bay;

(iv) Unit 1(D) consists of that portion of Unit 1 north of the latitude of Eldred Rock, excluding Sullivan Island and the drainages of Berners Bay;

(v) In the following areas, the taking of wildlife for subsistence uses is prohibited or restricted on public lands:

(A) Public lands within Glacier Bay National Park are closed to all taking of wildlife for subsistence uses;

(B) Unit 1(A)—in the Hyder area, the Salmon River drainage downstream from the Riverside Mine, excluding the Thumb Creek drainage, is closed to the taking of bear;

(C) Unit 1(B)—the Anan Creek drainage within one mile of Anan Creek downstream from the mouth of Anan Lake, including the area within a one mile radius from the mouth of Anan Creek Lagoon, is closed to the taking of black bear and brown bear;

(D) Unit 1(C):

(1) You may not hunt within one-fourth mile of Mendenhall Lake, the U.S. Forest Service Mendenhall Glacier Visitor's Center, and the Center's parking area;

(2) You may not take mountain goat in the area of Mt. Bullard bounded by the Mendenhall Glacier, Nugget Creek from its mouth to its confluence with Goat Creek, and a line from the mouth of Goat Creek north to the Mendenhall Glacier;

(vi) You may not trap furbearers for subsistence uses in Unit 1(C), Juneau area, on the following public lands:

(A) A strip within one-quarter mile of the mainland coast between the end of Thane Road and the end of Glacier Highway at Echo Cove;

(B) That area of the Mendenhall Valley bounded on the south by the Glacier Highway, on the west by the Mendenhall Loop Road and Montana Creek Road and Spur Road to Mendenhall Lake, on the north by Mendenhall Lake, and on the east by the Mendenhall Loop Road and Forest Service Glacier Spur Road to the Forest Service Visitor Center;

(C) That area within the U.S. Forest Service Mendenhall Glacier Recreation Area;

(D) A strip within one-quarter mile of the following trails as designated on U.S. Geological Survey maps: Herbert Glacier Trail, Windfall Lake Trail, Peterson Lake Trail, Spaulding Meadows Trail (including the loop trail), Nugget Creek Trail, Outer Point Trail, Dan Moller Trail, Perseverance Trail, Granite Creek Trail, Mt. Roberts Trail and Nelson Water Supply Trail, Sheep Creek Trail, and Point Bishop Trail;

(vii) Unit-specific regulations:

(A) You may hunt black bear with bait in Units 1(A), 1(B), and 1(D) between April 15 and June 15;

(B) You may not shoot ungulates, bear, wolves, or wolverine from a boat, unless you are certified as disabled;

(C) You may take wildlife outside the seasons or harvest limits provided in this part for food in traditional religious ceremonies which are part of a funerary or mortuary cycle, including memorial potlatches, if:

(1) The person organizing the religious ceremony, or designee, contacts the appropriate Federal land management agency prior to taking or attempting to take game and provides to the appropriate Federal land managing agency the name of the decedent, the nature of the ceremony, the species and number to be taken, and the Unit(s) in which the taking will occur;

(2) The taking does not violate recognized principles of fish and wildlife conservation;

(3) Each person who takes wildlife under this section must, as soon as practicable, and not more than 15 days after the harvest, submit a written report to the appropriate Federal land managing agency, specifying the harvester's name and address, the number, sex and species of wildlife taken, the date and locations of the taking, and the name of the decedent for whom the ceremony was held;

(4) No permit or harvest ticket is required for taking under this section; however, the harvester must be an Alaska rural resident with customary and traditional use in that area where the harvesting will occur;

(D) A Federally-qualified subsistence user (recipient) may designate another Federally-qualified subsistence user to take deer on his or her behalf unless the recipient is a member of a community operating under a community harvest system. The designated hunter must obtain a designated hunter permit and must return a completed harvest report. The designated hunter may hunt for any number of recipients but may have no more than two harvest limits in his/her possession at any one time.

Harvest limits | Open season
Hunting
Black Bear: 2 bears, no more than one may be a blue or glacier bear | Sept. 1-June 30.
Brown Bear: 1 bear every four regulatory years by State registration permit only | Sept. 15-Dec. 31. Mar. 15-May 31.
Deer:
Unit 1(A)—4 antlered deer | Aug. 1-Dec. 31.
Unit 1(B)—2 antlered deer | Aug. 1-Dec. 31.
Unit 1(C)—4 deer; however, antlerless deer may be taken only from Sept. 15-Dec. 31 | Aug. 1-Dec. 31.
Goat:
Unit 1(A)—Revillagigedo Island only | No open season.
Unit 1(B)—that portion north of LeConte Bay. 1 goat by State registration permit only; the taking of kids or nannies accompanied by kids is prohibited | Aug. 1-Dec. 31.
Unit 1(B)—that portion between LeConte Bay and the North Fork of Bradfield River/Canal. 2 goats; a State registration permit will be required for the taking of the first goat and a Federal registration permit for the taking of a second goat; the taking of kids or nannies accompanied by kids is prohibited | Aug. 1-Dec. 31.
Unit 1(A) and Unit 1(B)—remainder—2 goats by State registration permit only | Aug. 1-Dec. 31.
Unit 1(C)—that portion draining into Lynn Canal and Stephens Passage between Antler River and Eagle Glacier and River, and all drainages of the Chilkat Range south of the Endicott River—1 goat by State registration permit only | Oct. 1-Nov. 30.
Unit 1(C)—that portion draining into Stephens Passage and Taku Inlet between Eagle Glacier and River and Taku Glacier | No open season.
Unit 1(C)—remainder—1 goat by State registration permit only | Aug. 1-Nov. 30.
Unit 1(D)—that portion lying north of the Katzehin River and northeast of the Haines highway—1 goat by State registration permit only | Sept. 15-Nov. 30.
Unit 1(D)—that portion lying between Taiya Inlet and River and the White Pass and Yukon Railroad | No open season.
Unit 1(D)—remainder—1 goat by State registration permit only | Aug. 1-Dec. 31.
Moose:
Unit 1(A)—1 antlered bull | Sept. 15-Oct. 15.
Unit 1(B)—1 antlered bull with spike-fork or 50-inch antlers or 3 or more brow tines on either antler, by State registration permit only | Sept. 15-Oct. 15.
Unit 1(C), that portion south of Point Hobart including all Port Houghton drainages—1 antlered bull with spike-fork or 50-inch antlers or 3 or more brow tines on either antler, by State registration permit only | Sept. 15-Oct. 15.
Unit 1(C)—remainder, excluding drainages of Berners Bay—1 antlered bull by State registration permit only | Sept. 15-Oct. 15.
Unit 1(D) | No open season.
Coyote:
2 coyotes | Sept. 1-Apr. 30.
Fox, Red (including Cross, Black, and Silver Phases): 2 foxes | Nov. 1-Feb. 15.
Hare (Snowshoe): 5 hares per day | Sept. 1-Apr. 30.
Lynx: 2 lynx | Dec. 1-Feb. 15.
Wolf: 5 wolves | Aug. 1-Apr. 30.
Wolverine: 1 wolverine | Nov. 10-Feb. 15.
Grouse (Spruce, Blue, and Ruffed): 5 per day, 10 in possession | Aug. 1-May 15.
Ptarmigan (Rock, Willow, and White-tailed): 20 per day, 40 in possession | Aug. 1-May 15.
Trapping
Beaver: Unit 1(A), (B), and (C)—No limit | Dec. 1-May 15.
Coyote: No limit | Dec. 1-Feb. 15.
Fox, Red (including Cross, Black, and Silver Phases): No limit | Dec. 1-Feb. 15.
Lynx: No limit | Dec. 1-Feb. 15.
Marten: No limit | Dec. 1-Feb. 15.
Mink and Weasel: No limit | Dec. 1-Feb. 15.
Muskrat: No limit | Dec. 1-Feb. 15.
Otter: No limit | Dec. 1-Feb. 15.
Wolf: No limit | Nov. 10-Apr. 30.
Wolverine: No limit | Nov. 10-Apr. 30.

(2) Unit 2. Unit 2 consists of Prince of Wales Island and all islands west of the center lines of Clarence Strait and Kashevarof Passage, south and east of the center lines of Sumner Strait, and east of the longitude of the western most point on Warren Island.

(i) Unit-specific regulations:

(A) You may use bait to hunt black bear between April 15 and June 15;

(B) You may not shoot ungulates, bear, wolves, or wolverine from a boat, unless you are certified as disabled;

(C) You may take wildlife outside the seasons or harvest limits provided in this part for food in traditional religious ceremonies which are part of a funerary or mortuary cycle, including memorial potlatches, if:

(1) The person organizing the religious ceremony, or designee, contacts the appropriate Federal land management agency prior to taking or attempting to take game and provides to the appropriate Federal land managing agency the name of the decedent, the nature of the ceremony, the species and number to be taken, and the Unit(s) in which the taking will occur;

(2) The taking does not violate recognized principles of fish and wildlife conservation;

(3) Each person who takes wildlife under this section must, as soon as practicable, and not more than 15 days after the harvest, submit a written report to the appropriate Federal land managing agency, specifying the harvester's name and address, the number, sex and species of wildlife taken, the date and locations of the taking, and the name of the decedent for whom the ceremony was held;

(4) No permit or harvest ticket is required for taking under this section; however, the harvester must be an Alaska rural resident with customary and traditional use in that area where the harvesting will occur;

(D) A Federally-qualified subsistence user (recipient) may designate another Federally-qualified subsistence user to take deer on his or her behalf unless the recipient is a member of a community operating under a community harvest system. The designated hunter must obtain a designated hunter permit and must return a completed harvest report. The designated hunter may hunt for any number of recipients but may have no more than two harvest limits in his/her possession at any one time.

(ii)[Reserved]

Harvest limits | Open season
Hunting
Black Bear: 2 bears, no more than one may be a blue or glacier bear | Sept. 1-June 30.
Deer: 4 deer; however, no more than one may be an antlerless deer. Antlerless deer may be taken only during the period Oct. 15-Dec. 31 by Federal registration permit only | Aug. 1-Dec. 31.
Coyote: 2 coyotes | Sept. 1-Apr. 30.
Fox, Red (including Cross, Black, and Silver Phases): 2 foxes | Nov. 1-Feb. 15.
Hare (Snowshoe): 5 hares per day | Sept. 1-Apr. 30.
Lynx: 2 lynx | Dec. 1-Feb. 15.
Wolf: 5 wolves | Nov. 15-Mar. 15.
Wolverine: 1 wolverine. | Nov. 10-Feb. 15.
Grouse (Spruce and Ruffed): 5 per day, 10 in possession | Aug. 1-May 15.
Ptarmigan (Rock, Willow, and White-tailed): 20 per day, 40 in possession | Aug. 1-May 15.
Trapping
Beaver: No limit | Dec. 1-May 15.
Coyote: No limit | Dec. 1-Feb. 15.
Fox, Red (including Cross, Black, and Silver Phases): No limit | Dec. 1-Feb. 15.
Lynx: No limit | Dec. 1-Feb. 15.
Marten: No limit | Dec. 1-Feb. 15.
Mink and Weasel: No limit | Dec. 1-Feb. 15
Muskrat: No limit | Dec. 1-Feb. 15.
Otter: No limit | Dec. 1-Feb. 15.
Wolf: No limit | Nov. 15-Mar. 15.
Wolverine: No limit | Nov. 10-Apr. 30.

(3) Unit 3. (i) Unit 3 consists of all islands west of Unit 1(B), north of Unit 2, south of the center line of Frederick Sound, and east of the center line of Chatham Strait including Coronation, Kuiu, Kupreanof, Mitkof, Zarembo, Kashevarof, Woronkofski, Etolin, Wrangell, and Deer Islands.

(ii) In the following areas, the taking of wildlife for subsistence uses is prohibited or restricted on public lands:

(A) In the Petersburg vicinity, you may not take ungulates, bear, wolves, and wolverine along a strip one-fourth mile wide on each side of the Mitkof Highway from Milepost 0 to Crystal Lake campground;

(B) You may not take black bears in the Petersburg Creek drainage on Kupreanof Island;

(C) You may not hunt in the Blind Slough draining into Wrangell Narrows and a strip one-fourth mile wide on each side of Blind Slough, from the hunting closure markers at the southernmost portion of Blind Island to the hunting closure markers one mile south of the Blind Slough bridge.

(iii) Unit-specific regulations:

(A) You may use bait to hunt black bear between April 15 and June 15;

(B) You may not shoot ungulates, bear, wolves, or wolverine from a boat, unless you are certified as disabled;

(C) You may take wildlife outside the seasons or harvest limits provided in this part for food in traditional religious ceremonies which are part of a funerary or mortuary cycle, including memorial potlatches, if:

(1) The person organizing the religious ceremony, or designee, contacts the appropriate Federal land management agency prior to taking or attempting to take game and provides to the appropriate Federal land managing agency the name of the decedent, the nature of the ceremony, the species and number to be taken, and the Unit(s) in which the taking will occur;

(2) The taking does not violate recognized principles of fish and wildlife conservation;

(3) Each person who takes wildlife under this section must, as soon as practicable, and not more than 15 days after the harvest, submit a written report to the appropriate Federal land managing agency, specifying the harvester's name and address, the number, sex and species of wildlife taken, the date and locations of the taking, and the name of the decedent for whom the ceremony was held;

(4) No permit or harvest ticket is required for taking under this section; however, the harvester must be an Alaska rural resident with customary and traditional use in that area where the harvesting will occur;

(D) A Federally-qualified subsistence user (recipient) may designate another Federally-qualified subsistence user to take deer on his or her behalf unless the recipient is a member of a community operating under a community harvest system. The designated hunter must obtain a designated hunter permit and must return a completed harvest report. The designated hunter may hunt for any number of recipients but may have no more than two harvest limits in his/her possession at any one time.

Harvest limits | Open season
Hunting
Black Bear: 2 bears, no more than one may be a blue or glacier bear | Sept. 1-June 30.
Deer:
Unit 3—Mitkof Island, Woewodski Island, Butterworth Islands and that portion of Kupreanof Island which includes Lindenburg Peninsula east of the Portage Bay/Duncan Canal Portage—1 antlered deer by State registration permit only; however, the city limits of Petersburg and Kupreanof are closed to hunting | Oct. 15-Oct. 31.
Unit 3—remainder—2 antlered deer | Aug. 1-Nov. 30.
Moose: 1 antlered bull with spike-fork or 50-inch antlers or 3 or more brow tines on either antler by State registration permit only | Sept. 15-Oct. 15.
Coyote: 2 coyotes | Sept. 1-Apr. 30.
Fox, Red (including Cross, Black, and Silver Phases): 2 foxes | Nov. 1-Feb. 15.
Hare (Snowshoe): 5 hares per day | Sept. 1-Apr. 30.
Lynx: 2 lynx | Dec. 1-Feb. 15.
Wolf: 5 wolves | Aug. 1-Apr. 30.
Wolverine: 1 wolverine | Nov. 10-Feb. 15.
Grouse (Spruce, Blue, and Ruffed): 5 per day, 10 in possession | Aug. 1-May 15.
Ptarmigan (Rock, Willow, and White-tailed): 20 per day, 40 in possession | Aug. 1-May 15.
Trapping
Beaver:
Unit 3-Mitkof Island-No limit | Dec. 1-Apr. 15.
Unit 3-except Mitkof Island-No limit | Dec. 1-May 15.
Coyote: No limit | Dec. 1-Feb. 15.
Fox, Red (including Cross, Black, and Silver Phases): No limit | Dec. 1-Feb. 15.
Lynx: No limit | Dec. 1-Feb. 15.
Marten: No limit | Dec. 1-Feb. 15.
Mink and Weasel: No limit | Dec. 1-Feb. 15.
Muskrat: No limit | Dec. 1-Feb. 15.
Otter: No limit | Dec. 1-Feb. 15.
Wolf: No limit | Nov. 10-Apr. 30.
Wolverine: No limit | Nov. 10-Apr. 30.

(4) Unit 4. (i) Unit 4 consists of all islands south and west of Unit 1(C) and north of Unit 3 including Admiralty, Baranof, Chichagof, Yakobi, Inian, Lemesurier, and Pleasant Islands.

(ii) In the following areas, the taking of wildlife for subsistence uses is prohibited or restricted on public lands:

(A) You may not take bears in the Seymour Canal Closed Area (Admiralty Island) including all drainages into northwestern Seymour Canal between Staunch Point and the southernmost tip of the unnamed peninsula separating Swan Cove and King Salmon Bay including Swan and Windfall Islands;

(B) You may not take bears in the Salt Lake Closed Area (Admiralty Island) including all lands within one-fourth mile of Salt Lake above Klutchman Rock at the head of Mitchell Bay;

(C) You may not take brown bears in the Port Althorp Closed Area (Chichagof Island), that area within the Port Althorp watershed south of a line from Point Lucan to Salt Chuck Point (Trap Rock);

(D) You may not use any motorized land vehicle for brown bear hunting in the Northeast Chichagof Controlled Use Area (NECCUA) consisting of all portions of Unit 4 on Chichagof Island north of Tenakee Inlet and east of the drainage divide from the northwest point of Gull Cove to Port Frederick Portage, including all drainages into Port Frederick and Mud Bay;

(E) You may not use any motorized land vehicle for the taking of marten, mink, and weasel on Chichagof Island.

(iii) Unit-specific regulations:

(A) You may shoot ungulates from a boat. You may not shoot bear, wolves, or wolverine from a boat, unless you are certified as disabled;

(B) A Federally-qualified subsistence user (recipient) may designate another Federally-qualified subsistence user to take deer on his or her behalf unless the recipient is a member of a community operating under a community harvest system. The designated hunter must obtain a designated hunter permit and must return a completed harvest report. The designated hunter may hunt for any number of recipients but may have no more than two harvest limits in his/her possession at any one time;

(C) You may take wildlife outside the seasons or harvest limits provided in this part for food in traditional religious ceremonies which are part of a funerary or mortuary cycle, including memorial potlatches, if:

(1) The person organizing the religious ceremony, or designee, contacts the appropriate Federal land management agency prior to taking or attempting to take game and provides to the appropriate Federal land managing agency the name of the decedent, the nature of the ceremony, the species and number to be taken, and the Unit(s) in which the taking will occur;

(2) The taking does not violate recognized principles of fish and wildlife conservation;

(3) Each person who takes wildlife under this section must, as soon as practicable, and not more than 15 days after the harvest, submit a written report to the appropriate Federal land managing agency, specifying the harvester's name and address, the number, sex and species of wildlife taken, the date and locations of the taking, and the name of the decedent for whom the ceremony was held;

(4) No permit or harvest ticket is required for taking under this section; however, the harvester must be an Alaska rural resident with customary and traditional use in that area where the harvesting will occur;

(D) Five Federal registration permits will be issued for the taking of brown bear for educational purposes associated with teaching customary and traditional subsistence harvest and use practices. Any bear taken under an educational permit would count in an individual's one bear every four regulatory years limit.

Harvest limits | Open season
Hunting
Brown Bear:
Unit 4—Chichagof Island south and west of a line that follows the crest of the island from Rock Point (58° N. lat., 136° 21′ W. long.) to Rodgers Point (57° 35′ N. lat., 135° 33′ W. long.) including Yakobi and other adjacent islands; Baranof Island south and west of a line which follows the crest of the island from Nismeni Point (57° 34′ N. lat., 135° 25′ W. long.) to the entrance of Gut Bay (56° 44′ N. lat. 134° 38′ W. long.) including the drainages into Gut Bay and including Kruzof and other adjacent islands—1 bear every four regulatory years by State registration permit only | Sept. 15-Dec. 31. Mar. 15-May 31
Unit 4—that portion in the Northeast Chichagof Controlled Use Area—1 bear every four regulatory years by State registration permit only | Mar. 15-May 20.
Unit 4—remainder—1 bear every four regulatory years by State registration permit only | Sept. 15-Dec. 31. Mar. 15-May 20.
Deer: 6 deer; however, antlerless deer may be taken only from Sept. 15-Jan. 31 | Aug. 1-Jan. 31.
Goat: 1 goat by State registration permit only | Aug. 1-Dec. 31.
Coyote: 2 coyotes | Sept. 1-Apr. 30.
Fox, Red (including Cross, Black, and Silver Phases): 2 foxes | Nov. 1-Feb. 15.
Hare (Snowshoe): 5 hares per day | Sept. 1-Apr. 30.
Lynx: 2 lynx | Dec. 1-Feb. 15.
Wolf: 5 wolves | Aug. 1-Apr. 30.
Wolverine: 1 wolverine | Nov. 10-Feb. 15.
Grouse (Spruce, Blue, and Ruffed): 5 per day, 10 in possession | Aug. 1-May 15.
Ptarmigan (Rock, Willow, and White-tailed): 20 per day, 40 in possession | Aug. 1.-May 15.
Trapping
Beaver:
Unit 4—that portion east of Chatham Strait—No limit | Dec. 1-May 15.
Remainder of Unit 4 | No open season.
Coyote: No limit | Dec. 1-Feb. 15.
Fox, Red (including Cross, Black, and Silver Phases): No limit | Dec. 1-Feb. 15.
Lynx: No limit | Dec. 1-Feb. 15.
Marten: No limit | Dec. 1-Feb. 15.
Mink and Weasel: No limit | Dec. 1-Feb. 15.
Muskrat: No limit | Dec. 1-Feb. 15.
Otter: No limit | Dec. 1-Feb. 15.
Wolf: No limit | Nov. 10-Apr. 30.
Wolverine: No limit | Nov. 10-Apr. 30.

(5) Unit 5. (i) Unit 5 consists of all Gulf of Alaska drainages and islands between Cape Fairweather and the center line of Icy Bay, including the Guyot Hills:

(A) Unit 5(A) consists of all drainages east of Yakutat Bay, Disenchantment Bay, and the eastern edge of Hubbard Glacier, and includes the islands of Yakutat and Disenchantment Bays;

(B) Unit 5(B) consists of the remainder of Unit 5.

(ii) You may not take wildlife for subsistence uses on public lands within Glacier Bay National Park.

(iii) Unit-specific regulations:

(A) You may use bait to hunt black bear between April 15 and June 15;

(B) You may not shoot ungulates, bear, wolves, or wolverine from a boat, unless you are certified as disabled;

(C) You may hunt brown bear in Unit 5 with a Federal registration permit in lieu of a State metal locking tag; if you have obtained a Federal registration permit prior to hunting;

(D) You may take wildlife outside the seasons or harvest limits provided in this part for food in traditional religious ceremonies which are part of a funerary or mortuary cycle, including memorial potlatches, if:

(1) The person organizing the religious ceremony, or designee, contacts the appropriate Federal land management agency prior to taking or attempting to take game and provides to the appropriate Federal land managing agency the name of the decedent, the nature of the ceremony, the species and number to be taken, and the Unit(s) in which the taking will occur;

(2) The taking does not violate recognized principles of fish and wildlife conservation;

(3) Each person who takes wildlife under this section must, as soon as practicable, and not more than 15 days after the harvest, submit a written report to the appropriate Federal land managing agency, specifying the harvester's name and address, the number, sex and species of wildlife taken, the date and locations of the taking, and the name of the decedent for whom the ceremony was held;

(4) No permit or harvest ticket is required for taking under this section; however, the harvester must be an Alaska rural resident with customary and traditional use in that area where the harvesting will occur;

(E) A Federally-qualified subsistence user (recipient) may designate another Federally-qualified subsistence user to take deer or moose on his or her behalf unless the recipient is a member of a community operating under a community harvest system. The designated hunter must obtain a designated hunter permit and must return a completed harvest report. The designated hunter may hunt for any number of recipients but may have no more than two harvest limits in his/her possession at any one time.

Harvest limits | Open season
Hunting
Black Bear: 2 bears, no more than one may be a blue or glacier bear | Sept. 1-June 30.
Brown Bear: 1 bear by Federal registration permit only | Sept. 1-May 31
Deer:
Unit 5(A)—1 buck | Nov. 1-Nov. 30.
Unit 5(B) | No open season.
Goat: 1 goat by Federal registration permit only | Aug. 1-Jan. 31.
Moose:
Unit 5(A), Nunatak Bench—1 moose by State registration permit only. The season will be closed when 5 moose have been taken from the Nunatak Bench | Nov. 15-Feb. 15.
Unit 5(A), except Nunatak Bench—1 antlered bull by Federal registration permit only. The season will be closed when 60 antlered bulls have been taken from the Unit. The season will be closed in that portion west of the Dangerous River when 30 antlered bulls have been taken in that area. From Oct. 8-Oct. 21, public lands will be closed to taking of moose, except by residents of Unit 5(A) | Oct. 8—Nov. 15.
Unit 5(B)—1 antlered bull by State registration permit only. The season will be closed when 25 antlered bulls have been taken from the entirety of Unit 5(B) | Sept. 1-Dec. 15.
Coyote: 2 coyotes | Sept. 1-Apr. 30.
Fox, Red (including Cross, Black and Silver Phases): 2 foxes | Nov. 1-Feb. 15.
Hare (Snowshoe): 5 hares per day | Sept. 1-Apr. 30.
Lynx: 2 lynx | Dec. 1-Feb. 15.
Wolf: 5 wolves | Aug. 1-Apr. 30.
Wolverine: 1 wolverine | Nov. 10-Feb. 15.
Grouse (Spruce and Ruffed): 5 per day, 10 in possession | Aug. 1-May 15.
Ptarmigan (Rock, Willow, and White-tailed): 20 per day, 40 in possession | Aug. 1-May 15.
Trapping
Beaver: No limit. | Nov. 10-May 15.
Coyote: No limit | Dec. 1-Feb. 15.
Fox, Red (including Cross, Black and Silver Phases): No limit | Dec. 1-Feb. 15.
Lynx: No limit | Dec. 1-Feb. 15.
Marten: No limit | Nov. 10-Feb. 15.
Mink and Weasel: No limit | Nov. 10-Feb. 15.
Muskrat: No limit | Dec. 1-Feb. 15.
Otter: No limit. | Nov. 10-Feb. 15.
Wolf: No limit | Nov. 10-Apr. 30.
Wolverine: No limit | Nov. 10-Apr. 30.

(6) Unit 6. (i) Unit 6 consists of all Gulf of Alaska and Prince William Sound drainages from the center line of Icy Bay (excluding the Guyot Hills) to Cape Fairfield including Kayak, Hinchinbrook, Montague, and adjacent islands, and Middleton Island, but excluding the Copper River drainage upstream from Miles Glacier, and excluding the Nellie Juan and Kings River drainages:

(A) Unit 6(A) consists of Gulf of Alaska drainages east of Palm Point near Katalla including Kanak, Wingham, and Kayak Islands;

(B) Unit 6(B) consists of Gulf of Alaska and Copper River Basin drainages west of Palm Point near Katalla, east of the west bank of the Copper River, and east of a line from Flag Point to Cottonwood Point;

(C) Unit 6(C) consists of drainages west of the west bank of the Copper River, and west of a line from Flag Point to Cottonwood Point, and drainages east of the east bank of Rude River and drainages into the eastern shore of Nelson Bay and Orca Inlet;

(D) Unit 6(D) consists of the remainder of Unit 6.

(ii) For the following areas, the taking of wildlife for subsistence uses is prohibited or restricted on public lands:

(A) You may not take mountain goat in the Goat Mountain goat observation area, which consists of that portion of Unit 6(B) bounded on the north by Miles Lake and Miles Glacier, on the south and east by Pleasant Valley River and Pleasant Glacier, and on the west by the Copper River;

(B) You may not take mountain goat in the Heney Range goat observation area, which consists of that portion of Unit 6(C) south of the Copper River Highway and west of the Eyak River.

(iii) Unit-specific regulations:

(A) You may use bait to hunt black bear between April 15 and June 15;

(B) You may take coyotes in Units 6(B) and 6(C) with the aid of artificial lights;

(C) One permit will be issued to the Native Village of Eyak to take one bull moose from Federal lands in Units 6(B) or (C) for their annual Memorial/Sobriety Day potlatch.

Harvest limits | Open season
Hunting
Black Bear: 1 bear | Sept. 1-June 30.
Deer: 4 deer; however, antlerless deer may be taken only from Oct. 1-Dec. 31 | Aug. 1-Dec. 31.
Goats:
Unit 6(A), (B)—1 goat by State registration permit only | Aug. 20-Jan. 31.
Unit 6(C) | No open season.
Unit 6(D) (subareas RG242, RG243, RG244, RG249, RG266 and RG252 only)—1 goat by Federal registration permit only | Aug. 20-Jan. 31.
In each of the Unit 6(D) subareas, goat seasons will be closed when harvest limits for that subarea are reached. Harvest quotas are as follows: RG242—2 goats, RG243—4 goats, RG244—2 goats, RG249—4 goats, RG266—4 goats, RG252—1 goat
Unit 6(D) (subarea RG245)—The taking of goats is prohibited on all public lands | No open season.
Moose:
Unit 6(C)—1 cow by Federal registration permit only. (Five permits will be issued.) | Aug. 15-Dec. 31.
Unit 6—remainder | No open season.
Beaver: 1 beaver per day, 1 in possession. | May 1-Oct. 31.
Coyote:
Unit 6(A) and (D)—2 coyotes | Sept. 1-Apr. 30.
Unit 6(B) and 6(C)—No limit | July 1-June 30.
Fox, Red (including Cross, Black and Silver Phases) | No open season.
Hare (Snowshoe): No limit | July 1-June 30.
Lynx | No open season.
Wolf: 5 wolves | Aug. 10-Apr. 30.
Wolverine: 1 wolverine | Sept. 1-Mar. 31.
Grouse (Spruce): 5 per day, 10 in possession | Aug. 1-May 15.
Ptarmigan (Rock, Willow, and White-tailed): 20 per day, 40 in possession | Aug. 1-May 15.
Trapping
Beaver: No limit | Dec. 1-Apr. 30.
Coyote:
Unit 6(C)—south of the Copper River Highway and east of the Heney Range—No limit | Nov. 10-Apr. 30.
Unit 6(A), (B), (C)—remainder, and (D)—No limit | Nov. 10-Mar. 31.
Fox, Red (including Cross, Black and Silver Phases): No limit | Nov. 10-Feb. 28.
Lynx: No limit. | Jan. 15-Feb. 15.
Marten: No limit | Nov. 10-Feb. 28.
Mink and Weasel: No limit | Nov. 10-Jan. 31.
Muskrat: No limit | Nov. 10-June 10.
Otter: No limit | Nov. 10-Mar. 31
Wolf: No limit | Nov. 10-Mar. 31.
Wolverine: No limit. | Nov. 10-Feb. 28.

(7) Unit 7. (i) Unit 7 consists of Gulf of Alaska drainages between Gore Point and Cape Fairfield including the Nellie Juan and Kings River drainages, and including the Kenai River drainage upstream from the Russian River, the drainages into the south side of Turnagain Arm west of and including the Portage Creek drainage, and east of 150° W. long., and all Kenai Peninsula drainages east of 150° W. long., from Turnagain Arm to the Kenai River.

(ii) In the following areas, the taking of wildlife for subsistence uses is prohibited or restricted on public lands:

(A) You may not take wildlife for subsistence uses in the Kenai Fjords National Park;

(B) You may not hunt in the Portage Glacier Closed Area in Unit 7, which consists of Portage Creek drainages between the Anchorage-Seward Railroad and Placer Creek in Bear Valley, Portage Lake, the mouth of Byron Creek, Glacier Creek, and Byron Glacier; however, you may hunt grouse, ptarmigan, hares, and squirrels with shotguns after September 1.

(iii) Unit-specific regulations:

(A) You may use bait to hunt black bear between April 15 and June 15; except in the drainages of Resurrection Creek and its tributaries.

(B) [Reserved]

Harvest limits | Open season
Hunting
Black Bear: Unit 7-3 bears | July 1-June 30.
Moose:
Unit 7—that portion draining into Kings Bay—1 bull with spike-fork or 50-inch antlers or 3 or more brow tines on either antler may be taken by the community of Chenega Bay and also by the community of Tatitlek. Public lands are closed to the taking of moose except by eligible rural residents | No open season.
Unit 7—remainder | No open season.
Beaver: 1 beaver per day, 1 in possession | May 1-Oct. 10.
Coyote: No limit | Sept. 1- Apr. 30.
Fox, Red (including Cross, Black and Silver Phases): 2 foxes | Nov. 1-Feb. 15.
Hare (Snowshoe): No limit | July 1-June 30.
Wolf:
Unit 7—that portion within the Kenai National Wildlife Refuge—2 wolves | Aug. 10-Apr. 30.
Unit 7—Remainder—5 wolves | Aug. 10-Apr. 30.
Wolverine: 1 wolverine | Sept. 1-Mar. 31.
Grouse (Spruce and Ruffed): 15 per day, 30 in possession | Aug. 10-Mar. 31.
Ptarmigan (Rock, Willow, and White-tailed): 20 per day, 40 in possession | Aug. 10-Mar. 31.
Trapping
Beaver: 20 beaver per season | Nov. 10-Mar. 31.
Coyote: No limit | Nov. 10-Mar. 31.
Fox, Red (including Cross, Black and Silver Phases): No limit | Nov. 10-Feb. 28.
Lynx: No limit | Jan. 15-Feb. 15.
Marten: No limit | Nov. 10-Jan. 31.
Mink and Weasel: No limit | Nov. 10-Jan. 31.
Muskrat: No limit | Nov. 10-May 15.
Otter: No limit | Nov. 10-Feb. 28.
Wolf: No limit | Nov. 10-Mar. 31.
Wolverine: No limit | Nov. 10-Feb. 28.

(8) Unit 8. Unit 8 consists of all islands southeast of the centerline of Shelikof Strait including Kodiak, Afognak, Whale, Raspberry, Shuyak, Spruce, Marmot, Sitkalidak, Amook, Uganik, and Chirikof Islands, the Trinity Islands, the Semidi Islands, and other adjacent islands.

(i) If you have a trapping license, you may take beaver with a firearm in Unit 8 from Nov. 10-Apr. 30.

(ii) A Federally-qualified subsistence user (recipient) may designate another Federally-qualified subsistence user to take deer on his or her behalf unless the recipient is a member of a community operating under a community harvest system. The designated hunter must obtain a designated hunter permit and must return a completed harvest report. The designated hunter may hunt for any number of recipients but may have no more than two harvest limits in his/her possession at any one time.

Harvest limits | Open season
Hunting
Brown Bear: 1 bear by Federal registration permit only. Up to 1 permit may be issued in Akiok; up to 1 permit may be issued in Karluk; up to 3 permits may be issued in Larsen Bay; up to 2 permits may be issued in Old Harbor; up to 2 permits may be issued in Ouzinkie; and up to 2 permits may be issued in Port Lions | Dec 1-Dec 15. Apr. 1-May 15.
Deer:
Unit 8—that portion of Kodiak Island and adjacent islands south and west of a line from the head of Terror Bay to the head of the south-western most arm of Ugak Bay—5 deer; however, antlerless deer may be taken only from Oct. 1-Jan. 31 | Aug. 1-Jan. 31.
Unit 8—remainder—5 deer; however, antlerless deer may be taken only from Oct. 1-Jan. 31; no more than 1 antlerless deer may be taken from Oct. 1-Nov. 30 | Aug. 1-Jan. 31.
Elk: Kodiak, Ban, Uganik, and Afognak Islands—1 elk per household by Federal registration permit only. The season will be closed by announcement of the Refuge Manager, Kodiak National Wildlife Refuge when the combined Federal/State harvest reaches 15% of the herd | Sept.15-Nov. 30.
Fox, Red (including Cross, Black and Silver Phases): 2 foxes | Sept. 1-Feb. 15.
Hare (Snowshoe): No limit | July 1-June 30.
Ptarmigan (Rock, Willow, and White-tailed): 20 per day, 40 in possession | Aug. 10-Apr. 30.
Trapping
Beaver: 30 beaver per season | Nov. 10-Apr. 30.
Fox, Red (including Cross, Black and Silver Phases): No limit | Nov. 10-Mar. 31.
Marten: No limit | Nov. 10-Jan. 31.
Mink and Weasel: No limit | Nov. 10-Jan. 31.
Muskrat: No limit | Nov. 10-June 10.
Otter: No limit | Nov. 10-Jan. 31.

(9) Unit 9. (i) Unit 9 consists of the Alaska Peninsula and adjacent islands including drainages east of False Pass, Pacific Ocean drainages west of and excluding the Redoubt Creek drainage; drainages into the south side of Bristol Bay, drainages into the north side of Bristol Bay east of Etolin Point, and including the Sanak and Shumagin Islands:

(A) Unit 9(A) consists of that portion of Unit 9 draining into Shelikof Strait and Cook Inlet between the southern boundary of Unit 16 (Redoubt Creek) and the northern boundary of Katmai National Park and Preserve;

(B) Unit 9(B) consists of the Kvichak River drainage;

(C) Unit 9(C) consists of the Alagnak (Branch) River drainage, the Naknek River drainage, and all land and water within Katmai National Park and Preserve;

(D) Unit 9(D) consists of all Alaska Peninsula drainages west of a line from the southernmost head of Port Moller to the head of American Bay including the Shumagin Islands and other islands of Unit 9 west of the Shumagin Islands;

(E) Unit 9(E) consists of the remainder of Unit 9.

(ii) In the following areas, the taking of wildlife for subsistence uses is prohibited or restricted on public lands:

(A) You may not take wildlife for subsistence uses in Katmai National Park;

(B) You may not use motorized vehicles, except aircraft, boats, or snowmobiles used for hunting and transporting a hunter or harvested animal parts from Aug. 1-Nov. 30 in the Naknek Controlled Use Area, which includes all of Unit 9(C) within the Naknek River drainage upstream from and including the King Salmon Creek drainage; however, you may use a motorized vehicle on the Naknek-King Salmon, Lake Camp, and Rapids Camp roads and on the King Salmon Creek trail, and on frozen surfaces of the Naknek River and Big Creek.

(iii) Unit-specific regulations:

(A) If you have a trapping license, you may use a firearm to take beaver in Unit 9(B) from April 1-May 31 and in the remainder of Unit 9 from April 1-April 30;

(B) In Unit 9(B), Lake Clark National Park and Preserve, residents of Nondalton, Iliamna, Newhalen, Pedro Bay, and Port Alsworth, may hunt brown bear by Federal registration permit in lieu of a resident tag; ten permits will be available with at least one permit issued in each community but no more than five permits will be issued in a single community; the season will be closed when four females or ten bears have been taken, whichever occurs first;

(C) Residents of Newhalen, Nondalton, Iliamna, Pedro Bay, and Port Alsworth may take up to a total of 10 bull moose in Unit 9(B) for ceremonial purposes, under the terms of a Federal registration permit from July 1 through June 30. Permits will be issued to individuals only at the request of a local organization. This 10 moose limit is not cumulative with that permitted for potlatches by the State;

(D) For Units 9(C) and (E) only, a Federally-qualified subsistence user (recipient) of Units 9(C) and (E) may designate another Federally-qualified subsistence user of Units 9(C) and (E) to take bull caribou on his or her behalf unless the recipient is a member of a community operating under a community harvest system. The designated hunter must obtain a designated hunter permit and must return a completed harvest report and turn over all meat to the recipient. There is no restriction on the number of possession limits the designated hunter may have in his/her possession at any one time;

(E) For Unit 9(D), a Federally-qualified subsistence user (recipient) may designate another Federally-qualified subsistence user to take caribou on his or her behalf unless the recipient is a member of a community operating under a community harvest system. The designated hunter must obtain a designated hunter permit and must return a completed harvest report. The designated hunter may hunt for any number of recipients but may have no more than four harvest limits in his/her possession at any one time;

(F) The communities of False Pass, King Cove, Cold Bay, Sand Point, and Nelson Lagoon annually may each take, from October 1 through December 31 or May 10 through May 25, one brown bear for ceremonial purposes, under the terms of a Federal registration permit. A permit will be issued to an individual only at the request of a local organization. The brown bear may be taken from either Unit 9(D) or Unit 10 (Unimak Island) only.

Harvest limits | Open season
Hunting
Black Bear: 3 bears | July 1-June 30.
Brown Bear:
Unit 9(B)—Lake Clark National Park and Preserve—Rural residents of Nondalton, Iliamna, Newhalen, Pedro Bay, and Port Alsworth only—1 bear by Federal registration permit only | July 1-June 30.
Unit 9(B), remainder—1 bear by State registration permit only | Sept. 1-May 31.
Unit 9(E)—1 bear by Federal registration permit | Sept. 25-Dec. 31. Apr. 15-May 25.
Caribou:
Unit 9(A)—4 caribou; however, no more than 2 caribou may be taken Aug. 10-Sept. 30 and no more than 1 caribou may be taken Oct. 1-Nov. 30 | Aug. 10-Mar. 31.
Unit 9(C), that portion within the Alagnak River drainage—1 caribou | Aug. 1-Mar. 31.
Unit 9(C), remainder—1 bull by Federal registration permit or State Tier II permit. Federal public lands are closed to the taking of caribou except by residents of Units 9(C) and (E) | Aug. 10-Sept. 20. Nov. 15-Feb. 28.
Unit 9(B)—5 caribou; however, no more than 2 bulls may be taken from Oct. 1-Nov. 30 | Aug. 1-Apr. 15.
Unit 9(D)—1 caribou by Federal registration permit | Aug. 1-Sept. 25. Nov. 15-Mar. 31.
Unit 9(E)—1 bull by Federal registration permit or State Tier II permit. Federal public lands are closed to the taking of caribou except by residents of Units 9(C) and (E) | Aug. 10-Sept. 20. Nov. 1-Apr. 30.
Sheep:
Unit 9(B)—Residents of Iliamna, Newhalen, Nondalton, Pedro Bay, Port Alsworth, and residents of Lake Clark National Park and Preserve within Unit 9(B)—1 ram with ⅞ curl horn by Federal registration permit only | Aug. 10-Oct. 10.
Remainder of Unit 9—1 ram with ⅞ curl horn | Aug. 10-Sept. 20.
Moose:
Unit 9(A)—1 bull | Sept. 1-Sept. 15.
Unit 9(B)—1 bull | Aug. 20-Sept. 15. Dec. 1-Jan. 15.
Unit 9(C)—that portion draining into the Naknek River from the north—1 bull | Sept. 1-Sept. 15. Dec. 1-Dec. 31.
Unit 9(C)—that portion draining into the Naknek River from the south—1 bull. However, during the period Aug. 20-Aug. 31, bull moose may be taken by Federal registration permit only. During the December hunt, antlerless moose may be taken by Federal registration permit only. The antlerless season will be closed when antlerless moose have been taken. Public lands are closed during December for the hunting of moose, except by eligible rural Alaska residents | Aug. 20-Sept. 15. Dec. 1-Dec. 31.
Unit 9(C)—remainder—1 moose; however, antlerless moose may be taken only from Dec. 1-Dec. 31 | Sept. 1-Sept. 15. Dec. 1-Dec. 31.
Unit 9(E)—1 bull | Aug. 20-Sept. 20. Dec. 1-Jan. 20.
Coyote: 2 coyotes. | Sept. 1-Apr. 30.
Fox, Arctic (Blue and White): No limit | Dec. 1-Mar. 15.
Fox, Red (including Cross, Black and Silver Phases): 2 foxes | Sept. 1-Feb. 15.
Hare (Snowshoe and Tundra): No limit | July 1-June 30.
Lynx: 2 lynx | Nov. 10-Feb. 28.
Wolf: 5 wolves | Aug. 10-Apr. 30.
Wolverine: 1 wolverine | Sept. 1-Mar. 31.
Grouse (Spruce): 15 per day, 30 in possession | Aug. 10-Apr. 30.
Ptarmigan (Rock, Willow, and White-tailed): 20 per day, 40 in possession | Aug. 10-Apr. 30.
Trapping
Beaver:
Unit 9(B), (C), and (E)—40 beaver per season; however, no more than 20 may be taken between Apr. 1-May 31 | Nov. 10-May 31.
Unit 9—remainder—40 beaver per season; however, no more than 20 may be taken between Apr. 1-Apr. 30 | Jan. 1-Apr. 30.
Coyote: No limit | Nov. 10-Mar. 31.
Fox, Arctic (Blue and White): No limit | Nov. 10-Feb. 28.
Fox, Red (including Cross, Black and Silver Phases): No limit | Nov. 10-Feb. 28.
Lynx: No limit | Nov. 10-Feb. 28.
Marten: No limit | Nov. 10-Feb. 28.
Mink and Weasel: No limit | Nov. 10-Feb. 28.
Muskrat: No limit | Nov. 10-June 10.
Otter: No limit | Nov. 10-Mar. 31.
Wolf: No limit | Nov. 10-Mar. 31.
Wolverine: No limit | Nov. 10-Feb. 28.

(10) Unit 10. (i) Unit 10 consists of the Aleutian Islands, Unimak Island, and the Pribilof Islands.

(ii) You may not take any wildlife species for subsistence uses on Otter Island in the Pribilof Islands.

(iii) In Unit 10—Unimak Island only, a Federally-qualified subsistence user (recipient) may designate another Federally-qualified subsistence user to take caribou on his or her behalf unless the recipient is a member of a community operating under a community harvest system. The designated hunter must obtain a designated hunter permit and must return a completed harvest report. The designated hunter may hunt for any number of recipients but may have no more than four harvest limits in his/her possession at any one time.

(iv) The communities of False Pass, King Cove, Cold Bay, Sand Point, and Nelson Lagoon annually may each take, from October 1 through December 31 or May 10 through May 25, one brown bear for ceremonial purposes, under the terms of a Federal registration permit. A permit will be issued to an individual only at the request of a local organization. The brown bear may be taken from either Unit 9(D) or Unit 10 (Unimak Island) only.

Harvest limits | Open season
Hunting
Caribou:
Unit 10—Unimak Island only—2 caribou by Federal registration permit only | Aug. 1-Sept. 25. Nov. 15-Mar. 31.
Unit 10—remainder—No limit | July 1-June 30.
Coyote: 2 coyotes | Sept. 1-Apr. 30.
Fox, Arctic (Blue and White Phase): No limit | July 1-June 30.
Fox, Red (including Cross, Black and Silver Phases): 2 foxes | Sept. 1-Feb. 15.
Wolf: 5 wolves | Aug. 10-Apr. 30.
Wolverine: 1 wolverine | Sept. 1-Mar. 31.
Ptarmigan (Rock and Willow): 20 per day, 40 in possession | Aug. 10-Apr. 30.
Trapping
Coyote: 2 coyotes. | Sept. 1-Apr. 30.
Fox, Arctic (Blue and White Phase): No limit | July 1-June 30.
Fox, Red (including Cross, Black and Silver Phases): 2 foxes | Sept. 1-Feb. 28.
Mink and Weasel: No limit | Nov. 10-Feb. 28.
Muskrat: No limit | Nov. 10-June 10.
Otter: No limit | Nov. 10-Mar. 31.
Wolf: No limit | Nov. 10-Mar. 31.
Wolverine: No limit | Nov. 10-Feb. 28.

(11) Unit 11. Unit 11 consists of that area draining into the headwaters of the Copper River south of Suslota Creek and the area drained by all tributaries into the east bank of the Copper River between the confluence of Suslota Creek with the Slana River and Miles Glacier.

(i) Unit-specific regulations:

(A) You may use bait to hunt black bear between April 15 and June 15;

(B) A Federally-qualified subsistence user (recipient) may designate another Federally-qualified subsistence user to take caribou and moose on his or her behalf. The designated hunter must obtain a designated hunter permit and must return a completed harvest report. The designated hunter may hunt for any number of recipients but may have no more than two harvest limits in his/her possession at any one time.

(ii) [Reserved]

Harvest limits | Open season
Hunting
Black Bear: 3 bears | July 1-June 30.
Brown Bear: Unit 11—1 bear | Sept. 1-May 31.
Caribou: Unit 11 | No open season.
Sheep:
1 sheep | Aug. 10-Sept. 20.
1 sheep by Federal registration permit only by persons 60 years of age or older | Sept. 21-Oct. 20.
Goat: Unit 11—that portion within the Wrangell-St. Elias National Park and Preserve—1 goat by Federal registration permit only. Federal public lands will be closed to the harvest of goats when a total of 45 goats have been harvested between Federal and State hunts | Aug. 25-Dec. 31.
Moose: 1 antlered bull by Federal registration permit only | Aug. 20-Sept. 20.
Beaver: 1 beaver per day, 1 in possession | June 1-Oct. 10.
Coyote: 10 coyotes | Sept. 1-Apr. 30.
Fox, Red (including Cross, Black and Silver Phases): 2 foxes | Sept. 1-Feb. 15.
Hare (Snowshoe): No limit | July 1-June 30.
Lynx: 2 lynx | Dec. 15-Jan. 15.
Wolf: 10 wolves | Aug. 10-Apr. 30.
Wolverine: 1 wolverine | Sept. 1-Jan. 31.
Grouse (Spruce, Ruffed, and Sharp-tailed): 15 per day, 30 in possession | Aug. 10-Mar. 31.
Ptarmigan (Rock, Willow, and White-tailed): 20 per day, 40 in possession | Aug. 10-Mar. 31.
Trapping
Beaver: 30 beaver per season | Nov. 10-Apr. 30.
Coyote: No limit | Nov. 10-Mar. 31.
Fox, Red (including Cross, Black and Silver Phases): No limit | Nov. 10-Feb. 28.
Lynx: No limit | Dec. 1-Jan. 31.
Marten: No limit | Nov. 10-Feb. 28.
Mink and Weasel: No limit | Nov. 10-Feb. 28.
Muskrat: No limit | Nov. 10-June 10.
Otter: No limit | Nov. 10-Mar. 31.
Wolf: No limit | Nov. 10-Mar. 31.
Wolverine: No limit | Nov. 10-Jan. 31.

(12) Unit 12. Unit 12 consists of the Tanana River drainage upstream from the Robertson River, including all drainages into the east bank of the Robertson River, and the White River drainage in Alaska, but excluding the Ladue River drainage.

(i) Unit-specific regulations:

(A) You may use bait to hunt black bear between April 15 and June 30;

(B) You may not use a steel trap, or a snare using cable smaller than 3/32 inch diameter to trap wolves in Unit 12 during April and October;

(C) A Federally-qualified subsistence user (recipient) may designate another Federally-qualified subsistence user to take caribou and moose on his or her behalf. The designated hunter must obtain a designated hunter permit and must return a completed harvest report. The designated hunter may hunt for any number of recipients but may have no more than two harvest limits in his/her possession at any one time.

(ii) [Reserved]

Harvest limits | Open season
Hunting
Black Bear: 3 bears | July 1-June 30.
Brown Bear: 1 bear | Aug. 10-June 30.
Caribou:
Unit 12—that portion of the Nabesna River drainage within the Wrangell-St. Elias National Park and Preserve and all Federal lands south of the Winter Trail running southeast from Pickerel Lake to the Canadian border—The taking of caribou is prohibited on Federal public lands | No open season.
Unit 12—remainder—1bull | Sept. 1-Sept. 20.
Unit 12—remainder—1 caribou may be taken by a Federal registration permit during a winter season to be announced. Dates for a winter season to occur between Oct. 1 and Apr. 30 and sex of animal to be taken will be announced by Tetlin National Wildlife Refuge Manager in consultation with Wrangel-St. Elias National Park and Preserve Superintendent, Alaska Department of Fish and Game area biologists, and Chairs of the Eastern Interior Regional Advisory Council and Upper Tanana/Fortymile Fish and Game Advisory Committee | Winter season to be announced.
Sheep: 1 ram with full curl horn or larger | Aug. 10-Sept. 20.
Moose:
Unit 12—that portion within the Tetlin National Wildlife Refuge and those lands within the Wrangell-St. Elias National Preserve north and east of a line formed by the Pickerel Lake Winter Trail from the Canadian border to the southern boundary of the Tetlin National Wildlife Refuge—1 antlered bull. The November season is open by Federal registration permit only | Aug. 24-Aug. 28. Sept. 8-Sept. 17. Nov. 20-Nov. 30.
Unit 12—that portion lying east of the Nabesna River and Nabesna Glacier and south of the Winter Trail running southeast from Pickerel Lake to the Canadian border—1 antlered bull; however during the Aug. 15-Aug. 28 season only bulls with spike/fork antlers may be taken | Aug. 15-Aug. 28. Sept. 1-Sept. 30.
Unit 12—remainder—1 antlered bull; however during the Aug. 15—Aug. 28 season only bulls with spike/fork antlers may be taken | Aug. 15-Aug. 28. Sept. 1-Sept. 15.
Coyote: 10 coyotes; however, no more than 2 coyotes may be taken before October 1 | Sept. 1-Apr. 30.
Fox, Red (including Cross, Black and Silver Phases): 10 foxes; however, no more than 2 foxes may be taken prior to Oct. 1 | Sept. 1-Mar. 15.
Hare (Snowshoe): No limit | July 1-June 30.
Lynx: 2 lynx | Nov. 1-Mar. 15.
Wolf: 10 wolves | Aug. 10-Apr. 30.
Wolverine: 1 wolverine | Sept. 1-Mar. 31
Grouse (Spruce, Ruffed, and Sharp-tailed): 15 per day, 30 in possession | Aug. 10-Mar. 31.
Ptarmigan (Rock, Willow, and White-tailed): 20 per day, 40 in possession | Aug. 10-Apr. 30.
Trapping
Beaver: 15 beaver per season | Nov. 1-Apr. 15.
Coyote: No limit | Oct. 15-Apr. 30.
Fox, Red (including Cross, Black and Silver Phases): No limit | Nov. 1-Feb. 28.
Lynx:
5 lynx. | Nov. 1-30.
No limit | Dec. 1-Mar. 15.
Marten: No limit | Nov. 1-Feb. 28.
Mink and Weasel: No limit | Nov. 1-Feb. 28.
Muskrat: No limit | Sept. 20-June 10.
Otter: No limit | Nov. 1-Apr. 15.
Wolf: No limit | Oct. 1-Apr. 30
Wolverine: No limit | Nov. 1-Feb. 28

(13) Unit 13. (i) Unit 13 consists of that area westerly of the east bank of the Copper River and drained by all tributaries into the west bank of the Copper River from Miles Glacier and including the Slana River drainages north of Suslota Creek; the drainages into the Delta River upstream from Falls Creek and Black Rapids Glacier; the drainages into the Nenana River upstream from the southeast corner of Denali National Park at Windy; the drainage into the Susitna River upstream from its junction with the Chulitna River; the drainage into the east bank of the Chulitna River upstream to its confluence with Tokositna River; the drainages of the Chulitna River (south of Denali National Park) upstream from its confluence with the Tokositna River; the drainages into the north bank of the Tokositna River upstream to the base of the Tokositna Glacier; the drainages into the Tokositna Glacier; the drainages into the east bank of the Susitna River between its confluences with the Talkeetna and Chulitna Rivers; the drainages into the north bank of the Talkeetna River; the drainages into the east bank of the Chickaloon River; the drainages of the Matanuska River above its confluence with the Chickaloon River:

(A) Unit 13(A) consists of that portion of Unit 13 bounded by a line beginning at the Chickaloon River bridge at Mile 77.7 on the Glenn Highway, then along the Glenn Highway to its junction with the Richardson Highway, then south along the Richardson Highway to the foot of Simpson Hill at Mile 111.5, then east to the east bank of the Copper River, then northerly along the east bank of the Copper River to its junction with the Gulkana River, then northerly along the west bank of the Gulkana River to its junction with the West Fork of the Gulkana River, then westerly along the west bank of the West Fork of the Gulkana River to its source, an unnamed lake, then across the divide into the Tyone River drainage, down an unnamed stream into the Tyone River, then down the Tyone River to the Susitna River, then down the southern bank of the Susitna River to the mouth of Kosina Creek, then up Kosina Creek to its headwaters, then across the divide and down Aspen Creek to the Talkeetna River, then southerly along the boundary of Unit 13 to the Chickaloon River bridge, the point of beginning;

(B) Unit 13(B) consists of that portion of Unit 13 bounded by a line beginning at the confluence of the Copper River and the Gulkana River, then up the east bank of the Copper River to the Gakona River, then up the Gakona River and Gakona Glacier to the boundary of Unit 13, then westerly along the boundary of Unit 13 to the Susitna Glacier, then southerly along the west bank of the Susitna Glacier and the Susitna River to the Tyone River, then up the Tyone River and across the divide to the headwaters of the West Fork of the Gulkana River, then down the West Fork of the Gulkana River to the confluence of the Gulkana River and the Copper River, the point of beginning;

(C) Unit 13(C) consists of that portion of Unit 13 east of the Gakona River and Gakona Glacier;

(D) Unit 13(D) consists of that portion of Unit 13 south of Unit 13(A);

(E) Unit 13(E) consists of the remainder of Unit 13.

(ii) Within the following areas, the taking of wildlife for subsistence uses is prohibited or restricted on public lands:

(A) You may not take wildlife for subsistence uses on lands within Mount McKinley National Park as it existed prior to December 2, 1980. Subsistence uses as authorized by this paragraph (m)(13) are permitted in Denali National Preserve and lands added to Denali National Park on December 2, 1980;

(B) You may not use motorized vehicles or pack animals for hunting from Aug. 5-Aug. 25 in the Delta Controlled Use Area, the boundary of which is defined as: a line beginning at the confluence of Miller Creek and the Delta River, then west to vertical angle bench mark Miller, then west to include all drainages of Augustana Creek and Black Rapids Glacier, then north and east to include all drainages of McGinnis Creek to its confluence with the Delta River, then east in a straight line across the Delta River to Mile 236.7 Richardson Highway, then north along the Richardson Highway to its junction with the Alaska Highway, then east along the Alaska Highway to the west bank of the Johnson River, then south along the west bank of the Johnson River and Johnson Glacier to the head of the Cantwell Glacier, then west along the north bank of the Canwell Glacier and Miller Creek to the Delta River;

(C) Except for access and transportation of harvested wildlife on Sourdough and Haggard Creeks, Meiers Lake trails, or other trails designated by the Board, you may not use motorized vehicles for subsistence hunting, is prohibited in the Sourdough Controlled Use Area. The Sourdough Controlled Use Area consists of that portion of Unit 13(B) bounded by a line beginning at the confluence of Sourdough Creek and the Gulkana River, then northerly along Sourdough Creek to the Richardson Highway at approximately Mile 148, then northerly along the Richardson Highway to the Meiers Creek Trail at approximately Mile 170, then westerly along the trail to the Gulkana River, then southerly along the east bank of the Gulkana River to its confluence with Sourdough Creek, the point of beginning.

(iii) Unit-specific regulations:

(A) You may use bait to hunt black bear between April 15 and June 15;

(B) A Federally-qualified subsistence user (recipient) may designate another Federally-qualified subsistence user to take caribou and moose on his or her behalf. The designated hunter must obtain a designated hunter permit and must return a completed harvest report. The designated hunter may hunt for any number of recipients but may have no more than two harvest limits in his/her possession at any one time.

Harvest limits | Open season
Hunting
Black Bear: 3 bears | July 1-June 30.
Brown Bear: 1 bear. Bears taken within Denali National Park must be sealed within 5 days of harvest. That portion within Denali National Park will be closed by announcement of the Superintendent after 4 bears have been harvested | Aug. 10-May 31.
Caribou: 2 bulls by Federal registration permit only. Hunting within the Trans-Alaska Oil Pipeline right-of-way is prohibited. The right-of-way is identified as the area occupied by the pipeline (buried or above ground) and the cleared area 25 feet on either side of the pipeline | Aug. 10-Sept. 30. Oct. 21-Mar. 31.
Sheep: Unit 13—excluding Unit 13(D) and the Tok Management Area and Delta Controlled Use Area—1 ram with ⅞ curl horn | Aug. 10-Sept. 20.
Moose:
Unit 13(E)—1 antlered bull moose by Federal registration permit only; only 1 permit will be issued per household | Aug. 1-Sept. 20.
Unit 13—remainder—1 antlered bull moose by Federal registration permit only | Aug. 1-Sept. 20.
Beaver: 1 beaver per day, 1 in possession | June 15-Sept. 10.
Coyote: 2 coyotes | Sept. 1-Apr. 30.
Fox, Red (including Cross, Black and Silver Phases): 2 foxes | Sept. 1-Feb. 15.
Hare (Snowshoe): No limit | July 1-June 30.
Lynx: 2 lynx | Dec. 15-Jan. 15.
Wolf: 10 wolves | Aug. 10-Apr. 30.
Wolverine: 1 wolverine | Sept. 1-Jan. 31.
Grouse (Spruce, Ruffed, and Sharp-tailed): 15 per day, 30 in possession | Aug. 10-Mar. 31.
Ptarmigan (Rock, Willow, and White-tailed): 20 per day, 40 in possession | Aug. 10-Mar. 31.
Trapping
Beaver: No limit | Oct. 10-May 15.
Coyote: No limit | Nov. 10-Mar. 31.
Fox, Red (including Cross, Black and Silver Phases): No limit | Nov. 10-Feb. 28.
Lynx: No limit | Dec. 1-Jan. 31.
Marten:
Unit 13(A-D)—No limit | Nov. 10-Feb. 28.
Unit 13—remainder—No limit | Nov. 10-Jan. 31.
Mink and Weasel: No limit | Nov. 10-Feb. 28.
Muskrat: No limit | Nov. 10-June 10.
Otter: No limit | Nov. 10-Mar. 31.
Wolf: No limit | Oct. 15-Apr. 30.
Wolverine: No limit | Nov. 10-Jan. 31.

(14) Unit 14. (i) Unit 14 consists of drainages into the north side of Turnagain Arm west of and excluding the Portage Creek drainage, drainages into Knik Arm excluding drainages of the Chickaloon and Matanuska Rivers in Unit 13, drainages into the north side of Cook Inlet east of the Susitna River, drainages into the east bank of the Susitna River downstream from the Talkeetna River, and drainages into the south bank of the Talkeetna River:

(A) Unit 14(A) consists of drainages in Unit 14 bounded on the west by the Susitna River, on the north by Willow Creek, Peters Creek, and by a line from the head of Peters Creek to the head of the Chickaloon River, on the east by the eastern boundary of Unit 14, and on the south by Cook Inlet, Knik Arm, the south bank of the Knik River from its mouth to its junction with Knik Glacier, across the face of Knik Glacier and along the north side of Knik Glacier to the Unit 6 boundary;

(B) Unit 14(B) consists of that portion of Unit 14 north of Unit 14(A);

(C) Unit 14(C) consists of that portion of Unit 14 south of Unit 14(A).

(ii) In the following areas, the taking of wildlife for subsistence uses is prohibited or restricted on public lands:

(A) You may not take wildlife for subsistence uses in the Fort Richardson and Elmendorf Air Force Base Management Areas, consisting of the Fort Richardson and Elmendorf Military Reservation;

(B) You may not take wildlife for subsistence uses in the Anchorage Management Area, consisting of all drainages south of Elmendorf and Fort Richardson military reservations and north of and including Rainbow Creek.

(iii) Unit-specific regulations:

Harvest limits | Open season
Hunting
Black Bear: Unit 14(C)—1 bear | July 1—June 30.
Beaver: Unit 14(C)—1 beaver per day, 1 in possession | May 15-Oct. 31.
Coyote: Unit 14(C)—2 coyotes | Sept. 1-Apr. 30.
Fox, Red (including Cross, Black and Silver Phases): Unit 14(C)—2 foxes | Nov. 1-Feb. 15.
Hare (Snowshoe): Unit 14(C)—5 hares per day | Sept. 8-Apr. 30.
Lynx: Unit 14(C)—2 lynx | Dec. 15-Jan. 15.
Wolf: Unit 14(C)—5 wolves | Aug. 10-Apr. 30.
Wolverine: Unit 14(C)—1 wolverine | Sept. 1-Mar. 31.
Grouse (Spruce and Ruffed): Unit 14(C)—5 per day, 10 in possession | Sept. 8-Mar. 31.
Ptarmigan (Rock, Willow, and White-tailed): Unit 14(C)—10 per day, 20 in possession | Sept. 8-Mar. 31.
Trapping
Beaver: Unit 14(C)—that portion within the drainages of Glacier Creek, Kern Creek, Peterson Creek, the Twentymile River and the drainages of Knik River outside Chugach State Park—20 beaver per season | Dec. 1-Apr. 15.
Coyote: Unit 14(C)—No limit | Nov. 10-Feb. 28.
Fox, Red (including Cross, Black and Silver Phases): Unit 14(C)—1 fox | Nov. 10-Feb. 28.
Lynx: Unit 14(C)—No limit | Dec. 15-Jan. 15.
Marten: Unit 14(C)—No limit | Nov. 10-Jan. 31.
Mink and Weasel: Unit 14(C)—No limit | Nov. 10-Jan. 31.
Muskrat: Unit 14(C)—No limit | Nov. 10-May 15.
Otter: Unit 14(C)—No limit | Nov. 10-Feb. 28.
Wolf: Unit 14(C)—No limit | Nov. 10-Feb. 28.
Wolverine: Unit 14(C)—No limit | Nov. 10-Feb. 28.

(15) Unit 15. (i) Unit 15 consists of that portion of the Kenai Peninsula and adjacent islands draining into the Gulf of Alaska, Cook Inlet, and Turnagain Arm from Gore Point to the point where longitude line 150° 00′ W. crosses the coastline of Chickaloon Bay in Turnagain Arm, including that area lying west of longitude line 150° 00′ W. to the mouth of the Russian River, then southerly along the Chugach National Forest boundary to the upper end of Upper Russian Lake; and including the drainages into Upper Russian Lake west of the Chugach National Forest boundary:

(A) Unit 15(A) consists of that portion of Unit 15 north of the Kenai River and Skilak Lake;

(B) Unit 15(B) consists of that portion of Unit 15 south of the Kenai River and Skilak Lake, and north of the Kasilof River, Tustumena Lake, Glacier Creek, and Tustumena Glacier;

(C) Unit 15(C) consists of the remainder of Unit 15.

(ii) You may not take wildlife, except for grouse, ptarmigan, and hares that may be taken only from October 1-March 1 by bow and arrow only, in the Skilak Loop Management Area, which consists of that portion of Unit 15(A) bounded by a line beginning at the eastern most junction of the Sterling Highway and the Skilak Loop (milepost 76.3), then due south to the south bank of the Kenai River, then southerly along the south bank of the Kenai River to its confluence with Skilak Lake, then westerly along the north shore of Skilak Lake to Lower Skilak Lake Campground, then northerly along the Lower Skilak Lake Campground Road and the Skilak Loop Road to its western most junction with the Sterling Highway, then easterly along the Sterling Highway to the point of beginning.

(iii) Unit-specific regulations:

(A) You may use bait to hunt black bear between April 15 and June 15;

(B) You may not trap furbearers for subsistence in the Skilak Loop Wildlife Management Area;

(C) You may not trap marten in that portion of Unit 15(B) east of the Kenai River, Skilak Lake, Skilak River, and Skilak Glacier;

(D) You may not take red fox in Unit 15 by any means other than a steel trap or snare;

(E) A Federally-qualified subsistence user (recipient) may designate another Federally-qualified subsistence user to take moose on his or her behalf. The designated hunter must obtain a designated hunter permit and must return a completed harvest report. The designated hunter may hunt for any number of recipients but may have no more than two harvest limits in his/her possession at any one time.

Harvest limits | Open season
Hunting
Black Bear:
Unit 15(C)—3 bears | July 1- June 30.
Unit 15—remainder | No open season.
Moose:
Unit 15(A)—Skilak Loop Wildlife Management Area | No open season.
Unit 15(A)—remainder, Unit 15(B), and (C)—1 antlered bull with spike-fork or 50-inch antlers or with 3 or more brow tines on either antler, by Federal registration permit only | Aug. 10-Sept. 20.
Coyote: No limit | Sept. 1-Apr. 30.
Hare (Snowshoe): No limit | July 1-June 30.
Wolf:
Unit 15—that portion within the Kenai National Wildlife Refuge—2 wolves | Aug. 10-Apr. 30.
Unit 15—remainder—5 wolves | Aug. 10-Apr. 30.
Wolverine: 1 Wolverine | Sept. 1-Mar. 31.
Grouse (Spruce): 15 per day, 30 in possession | Aug. 10-Mar. 31.
Grouse (Ruffed) | No open season.
Ptarmigan (Rock, Willow, and White-tailed):
Unit 15(A) and (B)—20 per day, 40 in possession | Aug. 10-Mar. 31.
Unit 15(C)—20 per day, 40 in possession | Aug. 10-Dec. 31.
Unit 15(C)—5 per day, 10 in possession | Jan. 1-Mar. 31.
Trapping
Beaver: 20 Beaver per season | Nov. 10-Mar. 31.
Coyote: No limit | Nov. 10-Mar. 31.
Fox, Red (including Cross, Black and Silver Phases): 1 Fox | Nov. 10-Feb. 28.
Lynx: No limit | Jan. 15-Feb. 15.
Marten:
Unit 15(B)—that portion east of the Kenai River, Skilak Lake, Skilak River, and Skilak Glacier | No open season.
Remainder of Unit 15—No limit | Nov. 10-Jan. 31.
Mink and Weasel: No limit | Nov. 10-Jan. 31.
Muskrat: No limit | Nov. 10-May 15.
Otter: Unit 15—No limit | Nov. 10- Feb. 28.
Wolf: No limit | Nov. 10-Mar. 31.
Wolverine: Unit 15(B) and (C)—No limit | Nov. 10-Feb. 28.

(16) Unit 16. (i) Unit 16 consists of the drainages into Cook Inlet between Redoubt Creek and the Susitna River, including Redoubt Creek drainage, Kalgin Island, and the drainages on the west side of the Susitna River (including the Susitna River) upstream to its confluence with the Chulitna River; the drainages into the west side of the Chulitna River (including the Chulitna River) upstream to the Tokositna River, and drainages into the south side of the Tokositna River upstream to the base of the Tokositna Glacier, including the drainage of the Kahiltna Glacier:

(A) Unit 16(A) consists of that portion of Unit 16 east of the east bank of the Yentna River from its mouth upstream to the Kahiltna River, east of the east bank of the Kahiltna River, and east of the Kahiltna Glacier;

(B) Unit 16(B) consists of the remainder of Unit 16.

(ii) You may not take wildlife for subsistence uses in the Mount McKinley National Park, as it existed prior to December 2, 1980. Subsistence uses as authorized by this paragraph (m)(16) are permitted in Denali National Preserve and lands added to Denali National Park on December 2, 1980.

(iii) Unit-specific regulations:

(A) You may use bait to hunt black bear between April 15 and June 15.

(B) [Reserved]

Harvest limits | Open season
Hunting
Black Bear: 3 bears | July 1-June 30.
Caribou: 1 caribou | Aug. 10-Oct. 31.
Moose:
Unit 16(B)—Redoubt Bay Drainages south and west of, and including the Kustatan River drainage—1 antlered bull | Sept. 1-Sept. 15.
Unit 16(B)—remainder—1 moose; however, antlerless moose may be taken only from Sept. 25-Sept. 30 and from Dec. 1-Feb. 28 by Federal registration permit only | Sept. 1-Sept. 30. Dec. 1-Feb. 28.
Coyote: 2 coyotes | Sept. 1-Apr. 30.
Fox, Red (including Cross, Black and Silver Phases): 2 foxes | Sept. 1-Feb. 15.
Hare (Snowshoe): No limit | July 1-June 30.
Lynx: 2 lynx | Dec. 15-Jan. 15.
Wolf: 5 wolves | Aug. 10-Apr. 30.
Wolverine: 1 wolverine | Sept. 1-Mar. 31.
Grouse (Spruce and Ruffed): 15 per day, 30 in possession | Aug. 10-Mar. 31.
Ptarmigan (Rock, Willow, and White-tailed): 20 per day, 40 in possession | Aug. 10-Mar. 31.
Trapping
Beaver: No limit | Oct. 10-May 15.
Coyote: No limit | Nov. 10-Mar. 31.
Fox, Red (including Cross, Black and Silver Phases): No limit | Nov. 10-Feb. 28.
Lynx: No limit | Dec. 15-Jan. 15.
Marten: No limit | Nov. 10-Jan. 31.
Mink and Weasel: No limit | Nov. 10-Jan. 31.
Muskrat: No limit | Nov. 10-June 10.
Otter: No limit | Nov. 10-Mar. 31.
Wolf: No limit | Nov. 10-Mar. 31.
Wolverine: No limit | Nov. 10-Feb. 28.

(17) Unit 17. (i) Unit 17 consists of drainages into Bristol Bay and the Bering Sea between Etolin Point and Cape Newenham, and all islands between these points including Hagemeister Island and the Walrus Islands:

(A) Unit 17(A) consists of the drainages between Cape Newenham and Cape Constantine, and Hagemeister Island and the Walrus Islands;

(B) Unit 17(B) consists of the Nushagak River drainage upstream from, and including the Mulchatna River drainage, and the Wood River drainage upstream from the outlet of Lake Beverley;

(C) Unit 17(C) consists of the remainder of Unit 17.

(ii) In the following areas, the taking of wildlife for subsistence uses is prohibited or restricted on public lands:

(A) Except for aircraft and boats and in legal hunting camps, you may not use any motorized vehicle for hunting ungulates, bears, wolves, and wolverine, including transportation of hunters and parts of ungulates, bear, wolves, or wolverine in the Upper Mulchatna Controlled Use Area consisting of Unit 17(B), from Aug. 1-Nov. 1;

(B) You may hunt brown bear by State registration permit in lieu of a resident tag in the Western Alaska Brown Bear Management Area which consists of Unit 17(A), that portion of 17(B) draining into Nuyakuk Lake and Tikchik Lake, Unit 18, and that portion of Unit 19(A) and (B) downstream of and including the Aniak River drainage, if you have obtained a State registration permit prior to hunting.

(iii) Unit-specific regulations:

(A) You may use bait to hunt black bear between April 15 and June 15;

(B) For Federal registration permit caribou hunts for Unit 17(A) and (C), that portion consisting of the Nushagak Peninsula south of the Igushik River, Tuklung River and Tuklung Hills, west to Tvativak Bay, a Federally-qualified subsistence user may designate another Federally-qualified subsistence user to harvest caribou on his or her behalf. The designated hunter must obtain a designated hunter permit and must return a completed harvest report. The designated hunter may hunt for any number of recipients but may have no more than two harvest limits in his/her possession at any one time.

Harvest limits | Open season
Hunting
Black Bear: 2 bears | Aug. 1-May 31.
Brown Bear: Unit 17—1 bear by State registration permit only | Sept. 1-May 31.
Caribou:
Unit 17(A) and (C)—that portion of 17(A) and (C) consisting of the Nushagak Peninsula south of the Igushik River, Tuklung River and Tuklung Hills, west to Tvativak Bay—2 caribou by Federal registration permit. Public lands are closed to the taking of caribou except by the residents of Togiak, Twin Hills, Manokotak, Aleknagik, Dillingham, Clark's Point, and Ekuk during seasons identified above | Aug. 1-Sept. 30. Dec. 1-Mar. 31.
Unit 17(B) and (C)—that portion of 17(C) east of the Wood River and Wood River Lakes—5 caribou; however, no more than 2 bulls may be taken from Oct. 1—Nov. 30 | Aug. 1-Apr. 15.
Unit 17(A)—remainder and 17(C)—remainder—selected drainages; a harvest limit of up to 5 caribou will be determined at the time the season is announced | Season to occur between Aug. 1-Mar. 31, harvest limit, and hunt area to be announced by the Togiak National Wildlife Refuge Manager.
Sheep: 1 ram with full curl horn or larger | Aug. 10-Sept. 20.
Moose:
Unit 17(A)—1 bull by State registration permit | Aug. 25-Sept. 20.
Unit 17(B)—that portion that includes all the Mulchatna River drainage upstream from and including the Chilchitna River drainage—1 bull by State registration permit only during the period Aug. 20-Aug. 31. During the period Sept. 1-Sept. 15 only a spike/fork bull or a bull with 50-inch antlers or with 3 or more brow tines on one side may be taken with a State harvest ticket | Aug. 20-Sept. 15.
Unit 17(C)—that portion that includes the Iowithla drainage and Sunshine Valley and all lands west of Wood River and south of Aleknagik Lake—1 bull by State registration permit only during the period Aug. 20-Aug. 31. During the period Sept. 1-Sept. 15 only a spike/fork bull or a bull with 50-inch antlers or with 3 or more brow tines on one side may be taken with a State harvest ticket | Aug. 20-Sept. 15.
Unit 17(B)—remainder and 17(C)—remainder—1 bull by State registration permit only during the periods Aug. 20-Aug. 31 and Dec. 1-Dec. 31. During the period Sept. 1-Sept. 15 only a spike/fork bull or a bull with 50-inch antlers or with 3 or more brow tines on one side may be taken with a State harvest ticket | Aug. 20-Sept. 15. Dec. 1-Dec. 31.
Coyote: 2 coyotes | Sept. 1-Apr. 30.
Fox, Arctic (Blue and White Phase): No limit | Dec. 1-Mar. 15.
Fox, Red (including Cross, Black and Silver Phases): 2 foxes | Sept. 1-Feb. 15.
Hare (Snowshoe and Tundra): No limit | July 1-June 30.
Lynx: 2 lynx | Nov. 10-Feb. 28.
Wolf: 5 wolves | Aug. 10-Apr. 30.
Wolverine: 1 wolverine | Sept. 1-Mar. 31.
Grouse (Spruce and Ruffed): 15 per day, 30 in possession | Aug. 10-Apr. 30.
Ptarmigan (Rock and Willow): 20 per day, 40 in possession | Aug. 10-Apr. 30.
Trapping
Beaver: Unit 17—40 beaver per season | Nov. 10-Mar. 31.
Coyote: No limit | Nov. 10-Mar. 31.
Fox, Arctic (Blue and White Phase): No limit | Nov. 10-Mar. 31.
Fox, Red (including Cross, Black and Silver Phases): No limit | Nov. 10-Mar. 31.
Lynx: No limit | Nov. 10-Mar. 31.
Marten: No limit | Nov. 10-Feb. 28.
Mink and Weasel: No limit | Nov. 10-Feb. 28.
Muskrat: 2 muskrats | Nov. 10-Feb. 28.
Otter: No limit | Nov. 10-Mar. 31.
Wolf: No limit | Nov. 10-Mar. 31.
Wolverine: No limit | Nov. 10-Feb. 28.

(18) Unit 18. (i) Unit 18 consists of that area draining into the Yukon and Kuskokwim Rivers downstream from a straight line drawn between Lower Kalskag and Paimiut and the drainages flowing into the Bering Sea from Cape Newenham on the south to and including the Pastolik River drainage on the north; Nunivak, St. Matthew, and adjacent islands between Cape Newenham and the Pastolik River.

(ii) In the following areas, the taking of wildlife for subsistence uses is prohibited or restricted on public lands:

(A) In the Kalskag Controlled Use Area which consists of that portion of Unit 18 bounded by a line from Lower Kalskag on the Kuskokwim River, northwesterly to Russian Mission on the Yukon River, then east along the north bank of the Yukon River to the old site of Paimiut, then back to Lower Kalskag, you may not use aircraft for hunting any ungulate, bear, wolf, or wolverine, including the transportation of any hunter and ungulate, bear, wolf, or wolverine part; however, this does not apply to transportation of a hunter or ungulate, bear, wolf, or wolverine part by aircraft between publicly owned airports in the Controlled Use Area or between a publicly owned airport within the Area and points outside the Area;

(B) You may hunt brown bear by State registration permit in lieu of a resident tag in the Western Alaska Brown Bear Management Area which consists of Unit 17(A), that portion of 17(B) draining into Nuyakuk Lake and Tikchik Lake, Unit 18, and that portion of Unit 19(A) and (B) downstream of and including the Aniak River drainage, if you have obtained a State registration permit prior to hunting.

(iii) Unit-specific regulations:

(A) If you have a trapping license, you may use a firearm to take beaver in Unit 18 from Apr. 1-Jun. 10;

(B) A Federally-qualified subsistence user (recipient) may designate another Federally-qualified subsistence user to take caribou south of the Yukon River on his or her behalf. The designated hunter must obtain a designated hunter permit and must return a completed harvest report. The designated hunter may hunt for any number of recipients but may have no more than two harvest limits in his/her possession at any one time;

(C) You may take caribou from a boat moving under power in Unit 18.

Harvest limits | Open season
Hunting
Black Bear: 3 bears | July 1-June 30.
Brown Bear: 1 bear by State registration permit only | Sept. 1-May 31.
Caribou:
Unit 18—that portion south of the Yukon River—A harvest limit of up to 5 caribou will be determined at the time the season is announced and will be based on the management objectives in the “Qavilnguut (Kilbuck) Caribou Herd Cooperative Management Plan.” The season will be closed when the total harvest reaches guidelines as described in the approved “Qavilnguut (Kilbuck) Caribou Herd Cooperative Management Plan” | Season to occur between Aug. 25 and Mar. 31 to be announced by the Yukon Delta National Wildlife Refuge Manager.
Unit 18—that portion north of the Yukon River—5 caribou per day | Aug. 1-Mar. 31.
Moose:
Unit 18—that portion north and west of a line from Cape Romanzof to Kuzilvak Mountain, and then to Mountain Village, and west of, but not including, the Andreafsky River drainage—1 antlered bull | Sept. 5-Sept. 25.
Unit 18—south of and including the Kanektok River drainages | No open season.
Unit 18—Kuskokwim River drainage—1 antlered bull. A 10-day hunt to occur between Dec. 1 and Feb. 28 (1 bull, evidence of sex required) will be opened by announcement | Aug. 25-Sept. 25. Winter season to be announced.
Unit 18—remainder—1 antlered bull. A 10-day hunt to occur between Dec. 1 and Feb. 28 (1 bull, evidence of sex required) will be opened by announcement | Sept. 1-Sept. 30. Winter season to be announced.
Public lands in Unit 18 are closed to the hunting of moose, except by Federally-qualified rural Alaska residents during seasons identified above.
Beaver: No limit | July 1-June 30.
Coyote: 2 coyotes | Sept. 1-Apr. 30.
Fox, Arctic (Blue and White Phase): 2 foxes | Sept. 1-Apr. 30.
Fox, Red (including Cross, Black and Silver Phases): 10 foxes; however, no more than 2 foxes may be taken prior to Oct. 1 | Sept. 1- Mar. 15.
Hare (Snowshoe and Tundra): No limit | July 1-June 30.
Lynx: 2 lynx | Nov. 10-Mar. 31.
Wolf: 5 wolves | Aug. 10-Apr. 30.
Wolverine: 1 wolverine | Sept. 1-Mar. 31.
Grouse (Spruce and Ruffed): 15 per day, 30 in possession | Aug. 10-Apr. 30.
Ptarmigan (Rock and Willow): 20 per day, 40 in possession | Aug. 10-May 30.
Trapping
Beaver: No limit | July 1-June 30.
Coyote: No limit | Nov. 10-Mar. 31.
Fox, Arctic (Blue and White Phase): No limit | Nov. 10-Mar. 31.
Fox, Red (including Cross, Black and Silver Phases): No limit | Nov. 10-Mar. 31.
Lynx: No limit | Nov. 10-Mar. 31.
Marten: No limit | Nov. 10-Mar. 31.
Mink and Weasel: No limit | Nov. 10-Jan. 31.
Muskrat: No limit | Nov. 10-June 10.
Otter: No limit | Nov. 10-Mar. 31.
Wolf: No limit | Nov. 10-Mar. 31.
Wolverine: No limit | Nov. 10-Mar. 31.

(19) Unit 19. (i) Unit 19 consists of the Kuskokwim River drainage upstream from a straight line drawn between Lower Kalskag and Piamiut:

(A) Unit 19(A) consists of the Kuskokwim River drainage downstream from and including the Moose Creek drainage on the north bank and downstream from and including the Stony River drainage on the south bank, excluding Unit 19(B);

(B) Unit 19(B) consists of the Aniak River drainage upstream from and including the Salmon River drainage, the Holitna River drainage upstream from and including the Bakbuk Creek drainage, that area south of a line from the mouth of Bakbuk Creek to the radar dome at Sparrevohn Air Force Base, including the Hoholitna River drainage upstream from that line, and the Stony River drainage upstream from and including the Can Creek drainage;

(C) Unit 19(C) consists of that portion of Unit 19 south and east of a line from Benchmark M#1.26 (approximately 1.26 miles south of the northwest corner of the original Mt. McKinley National Park boundary) to the peak of Lone Mountain, then due west to Big River, including the Big River drainage upstream from that line, and including the Swift River drainage upstream from and including the North Fork drainage;

(D) Unit 19(D) consists of the remainder of Unit 19.

(ii) In the following areas, the taking of wildlife for subsistence uses is prohibited or restricted on public land:

(A) You may not take wildlife for subsistence uses on lands within Mount McKinley National Park as it existed prior to December 2, 1980. Subsistence uses as authorized by this paragraph (m)(19) are permitted in Denali National Preserve and lands added to Denali National Park on December 2, 1980;

(B) In the Upper Kuskokwim Controlled Use Area, which consists of that portion of Unit 19(D) upstream from the mouth of Big River including the drainages of the Big River, Middle Fork, South Fork, East Fork, and Tonzona River, and bounded by a line following the west bank of the Swift Fork (McKinley Fork) of the Kuskokwim River to 152° 50′ W. long., then north to the boundary of Denali National Preserve, then following the western boundary of Denali National Preserve north to its intersection with the Minchumina-Telida winter trail, then west to the crest of Telida Mountain, then north along the crest of Munsatli Ridge to elevation 1,610, then northwest to Dyckman Mountain and following the crest of the divide between the Kuskokwim River and the Nowitna drainage, and the divide between the Kuskokwim River and the Nixon Fork River to Loaf benchmark on Halfway Mountain, then south to the west side of Big River drainage, the point of beginning, you may not use aircraft for hunting moose, including transportation of any moose hunter or moose part; however, this does not apply to transportation of a moose hunter or moose part by aircraft between publicly owned airports in the Controlled Use Area, or between a publicly owned airport within the area and points outside the area;

(C) You may hunt brown bear by State registration permit in lieu of a resident tag in the Western Alaska Brown Bear Management Area, which consists of Unit 17(A), that portion of 17(B) draining into Nuyakuk Lake and Tikchik Lake, Unit 18, and that portion of Unit 19(A) and (B) downstream of and including the Aniak River drainage, if you have obtained a State registration permit prior to hunting.

(iii) Unit-specific regulations:

(A) You may use bait to hunt black bear between April 15 and June 30.

(B) [Reserved]

Harvest limits | Open season
Hunting
Black Bear: 3 bears | July 1-June 30.
Brown Bear:
Unit 19(A) and (B)—those portions which are downstream of and including the Aniak River drainage—1 bear by State registration permit | Sept. 1-May 31.
Unit 19(A)—remainder, 19(B)—remainder, and Unit 19(D)—1 bear | Sept. 1-May 31.
Caribou:
Unit 19(A)—north of Kuskokwim River—1 caribou | Aug. 10-Sept. 30. Nov. 1-Feb. 28.
Unit 19(A)—south of the Kuskokwim River and Unit 19(B) (excluding rural Alaska residents of Lime Village)—5 caribou | Aug. 1-Apr. 15.
Unit 19(C)—1 caribou | Aug. 10-Oct. 10.
Unit 19(D)—south and east of the Kuskokwim River and North Fork of the Kuskokwim River—1 caribou | Aug. 10-Sept. 30. Nov. 1-Jan. 31.
Unit 19(D)—remainder—1 caribou | Aug. 10-Sept. 30.
Unit 19—rural Alaska residents domiciled in Lime Village only—no individual harvest limit but a village harvest quota of 200 caribou; cows and calves may not be taken from Apr. 1-Aug. 9. Reporting will be by a community reporting system | July 1-June 30.
Sheep: 1 ram with ⅞ curl horn or larger | Aug. 10 -Sept. 20.
Moose:
Unit 19—Rural Alaska residents of Lime Village only—no individual harvest limit, but a village harvest quota of 40 moose (including those taken under the State Tier II system); either sex. Reporting will be by a community reporting system | July 1-June 30.
Unit 19(A)—that portion north of the Kuskokwim River upstream from, but not including, the Kolmakof River drainage and south of the Kuskokwim River upstream from, but not including, the Holokuk River drainage—1 moose; however, antlerless moose may be taken only during the Feb. 1-Feb. 10 season | Sept. 1-Sept. 20. Nov. 20-Nov. 30. Jan. 1-Jan. 10. Feb. 1-Feb. 10.
Unit 19(A)—remainder—1 bull | Sept. 1-Sept. 20. Nov. 20-Nov. 30. Jan. 1-Jan. 10. Feb. 1-Feb. 10.
Unit 19(B)—1 antlered bull | Sept. 1-Sept. 30.
Unit 19(C)—1 antlered bull | Sept. 1-Oct. 10.
Unit 19(C)—1 bull by State registration permit | Jan. 15-Feb. 15.
Unit 19(D)—that portion of the Upper Kuskokwim Controlled Use Area within the North Fork drainage upstream from the confluence of the South Fork to the mouth of the Swift Fork—1 antlered bull | Sept. 1-Sept. 30.
Unit 19(D)—remainder of the Upper Kuskokwim Controlled Use Area—1 bull | Sept. 1-Sept. 30. Dec. 1-Feb. 28.
Unit 19(D)—remainder—1 antlered bull | Sept. 1-Sept. 30. Dec. 1-Dec. 15.
Coyote: 10 coyotes; however, no more than 2 coyotes may be taken before October 1 | Sept. 1-Apr. 30.
Fox, Red (including Cross, Black and Silver Phases): 10 foxes; however, no more than 2 foxes may be taken prior to Oct. 1 | Sept. 1-Mar. 15.
Hare (Snowshoe): No limit | July 1-June 30.
Lynx: 2 lynx | Nov. 1-Feb. 28.
Wolf:
Unit 19(D)—10 wolves per day | Aug. 10-Apr. 30.
Unit 19—remainder—5 wolves | Aug. 10-Apr. 30.
Wolverine: 1 wolverine | Sept. 1-Mar. 31.
Grouse (Spruce, Ruffed, and Sharp-tailed): 15 per day, 30 in possession | Aug. 10-Apr. 30.
Ptarmigan (Rock, Willow, and White-tailed): 20 per day, 40 in possession | Aug. 10-Apr. 30.
Trapping
Beaver: No limit | Nov. 1-Jun. 10.
Coyote: No limit | Nov. 1-Mar. 31.
Fox, Red (including Cross, Black and Silver Phases): No limit | Nov. 1-Mar. 31.
Lynx: No limit | Nov. 1-Feb. 28.
Marten: No limit | Nov. 1-Feb. 28.
Mink and Weasel: No limit | Nov. 1-Feb. 28.
Muskrat: No limit | Nov. 1-June 10.
Otter: No limit | Nov. 1-Apr. 15.
Wolf: No limit | Nov. 1-Apr. 30.
Wolverine: No limit | Nov. 1-Mar. 31.

(20) Unit 20. (i) Unit 20 consists of the Yukon River drainage upstream from and including the Tozitna River drainage to and including the Hamlin Creek drainage, drainages into the south bank of the Yukon River upstream from and including the Charley River drainage, the Ladue River and Fortymile River drainages, and the Tanana River drainage north of Unit 13 and downstream from the east bank of the Robertson River:

(A) Unit 20(A) consists of that portion of Unit 20 bounded on the south by the Unit 13 boundary, bounded on the east by the west bank of the Delta River, bounded on the north by the north bank of the Tanana River from its confluence with the Delta River downstream to its confluence with the Nenana River, and bounded on the west by the east bank of the Nenana River;

(B) Unit 20(B) consists of drainages into the north bank of the Tanana River from and including Hot Springs Slough upstream to and including the Banner Creek drainage;

(C) Unit 20(C) consists of that portion of Unit 20 bounded on the east by the east bank of the Nenana River and on the north by the north bank of the Tanana River downstream from the Nenana River;

(D) Unit 20(D) consists of that portion of Unit 20 bounded on the east by the east bank of the Robertson River and on the west by the west bank of the Delta River, and drainages into the north bank of the Tanana River from its confluence with the Robertson River downstream to, but excluding the Banner Creek drainage;

(E) Unit 20(E) consists of drainages into the south bank of the Yukon River upstream from and including the Charley River drainage, and the Ladue River drainage;

(F) Unit 20(F) consists of the remainder of Unit 20.

(ii) In the following areas, the taking of wildlife for subsistence uses is prohibited or restricted on public land:

(A) You may not take wildlife for subsistence uses on lands within Mount McKinley National Park as it existed prior to December 2, 1980. Subsistence uses as authorized by this paragraph (m)(20) are permitted in Denali National Preserve and lands added to Denali National Park on December 2, 1980;

(B) You may not use motorized vehicles or pack animals for hunting from Aug. 5-Aug. 25 in the Delta Controlled Use Area, the boundary of which is defined as: a line beginning at the confluence of Miller Creek and the Delta River, then west to vertical angle bench mark Miller, then west to include all drainages of Augustana Creek and Black Rapids Glacier, then north and east to include all drainages of McGinnis Creek to its confluence with the Delta River, then east in a straight line across the Delta River to Mile 236.7 Richardson Highway, then north along the Richardson Highway to its junction with the Alaska Highway, then east along the Alaska Highway to the west bank of the Johnson River, then south along the west bank of the Johnson River and Johnson Glacier to the head of the Canwell Glacier, then west along the north bank of the Canwell Glacier and Miller Creek to the Delta River;

(C) You may not use firearms, snowmobiles, licensed highway vehicles or motorized vehicles, except aircraft and boats in the Dalton Highway Corridor Management Area, which consists of those portions of Units 20, 24, 25, and 26 extending 5 miles from each side of the Dalton Highway from the Yukon River to milepost 300 of the Dalton Highway, except as follows: Residents living within the Dalton Highway Corridor Management Area may use snowmobiles only for the subsistence taking of wildlife. You may use licensed highway vehicles only on designated roads within the Dalton Highway Corridor Management Area. The residents of Alatna, Allakaket, Anaktuvuk Pass, Bettles, Evansville, Stevens Village, and residents living within the Corridor may use firearms within the Corridor only for subsistence taking of wildlife;

(D) You may not use any motorized vehicle for hunting from August 5-September 20 in the Glacier Mountain Controlled Use Area, which consists of that portion of Unit 20(E) bounded by a line beginning at Mile 140 of the Taylor Highway, then north along the highway to Eagle, then west along the cat trail from Eagle to Crooked Creek, then from Crooked Creek southwest along the west bank of Mogul Creek to its headwaters on North Peak, then west across North Peak to the headwaters of Independence Creek, then southwest along the west bank of Independence Creek to its confluence with the North Fork of the Fortymile River, then easterly along the south bank of the North Fork of the Fortymile River to its confluence with Champion Creek, then across the North Fork of the Fortymile River to the south bank of Champion Creek and easterly along the south bank of Champion Creek to its confluence with Little Champion Creek, then northeast along the east bank of Little Champion Creek to its headwaters, then northeasterly in a direct line to Mile 140 on the Taylor Highway; however, this does not prohibit motorized access via, or transportation of harvested wildlife on, the Taylor Highway or any airport;

(E) You may by permit only hunt moose on the Minto Flats Management Area, which consists of that portion of Unit 20 bounded by the Elliot Highway beginning at Mile 118, then northeasterly to Mile 96, then east to the Tolovana Hotsprings Dome, then east to the Winter Cat Trail, then along the Cat Trail south to the Old Telegraph Trail at Dunbar, then westerly along the trail to a point where it joins the Tanana River three miles above Old Minto, then along the north bank of the Tanana River (including all channels and sloughs except Swan Neck Slough), to the confluence of the Tanana and Tolovana Rivers and then northerly to the point of beginning;

(F) You may hunt moose by bow and arrow only in the Fairbanks Management Area, which consists of that portion of Unit 20(B) bounded by a line from the confluence of Rosie Creek and the Tanana River, northerly along Rosie Creek to Isberg Road, then northeasterly on Isberg Road to Cripple Creek Road, then northeasterly on Cripple Creek Road to the Parks Highway, then north on the Parks Highway to Alder Creek, then westerly along Alder Creek to its confluence with Emma Creek, then upstream along Emma Creek to its headwaters, then northerly along the hydrographic divide between Goldstream Creek drainages and Cripple Creek drainages to the summit of Ester Dome, then down Sheep Creek to its confluence with Goldstream Creek, then easterly along Goldstream Creek to Sheep Creek Road, then north on Sheep Creek Road to Murphy Dome Road, then west on Murphy Dome Road to Old Murphy Dome Road, then east on Old Murphy Dome Road to the Elliot Highway, then south on the Elliot Highway to Goldstream Creek, then easterly along Goldstream Creek to its confluence with First Chance Creek, then up First Chance Creek to Tungsten Hill, then southerly along Steele Creek to its confluence with Ruby Creek, then upstream along Ruby Creek to Esro Road, then south on Esro Road to Chena Hot Springs Road, then east on Chena Hot Springs Road to Nordale Road, then south on Nordale Road to the Chena River, then along the north bank of the Chena River to the Moose Creek dike, then southerly along the Moose Creek dike to its intersection with the Tanana River, and then westerly along the north bank of the Tanana River to the point of beginning.

(iii) Unit-specific regulations:

(A) You may use bait to hunt black bear between April 15 and June 30;

(B) You may not use a steel trap, or a snare using cable smaller than 3/32 inch diameter to trap wolves in Unit 20(E) during April and October;

(C) Residents of Unit 20 and 21 may take up to three moose per regulatory year for the celebration known as the Nuchalawoyya Potlatch, under the terms of a Federal registration permit. Permits will be issued to individuals only at the request of the Native Village of Tanana. This three moose limit is not cumulative with that permitted by the State.

Harvest limits | Open season
Hunting
Black Bear: 3 bears | July 1-June 30.
Brown Bear:
Unit 20(E)—1 bear | Aug. 10-June 30.
Unit 20—remainder—1 bear every four regulatory years | Sept. 1-May 31.
Caribou:
Unit 20(E)—1 caribou by joint State/Federal registration permit only. The fall season will close when a combined State/Federal harvest of 320 caribou has been reached. The winter season will close when the combined quota of 210 caribou for Units 20(E) and 25(C) Remainder has been reached. The season closures will be announced by the Northern Field Office Manager, Bureau of Land Management after consultation with the National Park Service and Alaska Department of Fish and Game | Aug. 10-Sept. 30. Nov. 1-Feb. 28.
Unit 20(F)—north of the Yukon River—1 caribou | Aug. 10-Mar. 31.
Unit 20(F)—east of the Dalton Highway and south of the Yukon River—1 caribou. However, during the November 1-March 31 season a State registration permit is required | Aug. 10-Sept. 20. Nov. 1-Mar. 31.
Moose:
Unit 20(A)—1 antlered bull | Sept. 1-Sept. 20.
Unit 20(B)—that portion within the Minto Flats Management Area—1 bull by Federal registration permit only | Sept. 1-Sept. 20. Jan. 10-Feb. 28.
Unit 20(B)—remainder—1 antlered bull | Sept. 1-Sept. 20.
Unit 20(C)—that portion within Denali National Park and Preserve west of the Toklat River, excluding lands within Mount McKinley National Park as it existed prior to December 2, 1980—1 antlered bull; however, white-phased or partial albino (more than 50 percent white) moose may not be taken | Sept. 1-Sept. 30. Nov. 15-Dec. 15.
Unit 20(C)—remainder—1 antlered bull; however, white-phased or partial albino (more than 50 percent white) moose may not be taken | Sept. 1-Sept. 30.
Unit 20(E)—that portion within Yukon Charley National Preserve—1 bull | Aug. 20-Sept. 30.
Unit 20(E)—that portion drained by the Forty-mile River (all forks) from Mile 9½ to Mile 145 Taylor Highway, including the Boundary Cutoff Road—1 antlered bull; however during the period only a bull with Spike/fork antlers may be taken | Aug. 20-Aug. 28. Aug. 20-Sept. 15.
Unit 20(F)—that portion within the Dalton Highway Corridor Management Area—1 antlered bull by Federal registration permit only | Sept. 1-Sept. 25.
Unit 20(F)—remainder—1 antlered bull | Sept. 1-Sept. 25.
Coyote: 2 coyotes | Sept. 1-Apr. 30.
Fox, Red (including Cross, Black and Silver Phases): 10 foxes; however, no more than 2 foxes may be taken prior to Oct. 1 | Sept. 1-Mar. 15.
Hare (Snowshoe): No limit | July 1-June 30.
Lynx:
Unit 20(E)—2 lynx | Nov. 1-Jan. 31.
Unit 20—remainder—2 lynx | Dec. 1-Jan. 31.
Wolf: 10 wolves | Aug. 10-Apr. 30.
Wolverine: 1 wolverine | Sept. 1-Mar. 31.
Grouse (Spruce, Ruffed, and Sharp-tailed):
Unit 20(D)—that portion south of the Tanana River and west of the Johnson River—15 per day, 30 in possession, provided that not more than 5 per day and 10 in possession are sharp-tailed grouse | Aug. 25-Mar. 31.
Unit 20—remainder—15 per day, 30 in possession | Aug. 10-Mar. 31.
Ptarmigan (Rock and Willow):
Unit 20—those portions within five miles of Alaska Route 5 (Taylor Highway, both to Eagle and the Alaska-Canada boundary) and that portion of Alaska Route 4 (Richardson Highway) south of Delta Junction—20 per day, 40 in possession | Aug. 10-Mar. 31.
Unit 20—remainder—20 per day, 40 in possession | Aug. 10-Apr. 30.
Trapping
Beaver:
Units 20(A), 20(B), Unit 20(C), and 20(F)—No limit | Nov. 1-Apr. 15.
Units 20(D) and (E)—25 beaver | Nov. 1-Apr. 15.
Coyote:
Unit 20(E)—No limit | Oct. 15-Apr. 30.
Remainder Unit 20—No limit | Nov. 1-Mar. 31.
Fox, Red (including Cross, Black and Silver Phases): No limit | Nov. 1-Feb. 28.
Lynx:
Unit 20(A), (B), (D), and (C) east of the Teklanika River—No limit | Dec. 1-Feb. 15.
Unit 20(E)—5 lynx | Nov. 1-Nov. 30.
—No limit | Dec. 1-Mar. 15.
Unit 20(F) and the remainder of 20(C)—No limit | Nov. 1-Feb. 28.
Marten: No limit | Nov. 1-Feb. 28.
Mink and Weasel: No limit | Nov. 1-Feb. 28.
Muskrat:
Unit 20(E)—No limit | Sept. 20-June 10.
Unit 20—remainder—No limit | Nov. 1-June 10.
Otter: No limit | Nov. 1-Apr. 15.
Wolf:
Unit 20(A, B, C, & F)—No limit | Nov. 1-Apr. 30.
Unit 20(D)—No limit | Oct. 15-Apr. 30.
Unit 20(E)—No limit | Oct. 1-Apr. 30.
Wolverine: No limit | Nov. 1-Feb. 28.

(21) Unit 21. (i) Unit 21 consists of drainages into the Yukon River upstream from Paimiut to, but not including the Tozitna River drainage on the north bank, and to, but not including the Tanana River drainage on the south bank; and excluding the Koyukuk River drainage upstream from the Dulbi River drainage:

(A) Unit 21(A) consists of the Innoko River drainage upstream from and including the Iditarod River drainage, and the Nowitna River drainage upstream from the Little Mud River;

(B) Unit 21(B) consists of the Yukon River drainage upstream from Ruby and east of the Ruby-Poorman Road, downstream from and excluding the Tozitna River and Tanana River drainages, and excluding the Nowitna River drainage upstream from the Little Mud River, and excluding the Melozitna River drainage upstream from Grayling Creek;

(C) Unit 21(C) consists of the Melozitna River drainage upstream from Grayling Creek, and the Dulbi River drainage upstream from and including the Cottonwood Creek drainage;

(D) Unit 21(D) consists of the Yukon River drainage from and including the Blackburn Creek drainage upstream to Ruby, including the area west of the Ruby-Poorman Road, excluding the Koyukuk River drainage upstream from the Dulbi River drainage, and excluding the Dulbi River drainage upstream from Cottonwood Creek;

(E) Unit 21(E) consists of the Yukon River drainage from Paimiut upstream to, but not including the Blackburn Creek drainage, and the Innoko River drainage downstream from the Iditarod River drainage.

(ii) In the following areas, the taking of wildlife for subsistence uses is prohibited or restricted on public land:

(A) The Koyukuk Controlled Use Area, which consists of those portions of Units 21 and 24 bounded by a line from the north bank of the Yukon River at Koyukuk, then northerly to the confluences of the Honhosa and Kateel Rivers, then northeasterly to the confluences of Billy Hawk Creek and the Huslia River (65°57' N. lat., 156°41' W. long.), then easterly to the south end of Solsmunket Lake, then east to Hughes, then south to Little Indian River, then southwesterly to the crest of Hochandochtla Mountain, then southwest to the mouth of Cottonwood Creek then southwest to Bishop Rock, then westerly along the north bank of the Yukon River (including Koyukuk Island) to the point of beginning, is closed during moose-hunting seasons to the use of aircraft for hunting moose, including transportation of any moose hunter or moose part; however, this does not apply to transportation of a moose hunter or moose part by aircraft between publicly owned airports in the controlled use area or between a publicly owned airport within the area and points outside the area; all hunters on the Koyukuk River passing the ADF&G operated check station at Ella's Cabin (15 miles upstream from the Yukon on the Koyukuk River) are required to stop and report to ADF&G personnel at the check station;

(B) The Paradise Controlled Use Area, which consists of that portion of Unit 21 bounded by a line beginning at the old village of Paimiut, then north along the west bank of the Yukon River to Paradise, then northwest to the mouth of Stanstrom Creek on the Bonasila River, then northeast to the mouth of the Anvik River, then along the west bank of the Yukon River to the lower end of Eagle Island (approximately 45 miles north of Grayling), then to the mouth of the Iditarod River, then down the east bank of the Innoko River to its confluence with Paimiut Slough, then south along the east bank of Paimiut Slough to its mouth, and then to the old village of Paimiut, is closed during moose hunting seasons to the use of aircraft for hunting moose, including transportation of any moose hunter or part of moose; however, this does not apply to transportation of a moose hunter or part of moose by aircraft between publicly owned airports in the Controlled Use Area or between a publicly owned airport within the area and points outside the area.

(iii) You may hunt brown bear by State registration permit in lieu of a resident tag in the Northwest Alaska Brown Bear Management Area, which consists of Unit 21(D), Unit 22, except 22(C), those portions of Unit 23, except the Baldwin Peninsula north of the Arctic Circle, Unit 24, and Unit 26(A), if you have obtained a State registration permit prior to hunting. Aircraft may not be used in the Northwest Alaska Brown Bear Management Area in any manner for brown bear hunting under the authority of a brown bear State registration permit, including transportation of hunters, bears, or parts of bears; however, this does not apply to transportation of bear hunters or bear parts by regularly scheduled flights to and between communities by carriers that normally provide scheduled service to this area, nor does it apply to transportation of aircraft to or between publicly owned airports.

(iv) Unit-specific regulations:

(A) You may use bait to hunt black bear between April 15 and June 30; and in the Koyukuk Controlled Use Area, you may also use bait to hunt black bear between September 1 and September 25;

(B) You may use a firearm to take beaver in Unit 21(E) from Nov. 1-June 10;

(C) The residents of Unit 20 and 21 may take up to three moose per regulatory year for the celebration known as the Nuchalawoyya Potlatch, under the terms of a Federal registration permit. Permits will be issued to individuals only at the request of the Native Village of Tanana. This three moose limit is not cumulative with that permitted by the State;

(D) The residents of Unit 21 may take up to three moose per regulatory year for the celebration known as the Kaltag/Nulato Stickdance, under the terms of a Federal registration permit. Permits will be issued to individuals only at the request of the Native Village of Kaltag or Nulato. This three moose limit is not cumulative with that permitted by the State.

Harvest limits | Open season
Hunting
Black Bear: 3 bears | July 1-June 30.
Brown Bear:
Unit 21(D)—1 bear by State registration permit only | Sept. 1-June 15.
Unit 21—remainder—1 bear every four regulatory years | Sept. 1-May 31.
Caribou:
Unit 21(A)—1 caribou | Aug. 10- Sept. 30. Dec. 10-Dec. 20.
Unit 21(B), (C), and (E)—1 caribou | Aug. 10-Sept. 30.
Unit 21(D)—north of the Yukon River and east of the Koyukuk River 1 caribou; however, 2 additional caribou may be taken during a winter season to be announced | Aug. 10-Sept. 30. Winter season to be announced.
Unit 21(D)—remainder—5 caribou per day; however, cow caribou may not be taken May 16-June 30 | July 1-June 30.
Moose:
Unit 21(A)—1 bull | Aug. 20-Sept. 25. Nov. 1-Nov. 30.
Unit 21(B) and (C)—1 antlered bull | Sept. 5-Sept. 25.
Unit 21(D)—Koyukuk Controlled Use Area—1 moose; however, antlerless moose may be taken only during Aug. 27-31 and the February season. During the Aug. 27-Sept. 20 season a State registration permit is required. Moose may not be taken within one-half mile of the mainstem Yukon River during the February season. A 10-day winter hunt to occur between Feb. 1 and Feb. 28 will be opened by announcement of the Koyukuk/Nowitna National Wildlife Refuge Manager after consultation with the ADF&G area biologist and the Chairs of the Western Interior Regional Advisory Council and Middle Yukon Fish and Game Advisory Committee | Aug. 27-Sept. 20. Winter season to be announced.
Unit 21(D)—remainder—1 moose; however, antlerless moose may be taken only during Sept. 21-25 and the February season. Moose may not be taken within one-half mile of the mainstrem Yukon River during the February season. A 10-day winter hunt to occur between Feb. 1 and Feb. 28 will be opened by announcement of the Koyukuk/Nowitna National Wildlife Refuge Manager after consultation with the ADF&G area biologist and the Chairs of the Western Interior Regional Advisory Council and Middle Yukon Fish and Game Advisory Committee | Sept. 5-Sept. 25. Winter season to be announced.
Unit 21(E)—1 moose; however, only bulls may be taken from Aug. 20-Sept. 25; moose may not be taken within one-half mile of the Innoko or Yukon River during the February season | Aug. 20-Sept. 25. Feb. 1-Feb. 10.
Beaver:
Unit 21(E)—No Limit | Nov. 1-June 10.
Unit 21—remainder | No open season.
Coyote: 10 coyotes; however, no more than 2 coyotes may be taken before October 1 | Sept. 1-Apr. 30.
Fox, Red (including Cross, Black and Silver Phases): 10 foxes; however, no more than 2 foxes may be taken prior to Oct. 1 | Sept. 1-Mar. 15.
Hare (Snowshoe and Tundra): No limit | July 1-June 30.
Lynx: 2 lynx | Nov. 1-Feb. 28.
Wolf: 5 wolves | Aug. 10-Apr. 30.
Wolverine: 1 wolverine | Sept. 1-Mar. 31.
Grouse (Spruce, Ruffed, and Sharp-tailed): 15 per day, 30 in possession | Aug. 10-Apr. 30.
Ptarmigan (Rock, Willow, and White-tailed): 20 per day, 40 in possession | Aug. 10-Apr. 30.
Trapping
Beaver: No limit | Nov. 1-June 10.
Coyote: No limit | Nov. 1-Mar. 31.
Fox, Red (including Cross, Black and Silver Phases): No limit. | Nov. 1-Feb. 28.
Lynx: No limit | Nov. 1-Feb. 28.
Marten: No limit | Nov. 1-Feb. 28.
Mink and Weasel: No limit | Nov. 1-Feb. 28.
Muskrat: No limit | Nov. 1-June 10.
Otter: No limit | Nov. 1-Apr. 15.
Wolf: No limit | Nov. 1-Apr. 30.
Wolverine: No limit | Nov. 1-Mar. 31.

(22) Unit 22. (i) Unit 22 consists of Bering Sea, Norton Sound, Bering Strait, Chukchi Sea, and Kotzebue Sound drainages from, but excluding, the Pastolik River drainage in southern Norton Sound to, but not including, the Goodhope River drainage in Southern Kotzebue Sound, and all adjacent islands in the Bering Sea between the mouths of the Goodhope and Pastolik Rivers:

(A) Unit 22(A) consists of Norton Sound drainages from, but excluding, the Pastolik River drainage to, and including, the Ungalik River drainage, and Stuart and Besboro Islands;

(B) Unit 22(B) consists of Norton Sound drainages from, but excluding, the Ungalik River drainage to, and including, the Topkok Creek drainage;

(C) Unit 22(C) consists of Norton Sound and Bering Sea drainages from, but excluding, the Topkok Creek drainage to, and including, the Tisuk River drainage, and King and Sledge Islands;

(D) Unit 22(D) consists of that portion of Unit 22 draining into the Bering Sea north of, but not including, the Tisuk River to and including Cape York, and St. Lawrence Island;

(E) Unit 22(E) consists of Bering Sea, Bering Strait, Chukchi Sea, and Kotzebue Sound drainages from Cape York to, but excluding, the Goodhope River drainage, and including Little Diomede Island and Fairway Rock.

(ii) You may hunt brown bear by State registration permit in lieu of a resident tag in the Northwest Alaska Brown Bear Management Area, which consists of Unit 22, except 22(C), those portions of Unit 23, except the Baldwin Peninsula north of the Arctic Circle, Unit 24, and Unit 26(A), if you have obtained a State registration permit prior to hunting. Aircraft may not be used in the Northwest Alaska Brown Bear Management Area in any manner for brown bear hunting under the authority of a brown bear State registration permit, including transportation of hunters, bears, or parts of bears; however, this does not apply to transportation of bear hunters or bear parts by regularly scheduled flights to and between communities by carriers that normally provide scheduled service to this area, nor does it apply to transportation of aircraft to or between publicly owned airports.

(iii) Unit-specific regulations:

(A) If you have a trapping license, you may use a firearm to take beaver in Unit 22 during the established seasons;

(B) Coyote, incidentally taken with a trap or snare intended for red fox or wolf, may be used for subsistence purposes;

(C) A snowmachine may be used to position a hunter to select individual caribou for harvest provided that the animals are not shot from a moving snowmachine.

Harvest limits | Open season
Black Bear: 3 bears | July 1-June 30
Hunting
Brown Bear:
Unit 22(A)—1 bear by State registration permit by residents of Unit 22(A) only | Sept. 1-May 31.
Unit 22(B)—1 bear by State registration permit by residents of Unit 22(B) only | Sept. 1-May 31.
Unit 22(C) | No open season.
Unit 22(E)—1 bear by State registration permit only | Aug. 1-May 31.
Unit 22—remainder—1 bear by State registration permit | Sept. 1-May 31.
Caribou: Unit 22(A) and (B)—5 caribou per day; however, cow caribou may not be taken May 16-June 30 | July 1-June 30.
Moose:
Unit 22(A)—1 bull; however, the period of Dec. 1-Jan. 31 is closed to hunting except by residents of Unit 22(A) only | Aug. 1-Sept. 30. Dec. 1-Jan. 31.
Unit 22(B)—1 bull | Aug. 1-Jan. 31.
Unit 22(C)—1 antlered bull | Sept. 1-Sept. 14.
Unit 22(D)—that portion within the Kuzitrin River drainage—1 antlered bull | Aug. 1-Jan. 31.
Unit 22(D)—remainder—1 moose; however, antlerless moose may be taken only from Dec. 1-Dec. 31; no person may take a cow accompanied by a calf | Aug. 1-Jan. 31.
Unit 22(E)—1 moose; no person may take a cow accompanied by a calf | Aug. 1-Mar. 31.
Muskox:
Unit 22(B)—1 bull by Federal permit or State Tier II permit. Federal public lands are closed to the taking of muskox except by Federally-qualified subsistence users. The total combined harvest may not exceed 8 bulls | Aug. 1-Mar. 15.
Unit 22(D)—That portion west of the Tisuk River drainage and Canyon Creek—1 muskox by Federal permit or State Tier II permit; however, cows may only be taken during the period Jan. 1-Mar. 15. Federal public lands are closed to the taking of muskox except by Federally-qualified subsistence users. Not more than 3 cows may be taken, and the total combined harvest may not exceed 7 animals | Sept. 1-Mar. 15.
Remainder of Unit 22(D)—1 muskox by Federal permit or State Tier II permit; however, cows may only be taken during the period Jan. 1-Mar. 15. Federal public lands are closed to the taking of muskox except by Federally-qualified subsistence users. Not more than 13 cows may be taken, and the total combined harvest may not exceed 32 animals | Aug. 1-Mar. 15.
Unit 22(E)—1 muskox by Federal permit or State Tier II permit; however, cows may only be taken during the period Jan. 1-Mar. 15. Federal public lands are closed to the taking of muskox except by Federally-qualified subsistence users. Not more than 14 cows may be taken, and the total combined harvest may not exceed 23 animals | Aug. 1-Mar. 15.
Unit 22—remainder | No open season.
Beaver:
Unit 22(A), (B), (D), and (E)—50 beaver | Nov. 1-June 10.
Unit 22—remainder | No open season.
Coyote: Federal public lands are closed to the taking of coyotes | No open season.
Fox, Arctic (Blue and White Phase): 2 foxes | Sept. 1-Apr. 30.
Fox, Red (including Cross, Black and Silver Phases): 10 foxes | Nov. 1-Apr. 15.
Hare (Snowshoe and Tundra): No limit | Sept. 1-Apr. 15.
Lynx: 2 lynx | Nov. 1-Apr. 15.
Marten:
Unit 22(A) 22(B)—No limit | Nov. 1-Apr. 15.
Unit 22—remainder | No open season.
Mink and Weasel: No limit | Nov. 1-Jan. 31.
Otter: No limit | Nov. 1-Apr. 15.
Wolf: No limit | Nov. 1-Apr. 15.
Wolverine: 3 wolverine | Sept. 1-Mar. 31.
Grouse (Spruce): 15 per day, 30 in possession | Aug. 10-Apr. 30.
Ptarmigan (Rock and Willow):
Unit 22(A) and 22(B) east of and including the Niukluk River drainage—40 per day, 80 in possession | Aug. 10-Apr. 30.
Unit 22(E)—20 per day, 40 in possession | July 15-May 15.
Unit 22 Remainder—20 per day, 40 in possession | Aug. 10-Apr. 30.
Trapping
Beaver:
Unit 22(A), (B), (D), and (E)—50 beaver | Nov. 1-June 10.
Unit 22(C) | No open season.
Coyote: Federal public lands are closed to the taking of coyotes | No open season.
Fox, Arctic (Blue and White Phase): No limit | Nov. 1-Apr. 15.
Fox, Red (including Cross, Black and Silver Phases): No limit | Nov. 1-Apr. 15.
Lynx: No limit | Nov. 1-Apr. 15.
Marten: No limit | Nov. 1-Apr. 15.
Mink and Weasel: No limit | Nov. 1-Jan. 31.
Muskrat: No limit | Nov. 1-June 10.
Otter: No limit | Nov. 1-Apr. 15.
Wolf: No limit | Nov. 1-Apr. 30.
Wolverine: No limit | Nov. 1-Apr. 15.

(23) Unit 23. (i) Unit 23 consists of Kotzebue Sound, Chukchi Sea, and Arctic Ocean drainages from and including the Goodhope River drainage to Cape Lisburne.

(ii) In the following areas, the taking of wildlife for subsistence uses is prohibited or restricted on public land:

(A) You may not use aircraft in any manner either for hunting of ungulates, bear, wolves, or wolverine, or for transportation of hunters or harvested species in the Noatak Controlled Use Area, which consists of that portion of Unit 23 in a corridor extending five miles on either side of the Noatak River beginning at the mouth of the Noatak River, and extending upstream to the mouth of Sapun Creek, is closed for the period August 25-September 15. This does not apply to the transportation of hunters or parts of ungulates, bear, wolves, or wolverine by regularly scheduled flights to communities by carriers that normally provide scheduled air service;

(B) You may hunt brown bear by State registration permit in lieu of a resident tag in the Northwest Alaska Brown Bear Management Area, which consists of Unit 22, except 22(C), those portions of Unit 23, except the Baldwin Peninsula north of the Arctic Circle, Unit 24, and Unit 26(A); if you have obtained a State registration permit prior to hunting. Aircraft may not be used in the Northwest Alaska Brown Bear Management Area in any manner for brown bear hunting under the authority of a brown bear State registration permit, including transportation of hunters, bears or parts of bears; however, this does not apply to transportation of bear hunters or bear parts by regularly scheduled flights to and between communities by carriers that normally provide scheduled service to this area, nor does it apply to transportation of aircraft to or between publicly owned airports.

(iii) Unit-specific regulations:

(A) You may take caribou from a boat moving under power in Unit 23;

(B) In addition to other restrictions on method of take found in this § __.26, you may also take swimming caribou with a firearm using rimfire cartridges;

(C) If you have a trapping license, you may take beaver with a firearm in all of Unit 23 from Nov. 1—Jun. 10;

(D) For the Baird and DeLong Mountain sheep hunts—A Federally-qualified subsistence user (recipient) may designate another Federally-qualified subsistence user to take sheep on his or her behalf unless the recipient is a member of a community operating under a community harvest system. The designated hunter must obtain a designated hunter permit and must return a completed harvest report. The designated hunter may hunt for any number of recipients but may have no more than two harvest limits in his/her possession at any one time;

(E) A snowmachine may be used to position a hunter to select individual caribou for harvest provided that the animals are not shot from a moving snowmachine.

Harvest limits | Open season
Hunting
Black Bear: 3 bears | July 1-June 30.
Brown Bear:
Unit 23—except the Baldwin Peninsula north of the Arctic Circle—1 bear by State registration permit | Sept. 1-May 31.
Unit 23—remainder—1 bear every four regulatory years | Sept. 1-Oct. 10. Apr. 15-May 25.
Caribou: 15 caribou per day; however, cow caribou may not be taken May 16-June 30 | July 1-June 30.
Sheep:
Unit 23-south of Rabbit Creek, Kyak Creek and the Noatak River, and west of the Cutler and Redstone Rivers (Baird Mountains)—1 ram with full curl or larger horns by Federal registration permit. The Superintendent of the Western Arctic National Parklands may issue permits for the harvest of up to 20 full curl rams, based on a quota to be announced locally after the annual sheep population survey is completed. Federal public lands are closed to the taking of sheep except by Federally-qualified subsistence users | Aug. 1-Sept. 30. The season will be closed when half of the quota has been harvested.
Unit 23—south of Rabbit Creek, Kyak Creek and the Noatak River, and west of the Cutler and Redstone Rivers (Baird Mountains)—1 ram with full curl or larger horns by Federal registration permit. The Superintendent of the Western Arctic National Parklands may issue permits for the harvest of up to 20 full curl rams, based on a quota to be announced locally after the annual sheep population survey is completed. Federal public lands are closed to the taking of sheep except by Federally-qualified subsistence users | Oct. 1-Apr. 1. The season will be closed when the total quota of sheep has been harvested including those harvested during the Aug. 1-Sept. 30 season.
Unit 23—north of Rabbit Creek, Kyak Creek and the Noatak River, and west of the Aniuk River (DeLong Mountains)—1 ram with full curl or larger horns by Federal registration permit. The Superintendent of the Western Arctic National Parklands may issue permits for the harvest of up to 10 full curl rams in the DeLong Mountains, Units 23 and 26(A), based on a quota to be announced locally after the annual sheep population survey is completed | Aug. 1-Sept. 30. The season will be closed when half of the quota has been harvested in the DeLong Mountains.
Unit 23—north of Rabbit Creek, Kyak Creek and the Noatak River, and west of the Aniuk River (DeLong Mountains)—1 ram with full curl or larger horns by Federal registration permit. The Superintendent of the Western Arctic National Parklands may issue permits for the harvest of up to 10 full curl rams in the DeLong Mountains, Units 23 and 26(A), based on a quota to be announced locally after the annual sheep population survey is completed | Oct. 1-Apr. 1. The season will be closed when the total quota of sheep has been harvested in the DeLong Mountains including those harvested during the Aug. 1-Sept. 30 season.
Unit 23, remainder (Schwatka Mountains)—1 ram with 7/8 curl horn or larger | Aug. 10-Sept. 20.
Unit 23, remainder (Schwatka Mountains)—1 sheep | Oct. 1-Apr. 30.
Moose:
Unit 23—that portion north and west of and including the Singoalik River drainage, and all lands draining into the Kukpuk and Ipewik Rivers—1 moose; no person may take a cow accompanied by a calf | July 1-Mar. 31.
Unit 23—that portion lying within the Noatak River drainage—1 moose; however, antlerless moose may be taken only from Nov. 1-Mar. 31; no person may take a cow accompanied by a calf | Aug. 1-Sept. 15. Oct. 1-Mar. 31.
Unit 23—remainder—1 moose; no person may take a cow accompanied by a calf | Aug. 1-Mar. 31.
Muskox:
Unit 23—south of Kotzebue Sound and west of and including the Buckland River drainage—1 muskox by Federal permit or State Tier II permit; however, cows may only be taken during the period Jan. 1-Mar. 15. Federal public lands are closed to the taking of muskox except by Federally-qualified subsistence users. Not more than 8 cows may be taken, and the total combined harvest may not exceed 13 animals | Aug. 1-Mar. 15.
Unit 23—remainder | No open season.
Coyote: 2 coyotes | Sept. 1-Apr. 30.
Fox, Arctic (Blue and White Phase): 2 foxes | Sept. 1-Apr. 30.
Fox, Red (including Cross, Black and Silver Phases): 10 foxes; however, no more than 2 foxes may be taken prior to Oct. 1 | Sept. 1-Mar. 15.
Hare: (Snowshoe and Tundra) No limit | July 1-June 30.
Lynx: 2 lynx | Dec. 1-Jan. 15.
Wolf: 5 wolves | Nov. 10-Mar. 31.
Wolverine: 1 wolverine | Sept. 1-Mar. 31.
Grouse (Spruce and Ruffed): 15 per day, 30 in possession | Aug. 10-Apr. 30.
Ptarmigan (Rock, Willow, and White-tailed): 20 per day, 40 in possession | Aug. 10-Apr. 30.
Trapping
Beaver:
Unit 23—the Kobuk and Selawik River drainages—50 beaver | July 1-June 30.
Unit 23—remainder—30 beaver | July 1-June 30.
Coyote: No limit | Nov. 1-Apr. 15.
Fox, Arctic (Blue and White Phase): No limit | Nov. 1-Apr. 15.
Fox, Red (including Cross, Black and Silver Phases): No limit | Nov. 1-Apr. 15.
Lynx: 3 lynx | Dec. 1-Jan. 15.
Marten: No limit | Nov. 1-Apr. 15.
Mink and Weasel: No limit | Nov. 1-Jan. 31.
Muskrat: No limit | Nov. 1-June. 10.
Otter: No limit | Nov. 1-Apr. 15.
Wolf: No limit | Nov. 1-Apr. 30.
Wolverine: No limit | Nov. 1-Apr. 15.

(24) Unit 24. (i) Unit 24 consists of the Koyukuk River drainage upstream from but not including the Dulbi River drainage.

(ii) In the following areas, the taking of wildlife for subsistence uses is prohibited or restricted on public land:

(A) You may not use firearms, snowmobiles, licensed highway vehicles or motorized vehicles, except aircraft and boats in the Dalton Highway Corridor Management Area, which consists of those portions of Units 20, 24, 25, and 26 extending 5 miles from each side of the Dalton Highway from the Yukon River to milepost 300 of the Dalton Highway, except as follows: Residents living within the Dalton Highway Corridor Management Area may use snowmobiles only for the subsistence taking of wildlife. You may use licensed highway vehicles only on designated roads within the Dalton Highway Corridor Management Area. The residents of Alatna, Allakaket, Anaktuvuk Pass, Bettles, Evansville, Stevens Village, and residents living within the Corridor may use firearms within the Corridor only for subsistence taking of wildlife;

(B) You may not use aircraft for hunting moose, including transportation of any moose hunter or moose part in the Kanuti Controlled Use Area, which consists of that portion of Unit 24 bounded by a line from the Bettles Field VOR to the east side of Fish Creek Lake, to Old Dummy Lake, to the south end of Lake Todatonten (including all waters of these lakes), to the northernmost headwaters of Siruk Creek, to the highest peak of Double Point Mountain, then back to the Bettles Field VOR; however, this does not apply to transportation of a moose hunter or moose part by aircraft between publicly owned airports in the controlled use area or between a publicly owned airport within the area and points outside the area;

(C) You may not use aircraft for hunting moose, including transportation of any moose hunter or moose part in the Koyukuk Controlled Use Area, which consists of those portions of Units 21 and 24 bounded by a line from the north bank of the Yukon River at Koyukuk, then northerly to the confluences of the Honhosa and Kateel Rivers, then northeasterly to the confluences of Billy Hawk Creek and the Huslia River (65°57' N. lat., 156°41' W. long.), then easterly to the south end of Solsmunket Lake, then east to Hughes, then south to Little Indian River, then southwesterly to the crest of Hochandochtla Mountain, then southwest to the mouth of Cottonwood Creek, then southwest to Bishop Rock, then westerly along the north bank of the Yukon River (including Koyukuk Island) to the point of beginning; however, this does not apply to transportation of a moose hunter or moose part by aircraft between publicly owned airports in the controlled use area or between a publicly owned airport within the area and points outside the area; all hunters on the Koyukuk River passing the ADF&G operated check station at Ella's Cabin (15 miles upstream from the Yukon on the Koyukuk River) are required to stop and report to ADF&G personnel at the check station;

(D) You may hunt brown bear by State registration permit in lieu of a resident tag in the Northwest Alaska Brown Bear Management Area, which consists of Unit 22, except 22(C), those portions of Unit 23, except the Baldwin Peninsula north of the Arctic Circle, Unit 24, and Unit 26(A), if you have obtained a State registration permit prior to hunting. You may not use aircraft in the Northwest Alaska Brown Bear Management Area in any manner for brown bear hunting under the authority of a brown bear State registration permit, including transportation of hunters, bears or parts of bears. However, this does not apply to transportation of bear hunters or bear parts by regularly scheduled flights to and between communities by carriers that normally provide scheduled service to this area, nor does it apply to transportation of aircraft to or between publicly owned airports.

(iii) Unit-specific regulations:

(A) You may use bait to hunt black bear between April 15 and June 30; and in the Koyukuk Controlled Use Area, you may also use bait to hunt black bear between September 1 and September 25;

(B) Arctic fox, incidentally taken with a trap or snare intended for red fox, may be used for subsistence purposes.

Harvest limits | Open season
Hunting
Black Bear: 3 bears | July 1-June 30.
Brown Bear: Unit 24—1 bear by State registration permit | Sept. 1-June 15.
Caribou:
Unit 24—that portion south of the south bank of the Kanuti River, upstream from and including that portion of the Kanuti-Kilolitna River drainage, bounded by the southeast bank of the Kodosin-Nolitna Creek, then downstream along the east bank of the Kanuti-Kilolitna River to its confluence with the Kanuti River—1 caribou | Aug. 10-Mar. 31.
Remainder of Unit 24—5 caribou per day; however, cow caribou may not be taken May 16-June 30 | July 1-June 30.
Sheep:
Unit 24—(Anaktuvuk Pass residents only)—that portion within the Gates of the Arctic National Park—community harvest quota of 60 sheep, no more than 10 of which may be ewes and a daily possession limit of 3 sheep per person no more than 1 of which may be a ewe | July 15-Dec. 31.
Unit 24—(excluding Anaktuvuk Pass residents)—that portion within the Gates of the Arctic National Park—3 sheep | Aug. 1-Apr. 30.
Unit 24—that portion within the Dalton Highway Corridor Management Area; except, Gates of the Arctic National Park—1 ram with ⅞ curl horn or larger by Federal registration permit only | Aug. 1-Apr. 30.
Unit 24—remainder—1 ram with ⅞ curl horn or larger | Aug. 10-Sept. 20.
Moose:
Unit 24—that portion within the Koyukuk Controlled Use Area—1 moose; however, antlerless moose may only be taken during the periods of Aug. 27-31, Dec. 1-Dec. 10, and Mar. 1-Mar. 10. During Aug. 27-Sept. 20, State registration permit is required | Aug. 17-Sept. 20 Dec. 1-Dec. 10 Mar. 1-Mar. 10.
Unit 24—that portion that includes the John River drainage within the Gates of the Arctic National Park—1 moose | Aug. 1-Dec. 31.
Unit 24—the Alatna River drainage within the Gates of the Arctic National Park—1 moose; however, antlerless moose may be taken only from Sept. 21-Sept. 25 and Mar.1-Mar. 10 | Aug. 25-Dec. 31 Mar. 1-Mar. 10
Unit 24—all drainages to the north of the Koyukuk River upstream from and including the Alatna River to and including the North Fork of the Koyukuk River, except those portions of the John River and the Alatna River drainages within the Gates of the Arctic National Park—1 moose; however, antlerless moose may be taken only from Sept. 21-Sept. 25 and Mar. 1-Mar. 10 | Aug. 25-Sept. 25. Mar. 1-Mar. 10
Unit 24—that portion within the Dalton Highway Corridor Management Area; except, Gates of the Arctic National Park—1 antlered bull by Federal registration permit only | Aug. 25 -Sept. 25.
Unit 24—remainder—1 antlered bull. Public lands in the Kanuti Controlled Use Area are closed to taking of moose, except by eligible rural Alaska residents | Aug. 25-Sept. 25.
Coyote: 10 coyotes; however, no more than 2 coyotes may be taken before October 1 | Sept. 1-Apr. 30.
Fox, Red (including Cross, Black and Silver Phases): 10 foxes; however, no more than 2 foxes may be taken prior to Oct. 1 | Sept. 1-Mar. 15.
Hare (Snowshoe): No limit | July 1-June 30.
Lynx: 2 lynx | Nov. 1-Feb. 28.
Wolf: 5 wolves | Aug. 10-Apr. 30.
Wolverine: 1 wolverine | Sept. 1-Mar. 31.
Grouse (Spruce, Ruffed, and Sharp-tailed): 15 per day, 30 in possession | Aug. 10-Apr. 30.
Ptarmigan (Rock and Willow): 20 per day, 40 in possession | Aug. 10-Apr. 30.
Trapping
Beaver: No limit | Nov. 1-June 10.
Coyote: No limit | Nov. 1-Mar. 31.
Fox, Red (including Cross, Black and Silver Phases): No limit | Nov. 1-Feb. 28.
Lynx: No limit | Nov. 1-Feb. 28.
Marten: No limit | Nov. 1-Feb. 28.
Mink and Weasel: No limit | Nov. 1-Feb. 28.
Muskrat: No limit | Nov. 1-June 10.
Otter: No limit | Nov. 1-Apr. 15.
Wolf: No limit | Nov. 1-Apr. 30.
Wolverine: No limit | Nov. 1-Mar. 31.

(25) Unit 25. (i) Unit 25 consists of the Yukon River drainage upstream from but not including the Hamlin Creek drainage, and excluding drainages into the south bank of the Yukon River upstream from the Charley River:

(A) Unit 25(A) consists of the Hodzana River drainage upstream from the Narrows, the Chandalar River drainage upstream from and including the East Fork drainage, the Christian River drainage upstream from Christian, the Sheenjek River drainage upstream from and including the Thluichohnjik Creek, the Coleen River drainage, and the Old Crow River drainage;

(B) Unit 25(B) consists of the Little Black River drainage upstream from but not including the Big Creek drainage, the Black River drainage upstream from and including the Salmon Fork drainage, the Porcupine River drainage upstream from the confluence of the Coleen and Porcupine Rivers, and drainages into the north bank of the Yukon River upstream from Circle, including the islands in the Yukon River;

(C) Unit 25(C) consists of drainages into the south bank of the Yukon River upstream from Circle to the Subunit 20(E) boundary, the Birch Creek drainage upstream from the Steese Highway bridge (milepost 147), the Preacher Creek drainage upstream from and including the Rock Creek drainage, and the Beaver Creek drainage upstream from and including the Moose Creek drainage;

(D) Unit 25(D) consists of the remainder of Unit 25.

(ii) In the following areas, the taking of wildlife for subsistence uses is prohibited or restricted on public land:

(A) You may not use firearms, snowmobiles, licensed highway vehicles or motorized vehicles, except aircraft and boats in the Dalton Highway Corridor Management Area, which consists of those portions of Units 20, 24, 25, and 26 extending 5 miles from each side of the Dalton Highway from the Yukon River to milepost 300 of the Dalton Highway, except as follows: Residents living within the Dalton Highway Corridor Management Area may use snowmobiles only for the subsistence taking of wildlife. You may use licensed highway vehicles only on designated roads within the Dalton Highway Corridor Management Area. The residents of Alatna, Allakaket, Anaktuvuk Pass, Bettles, Evansville, Stevens Village, and residents living within the Corridor may use firearms within the Corridor only for subsistence taking of wildlife;

(B) The Arctic Village Sheep Management Area consists of that portion of Unit 25(A) north and west of Arctic Village, which is bounded on the east by the East Fork Chandalar River beginning at the confluence of Red Sheep Creek and proceeding southwesterly downstream past Arctic Village to the confluence with Crow Nest Creek, continuing up Crow Nest Creek, through Portage Lake, to its confluence with the Junjik River; then down the Junjik River past Timber Lake and a larger tributary, to a major, unnamed tributary, northwesterly, for approximately 6 miles where the stream forks into 2 roughly equal drainages; the boundary follows the easternmost fork, proceeding almost due north to the headwaters and intersects the Continental Divide; the boundary then follows the Continental Divide easterly, through Carter Pass, then easterly and northeasterly approximately 62 miles along the divide to the head waters of the most northerly tributary of Red Sheep Creek then follows southerly along the divide designating the eastern extreme of the Red Sheep Creek drainage then to the confluence of Red Sheep Creek and the East Fork Chandalar River.

(iii) Unit-specific regulations:

(A) You may use bait to hunt black bear between April 15 and June 30;

(B) You may take caribou and moose from a boat moving under power in Unit 25;

(C) The taking of bull moose outside the seasons provided in this part for food in memorial potlatches and traditional cultural events is authorized in Unit 25(D) west provided that:

(1) The person organizing the religious ceremony or cultural event contact the Refuge Manager, Yukon Flats National Wildlife Refuge prior to taking or attempting to take bull moose and provide to the Refuge Manager the name of the decedent, the nature of the ceremony or cultural event, number to be taken, the general area in which the taking will occur;

(2) Each person who takes a bull moose under this section must submit a written report to the Refuge Manager, Yukon Flats National Wildlife Refuge not more than 15 days after the harvest specifying the harvester's name and address, and the date(s) and location(s) of the taking(s);

(3) No permit or harvest ticket is required for taking under this section; however, the harvester must be an Alaska rural resident with customary and traditional use in Unit 25(D) west;

(4) Any moose taken under this provision counts against the annual quota of 60 bulls.

Harvest limits | Open season
Hunting
Black Bear: 3 bears | July 1-June 30.
Brown Bear:
Unit 25(D)—1 bear | July 1-June 30.
Unit 25—remainder—1 bear | Sept. 1-May 31.
Caribou:
Unit 25(C)—that portion west of the east bank of the mainstem of Preacher Creek to its confluence with American Creek, then west of the east bank of American Creek—1 caribou. However, during the November 1-Mar. 31 season, a State registration permit is required | Aug. 10-Sept. 20. Nov. 1-Mar. 31.
25(C)—remainder—1 caribou by joint State/Federal registration permit only. The fall season will close when a combined State/Federal harvest of 225 caribou has been been reached. The winter season will close when the combined quota of 210 caribou for Units 20(E) and 25(C) Remainder has been reached. The season closures will be announced by the Northern Field Office Manager, Bureau of Land Management after consultation with the National Park Service and Alaska Department of Fish and Game | Aug. 10-Sept. 30. Nov. 1-Feb. 28.
Unit 25 (D)—that portion of Unit 25(D) drained by the west fork of the Dall River west of 150°W. long.—1 bull | Aug. 10-Sept. 30. Dec. 1-Dec. 31.
Unit 25(A), (B), and the remainder of Unit 25(D)—10 caribou | July 1-Apr. 30.
Sheep:
Unit 25(A)—that portion within the Dalton Highway Corridor Management Area | No open season.
Units 25(A)—Arctic Village Sheep Management Area—2 rams by Federal registration permit only. Public lands are closed to the taking of sheep except by rural Alaska residents of Arctic Village, Venetie, Fort Yukon, Kaktovik, and Chalkytsik during seasons identified above | Aug. 10-Apr. 30.
Unit 25(A)—remainder—3 sheep by Federal registration permit only | Aug. 30-Apr. 30.
Moose:
Unit 25(A)—1 antlered bull | Aug. 25-Sept. 25. Dec. 1-Dec. 10.
Unit 25(B)—that portion within Yukon Charley National Preserve—1 bull | Aug. 20-Sept. 30.
Unit 25(B)—that portion within the Porcupine River drainage upstream from, but excluding the Coleen River drainage—1 antlered bull | Aug. 25-Sept. 30. Dec. 1-Dec. 10.
Unit 25(B)—that portion, other than Yukon Charley National Preserve, draining into the north bank of the Yukon River upstream from and including the Kandik River drainage, including the islands in the Yukon River—1 antlered bull | Sept. 5-Sept. 30. Dec. 1-Dec. 15.
Unit 25(B)—remainder—1 antlered bull | Aug. 25-Sept. 25. Dec. 1-Dec. 15.
Unit 25(C)—1 antlered bull | Sept. 1-Sept. 15.
Unit 25(D)(West)—that portion lying west of a line extending from the Unit 25(D) boundary on Preacher Creek, then downstream along Preacher Creek, Birch Creek and Lower Mouth Birch Creek to the Yukon River, then downstream along the north bank of the Yukon River (including islands) to the confluence of the Hadweenzik River, then upstream along the west bank of the Hadweenzik River to the confluence of Forty and One-Half Mile Creek, then upstream along Forty and One-Half Mile Creek to Nelson Mountain on the Unit 25(D) boundary—1 bull by a Federal registration permit. Alternate permits allowing for designated hunters are available to qualified applicants who reside in Subunit 25(D) West. Permits will be available in the following villages: Beaver (25 permits), Birch Creek (10 permits), and Stevens Village (25 permits). Additional permits for residents of 25(D)West who do not live in one of the three villages will be available by contacting the Yukon Flats National Wildlife Refuge Office in Fairbanks or a local Refuge Information Technician. Moose hunting on public land in Unit 25(D)(West) is closed at all times except for residents of Unit 25(D) West during seasons identified above. The moose season will be closed when 60 moose have been harvested in the entirety (from Federal and non-Federal lands) of Unit 25(D)(West) | Aug. 25-Feb. 28.
Unit 25(D)—remainder—1 antlered moose | Aug. 25-Sept. 25. Dec. 1-Dec. 20.
Beaver:
Unit 25, excluding Unit 25(C)—1 beaver per day; 1 in possession | Apr. 16-Oct. 31.
Unit 25(C) | No Federal open season.
Coyote: 2 coyotes | Sept. 1-Apr. 30.
Fox, Red (including Cross, Black and Silver Phases): 10 foxes; however, no more than 2 foxes may be taken prior to Oct. 1 | Sept. 1-Mar. 15.
Hare (Snowshoe): No limit | July 1-June 30.
Lynx:
Unit 25(C)—2 lynx | Dec. 1-Jan. 31.
Unit 25—remainder—2 lynx | Nov. 1-Feb. 28.
Wolf:
Unit 25(A)—No limit | Aug. 10-Apr. 30.
Remainder of Unit 25—10 wolves | Aug. 10-Apr. 30.
Wolverine: 1 wolverine | Sept. 1-Mar. 31.
Grouse (Spruce, Ruffed, and Sharp-tailed):
Unit 25(C)—15 per day, 30 in possession | Aug. 10-Mar. 31.
Unit 25—remainder—15 per day, 30 in possession | Aug. 10-Apr. 30.
Ptarmigan (Rock and Willow):
Unit 25(C)—those portions within 5 miles of Route 6 (Steese Highway)—20 per day, 40 in possession | Aug. 10-Mar. 31.
Unit 25—remainder—20 per day, 40 in possession | Aug. 10-Apr. 30.
Trapping
Beaver:
Unit 25(C)—No limit | Nov. 1-Apr. 15.
Unit 25—remainder—50 beaver | Nov. 1-Apr. 15.
Coyote: No limit | Nov. 1-Mar. 31.
Fox, Red (including Cross, Black and Silver Phases): No limit | Nov. 1-Feb. 28.
Lynx: No limit | Nov. 1-Feb. 28.
Marten: No limit | Nov. 1-Feb. 28.
Mink and Weasel: No limit | Nov. 1-Feb. 28.
Muskrat: No limit | Nov. 1-June 10.
Otter: No limit | Nov. 1-Apr. 15.
Wolf: No limit | Nov. 1-Apr. 30.
Wolverine:
Unit 25(C)—No limit | Nov. 1-Feb. 28.
Unit 25—remainder—No limit | Nov. 1-Mar. 31.

(26) Unit 26. (i) Unit 26 consists of Arctic Ocean drainages between Cape Lisburne and the Alaska-Canada border including the Firth River drainage within Alaska:

(A) Unit 26(A) consists of that portion of Unit 26 lying west of the Itkillik River drainage and west of the east bank of the Colville River between the mouth of the Itkillik River and the Arctic Ocean;

(B) Unit 26(B) consists of that portion of Unit 26 east of Unit 26(A), west of the west bank of the Canning River and west of the west bank of the Marsh Fork of the Canning River;

(C) Unit 26(C) consists of the remainder of Unit 26.

(ii) In the following areas, the taking of wildlife for subsistence uses is prohibited or restricted on public land:

(A) You may not use aircraft in any manner for moose hunting, including transportation of moose hunters or parts of moose from Aug. 1-Aug. 31 and from Jan. 1-Mar. 31 in Unit 26(A). No hunter may take or transport a moose, or part of a moose in Unit 26(A) after having been transported by aircraft into the unit. However, this does not apply to transportation of moose hunters or moose parts by regularly scheduled flights to and between villages by carriers that normally provide scheduled service to this area, nor does it apply to transportation by aircraft to or between publicly owned airports;

(B) You may not use firearms, snowmobiles, licensed highway vehicles or motorized vehicles, except aircraft and boats in the Dalton Highway Corridor Management Area, which consists of those portions of Units 20, 24, 25, and 26 extending 5 miles from each side of the Dalton Highway from the Yukon River to milepost 300 of the Dalton Highway, except as follows: Residents living within the Dalton Highway Corridor Management Area may use snowmobiles only for the subsistence taking of wildlife. You may use licensed highway vehicles only on designated roads within the Dalton Highway Corridor Management Area. The residents of Alatna, Allakaket, Anaktuvuk Pass, Bettles, Evansville, Stevens Village, and residents living within the Corridor may use firearms within the Corridor only for subsistence taking of wildlife;

(C) You may hunt brown bear by State registration permit in lieu of a resident tag in the Northwest Alaska Brown Bear Management Area, which consists of Unit 22, except 22(C), those portions of Unit 23, except the Baldwin Peninsula north of the Arctic Circle, Unit 24, and Unit 26(A), if you have obtained a State registration permit prior to hunting. You may not use aircraft in the Northwest Alaska Brown Bear Management Area in any manner for brown bear hunting under the authority of a brown bear State registration permit, including transportation of hunters, bears or parts of bears. However, this does not apply to transportation of bear hunters or bear parts by regularly scheduled flights to and between communities by carriers that normally provide scheduled service to this area, nor does it apply to transportation of aircraft to or between publicly owned airports.

(iii) Unit-specific regulations:

(A) You may take caribou from a boat moving under power in Unit 26;

(B) In addition to other restrictions on method of take found in this § _.26, you may also take swimming caribou with a firearm using rimfire cartridges;

(C) In Kaktovik, a Federally-qualified subsistence user (recipient) may designate another Federally-qualified subsistence user to take sheep on his or her behalf unless the recipient is a member of a community operating under a community harvest system. The designated hunter must obtain a designated hunter permit and must return a completed harvest report. The designated hunter may hunt for any number of recipients but may have no more than two harvest limits in his/her possession at any one time;

(D) For the DeLong Mountain sheep hunts—A Federally-qualified subsistence user (recipient) may designate another Federally-qualified subsistence user to take sheep on his or her behalf unless the recipient is a member of a community operating under a community harvest system. The designated hunter must obtain a designated hunter permit and must return a completed harvest report. The designated hunter may hunt for any number of recipients but may have no more than two harvest limits in his/her possession at any one time.

Harvest limits | Open season
Hunting
Black Bear: 3 bears. | July 1-June 30.
Brown Bear:
Unit 26(A)—1 bear by State registration permit | Sept. 1-May 31.
Unit 26(B) and (C)—1 bear | Sept. 1-May 31.
Caribou:
Unit 26(A)—10 caribou per day; however, cow caribou may not be taken May 16-June 30. Federal lands south of the Colville River and east of the Killik River are closed to the taking of caribou by non-Federally qualified subsistence users from Aug. 1- Sept. 30 | July 1-June 30.
Unit 26(B)—10 caribou per day; however, cow caribou may be taken only from Oct. 1-Apr. 30 | July 1-June 30.
Unit 26(C)—10 caribou per day | July 1-Apr. 30.
You may not transport more than 5 caribou per regulatory year from Unit 26 except to the community of Anaktuvuk Pass
Sheep:
Unit 26(A) and (B)—(Anaktuvuk Pass residents only)—that portion within the Gates of the Arctic National Park—community harvest quota of 60 sheep, no more than 10 of which may be ewes and a daily possession limit of 3 sheep per person no more than 1 of which may be a ewe | July 15- Dec. 31.
Unit 26(A)—(excluding Anaktuvuk Pass residents)—those portions within the Gates of the Arctic National Park—3 sheep | Aug. 1-Apr. 30.
Unit 26(A)—that portion west of Howard Pass and the Etivluk River (DeLong Mountains)—1 ram with full curl or larger horns by Federal registration permit. The Superintendent of the Western Arctic National Parklands may issue permits for the harvest of up to 10 full curl rams in the DeLong Mountains, Units 23 and 26(A), based on a quota to be announced locally after the annual sheep population survey is completed | Aug. 1- Sept. 30. The season will be closed when half of the quota has been harvested in the DeLong Mountains.
Unit 26(A)—that portion west of Howard Pass and the Etivluk River (DeLong Mountains)—1 ram with full curl or larger horns by Federal registration permit. The Superintendent of the Western Arctic National Parklands may issue permits for the harvest of up to 10 full curl rams in the DeLong Mountains, Units 23 and 26(A), based on a quota to be announced locally after the annual sheep population survey is completed | Oct. 1-Apr. 1. The season will be closed when the total quota of sheep has been harvested during the Aug. 1-Sept. 30 season.
Unit 26(B)—that portion within the Dalton Highway Corridor Management Area—1 ram with ⅞ curl horn or larger by Federal registration permit only | Aug. 10-Sept. 20.
Unit 26(A)—remainder and 26(B)—remainder—including the Gates of the Arctic National Preserve—1 ram with ⅞ curl horn or larger | Aug. 10-Sept. 20.
Unit 26(C)—3 sheep per regulatory year; the Aug. 10-Sept. 20 seasonis restricted to 1 ram with ⅞ curl horn or larger. A Federal registration permit is required for the Oct. 1-Apr. 30 season | Aug. 10-Sept. 20. Oct. 1-Apr.
Moose:
Unit 26(A)—that portion of the Colville River drainage downstream from the mouth of the Anaktuvuk River—1 bull. Federal public lands are closed to the taking of moose by non-Federally qualified subsistence users | Aug. 1-31.
Unit 26—remainder | No open season.
Muskox:
Unit 26(C)—1 muskox by Federal registration permit only; 12 permits for bulls and 3 permits for cows may be issued to rural Alaska residents of the village of Kaktovik only. However, cows may be taken only from September 15-March 31. Public lands are closed to the taking of muskox, except by rural Alaska residents of the village of Kaktovik during open seasons | July 15-Mar. 31.
Coyote: 2 coyotes | Sept. 1-Apr. 30.
Fox, Arctic (Blue and White Phase): 2 foxes | Sept. 1-Apr. 30.
Fox, Red (including Cross, Black and Silver Phases):
Unit 26(A) and (B)—10 foxes; however, no more than 2 foxes may be taken prior to Oct. 1 | Sept. 1-Mar. 15.
Unit 26(C)—10 foxes | Nov. 1-Apr. 15.
Hare (Snowshoe and Tundra): No limit | July 1-June 30.
Lynx: 2 lynx | Nov. 1-Apr. 15.
Wolf: 15 wolves | Aug. 10-Apr. 30.
Wolverine: 5 wolverine | Sept. 1-Mar. 31.
Ptarmigan (Rock and Willow): 20 per day, 40 in possession | Aug. 10-Apr. 30.
Trapping
Coyote: No limit | Nov. 1-Apr. 15.
Fox, Arctic (Blue and White Phase): No limit | Nov. 1-Apr. 15.
Fox, Red (including Cross, Black and Silver Phases): No limit | Nov. 1-Apr. 15.
Lynx: No limit | Nov. 1-Apr. 15.
Marten: No limit | Nov. 1-Apr. 15.
Mink and Weasel: No limit | Nov. 1-Jan. 31.
Muskrat: No limit | Nov. 1-June 10.
Otter: No limit | Nov. 1-Apr. 15.
Wolf: No limit | Nov. 1-Apr. 30.
Wolverine: No limit | Nov. 1-Apr. 15.

Dated: July 23, 2001.
Kenneth E. Thompson,
Subsistence Program Manager, USDA-Forest Service.
Thomas H. Boyd,
Acting Chair, Federal Subsistence Board.

[FR Doc. 01-21129 Filed 8-24-01; 8:45 am]

BILLING CODE 3410-11-P, 4310-55-P